DEPARTMENT OF STATE

[Public Notice: 8944]

Office of the Chief of Protocol; Gifts to Federal Employees From Foreign Government Sources Reported to Employing Agencies in Calendar Year 2013

The Department of State submits the following comprehensive listing of the statements which, as required by law, Federal employees filed with their employing agencies during calendar year 2013 concerning gifts received from foreign government sources. The compilation includes reports of both tangible gifts and gifts of travel or travel expenses of more than minimal value, as defined by statute. Also, included are gifts received in previous years including one gift in 2003, one gift in 2007, one gift in 2008, nine gifts in 2009, eight gifts in 2010, nineteen gifts in 2011, twenty gifts in 2012, and eight gifts with unknown dates. These latter gifts are being reported in 2013 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: October 23, 2014.
Patrick F. Kennedy,
Under Secretary for Management, Department of State.

AGENCY: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Barack Obama, President of the United States | Calligraphy art by Hoin Yamoda. Calligraphy by Douzen Ueno. Rec'd—10/22/2012. Est. Value—$920.00. Disposition—National Archives and Records Administration | His Excellency Takeo Akiba, Minister of Political Affairs of the Embassy of Japan | Non-acceptance would cause embarrassment to donor and U.S. Government.
The Honorable Barack Obama, President of the United States | 41″ × 51″ framed sketch of President Obama on canvas in monochrome by Praseart Sriratchatchawan. Rec'd—11/16/2012. Est. Value—$1,600.00 Disposition—National Archives and Records Administration | Mr. Somnuk Thanadechakul, Mayor of Nonthaburi Municipality, the Kingdom of Thailand | Non-acceptance would cause embarrassment to donor and U.S. Government.
The Honorable Barack Obama, President of the United States | Kutani porcelain Henko jar depicting dogtooth violets and a sparrow against a white background by Toshito Nakamura accompanied with a dusting cloth. Rec'd—1/11/2013. Est. Value—$765.00. Disposition—National Archives and Records Administration | His Excellency Kenichiro Sasae, Ambassador of Japan to the United States | Non-acceptance would cause embarrassment to donor and U.S. Government.
The Honorable Barack Obama, President of the United States | Book, title: “L'Italia Unita: 150 Anniversario Unita d'Italia” with light brown leather binding and slip case. Small silver and blue picture frame with red corners. Rec'd—2/14/2013. Est. Value—$1,250.00. Disposition—National Archives and Records Administration | His Excellency Giorgio Napolitano, President of the Italian Republic | Non-acceptance would cause embarrassment to donor and U.S. Government.
The Honorable Barack Obama, President of the United States | Wakasa-nuri lacquered pen made in Obama City, Japan, with red and gold detail. Rec'd—2/22/2013. Est. Value—$640.00. Disposition—National Archives and Records Administration | The Honorable Koji Matsuzaki, Mayor of Obama City of Japan | Non-acceptance would cause embarrassment to donor and U.S. Government.
The Honorable Barack Obama, President of the United States | Large silver platter engraved with city scene and inscription. Large woven rug in red, white, green, and black. Rec'd—3/12/2013. Est. Value—$800.00. Disposition—National Archives and Records Administration | His Excellency Ali Zeidan, Prime Minister of Libya | Non-acceptance would cause embarrassment to donor and U.S. Government.
The Honorable Barack Obama, President of the United States | Gold decorated round box with inscribed lid, lined with red velvet. Rec'd—3/12/2013. Est. Value—$490.00. Disposition—National Archives and Records Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable Barack Obama, President of the United States | Silver covered plate commemorating the International Day of Nowruz. Rec'd—3/16/2013. Est. Value—$425.00. Disposition—National Archives and Records Administration | His Excellency Dyusen Kaseinov, General Secretary of Turksoy | Non-acceptance would cause embarrassment to donor and U.S. Government.
The Honorable Barack Obama, President of the United States | Crystal bowl with Saint Patrick's Day 2013 inscription and shamrock detail by Sean Egan. Limited-edition book, title: “On Canaan's Side” with inscription, signed by the author. Leather-bound book, title: “Atlas Of The Great Irish Famine” signed by the donor. Framed poem, title: “The Lakeisle of Innisfree”. Rec'd—3/18/2013. Est. Value—$1,807.00. Disposition—National Archives and Records Administration | His Excellency Enda Kenny, Taoiseach of Ireland, and Mrs. Fionnuala Kenny | Non-acceptance would cause embarrassment to donor and U.S. Government.
The Honorable Barack Obama, President of the United States | 0.04 square millimeters engraved small chip with side-by-side texts of the United States and Israeli Declarations of Independence affixed to a 1″ × 1″ Jerusalem stone, all contained in display box with magnifying view piece. Rec'd—3/20/2013. Est. Value—$2,700.00. Disposition—National Archives and Records Adminsitration | His Excellency Benjamin Netanyahu, Prime Minister of the State of Israel, and Mrs. Sara Netanyahu | Non-acceptance would cause embarrassment to donor and U.S. Government.
The Honorable Barack Obama, President of the United States | Painting of President Obama juxtaposed with President Lincoln with gold border. Photo album of President Obama's visit to the West Bank bound in green leather with gold accents and emblem of Palestinian Authority. Photo of Palestinian-American veterans marching in parade in Chicago, Illinois. Olive wood carved manger scene. Rec'd—3/21/2013. Est. Value—$414.00. Disposition—National Archives and Records Administration. Olive wood handled pursuant to United States Secret Service policy | His Excellency Mahmoud Abbas, President of the Palestinian Authority | Non-acceptance would cause embarrassment to donor and U.S. Government.
The Honorable Barack Obama, President of the United States | Clock depicting United States and Israeli times and temperatures with presentation plaque. Framed Medal of Distinction and framed certificate honoring President Obama. Rec'd—3/22/2013. Est. Value—$835.00. Disposition—National Archives and Records Administration | His Excellency Shimon Peres, President of the State of Israel | Non-acceptance would cause embarrassment to donor and U.S. Government.
The Honorable Barack Obama, President of the United States | Woodcut statue of the angel Gabriel and the Star of Bethlehem. Rec'd—3/25/2013. Est. Value—$1,380.00. Disposition—National Archives and Records Administration | Ms. Vera Baboun, Mayor of Bethlehem | Non-acceptance would cause embarrassment to donor and U.S. Government.
The Honorable Barack Obama, President of the United States | Two 8″ × 5″ multi-colored porcelain Chinese temple dogs. Rec'd—3/26/2013. Est. Value—$450.00. Disposition—National Archives and Records Adminstration | His Excellency Wang Qishan, Secretary of the Central Commission for Discipline Inspection of the Communist Party of China | Non-acceptance would cause embarrassment to donor and U.S. Government.
The Honorable Barack Obama, President of the United States | Four traditional Senegalese outfits in black, purple, white, and beige. 14″ bronze sculpture of a horse with rider holding a sword. Rec'd—3/28/2013. Est. Value—$1,420.00. Disposition—Clothing at National Archives and Records Administration. Sculpture retained for official use only | His Excellency Macky Sall, President of the Republic of Senegal | Non-acceptance would cause embarrassment to donor and U.S. Government.
The Honorable Barack Obama, President of the United States | Brown upholstered chair with footrest. Rec'd—4/1/2013. Est. Value—$4,000.00. Disposition—Retained for official use only | His Excellency Lee Hsien Loong, Prime Minister of the Republic of Singapore | Non-acceptance would cause embarrassment to donor and U.S. Government.
The Honorable Barack Obama, President of the United States | Large gold-inlaid jar in “Five Oxen” design from a historical Tang Dynasty picture. Rec'd—4/12/2013. Est. Value—$1,800.00. Disposition—National Archives and Records Administration | His Excellency Cui Tiankai, Ambassdor of the People's Republic of China to the United States | Non-acceptance would cause embarrassment to donor and U.S. Government.
The Honorable Barack Obama, President of the United States | Circular silver platter engraved with major world cities and global positioning coordinates with distance from the State of Qatar. Rec'd—4/23/2013. Est. Value—$6,500.00. Disposition—National Achives and Records Administration | His Highness Sheikh Hamad Bin Khalifa Al Thani, Amir of the State of Qatar | Non-acceptance would cause embarrassment to donor and U.S. Government.
The Honorable Barack Obama, President of the United States | Framed photograph of President Obama and King Abdullah II, signed by His Majesty. Hardcover book, title: “Madi: A Boundless Life.” 2012 limited-edition print of seated man with plant by Hussein Madi. Photo album of President Obama's visit to the Hashemite Kingdom of Jordan. Rec'd—5/2/2013. Est. Value—$1,535.00. Disposition—National Archives and Records Administration | His Majesty King Abdullah II ibn Al Hussein, King of the Hashemite Kingdom of Jordan | Non-acceptance would cause embarrassment to donor and U.S. Government.
The Honorable Barack Obama, President of the United States | 26.5″ × 34″ neo-pop art style print of the National Theater in San Jose, Costa Rica by Carolina Rodriguez. Rec'd—5/3/2013. Est. Value—$590.00. Disposition—National Archives and Records Administration | Her Excellency Laura Chinchilla Miranda, President of the Republic of Costa Rica | Non-acceptance would cause embarrassment to donor and U.S. Government.
The Honorable Barack Obama, President of the United States | Glass sculpture of a woman carrying a jug on wooden base with gold etching. Rec'd—5/3/2013. Est. Value—$490.00. Disposition—National Archives and Records Administration | His Excellency Mauricio Funes, President of the Republic of El Salvador | Non-acceptance would cause embarrassment to donor and U.S. Government.
The Honorable Barack Obama, President of the United States | 23″ × 20″ Turkish calligraphy version of “Barak Huseyin Obama” with tezhip border and gold frame. Rec'd—5/15/2013. Est. Value—$1,200.00. Disposition—National Archives and Records Administration | His Excellency Recep Tayyip Erdoğan, Prime Minister of the Republic of Turkey | Non-acceptance would cause embarrassment to donor and U.S. Government.
The Honorable Barack Obama, President of the United States | 20″ × 1″ porcelain oval-shaped vase with black monochrome scene of mountains and trees and square hollow wood plinth. Rec'd—6/7/2013. Est. Value—$1,400.00. Disposition—National Archives and Records Administration | His Excellency Xi Jinping, President of the People's Republic of China | Non-acceptance would cause embarrassment to donor and U.S. Government.
The Honorable Barack Obama, President of the United States | Blue-striped upholstered ottoman with storage compartments. Dark brown carrying case containing six glasses. 12 bottles of Pisco Brand. Rec'd—6/10/2013. Est. Value—$1,040.00. Disposition—National Archives and Records Administration. Perishable items handled pursuant to United States Secret Service policy | His Excellency Ollanta Moises Humala Tasso, President of the Republic of Peru | Non-acceptance would cause embarrassment to donor and U.S. Government.
The Honorable Barack Obama, President of the United States | Six piece porcelain espresso cup set with gold inside and silver leaf pattern on outside. Rec'd—6/17/2013. Est. Value—$540.00. Disposition—National Archives and Records Administration | His Excellency Vladimir Putin, President of the Russian Federation | Non-acceptance would cause embarrassment to donor and U.S. Government.
The Honorable Barack Obama, President of the United States | Framed photo of the G8 Leaders. Custom USB stick. Paperback book, title: “My NI.” CD, title: “Bestselling British Songs.” Hardcover book, title: “Scenic Ireland: The Province of Ulster.” Two porcelain cups with shamrocks. Wash bag by Anya Hindmarch. Mulberry tan travel bag with monogram. Apothecary bath products. Co Couture chocolates. Bottle of whiskey. Rec'd—6/18/2013. Est. Value—$2,116.27. Disposition—National Archives and Records Administration. Bath products and perishable items handled pursuant to United States Service policy | The Right Honorable David Cameron, MP, Prime Minister of the United Kingdom of Great Britain and Northern Ireland | Non-acceptance would cause embarrassment to donor and U.S. Government.
The Honorable Barack Obama, President of the United States | Wooden chest carved with flower and leaf design and brass fittings containing 20 green kente-style cloths with image of President Obama, 19 black hats with pins, 20 white baseball caps with image of President Obama, 21 blue kente-style cloths with image of President Obama, 18 navy blue polo shirts, 10 white polo shirts, a 56″ × 80″ blue plaid cloth, and one blue cloth with beaded decoration on round beaded tray with bow. Rec'd—6/27/2013. Est. Value—$1,926.00. Disposition—National Archives and Records Administration | His Excellency Ali Mohamed Shein, President of Zanzibar | Non-acceptance would cause embarrassment to donor and U.S. Government.
The Honorable Barack Obama, President of the United States | Hand-crafted drum bordered by colors of Senegalese flag tied with black thread on a wooden base. Rec'd—6/27/2013. Est. Value—$950.00. Disposition—National Archives and Records Administration | Chief Justice Oumar Sakho, First President of the Supreme Court of the Republic of Senegal | Non-acceptance would cause embarrassment to donor and U.S. Government.
The Honorable Barack Obama, President of the United States | 4′ tall wooden statue of a woman carrying a basket. Bronze statue of Senegalese national hero Lat Dior Ngone Latyr Diop. Rec'd—6/27/2013. Est. Value—$1,205.00. Disposition—National Archives and Records Administration | His Excellency Macky Sall, President of the Republic of Senegal | Non-acceptance would cause embarrassment to donor and U.S. Government.
The Honorable Barack Obama, President of the United States | 50″ × 12″ bronze statue of cheetah. Four bottles of wine. Rec'd—6/28/2013. Est. Value—$1,288.03. Disposition—National Archives and Records Administration. Perishable items handled pursuant to United States Secret Service policy | His Excellency Jacob Zuma, President of the Republic of South Africa | Non-acceptance would cause embarrassment to donor and U.S. Government.
The Honorable Barack Obama, President of the United States | 11″ × 7″ full zebra skin mounted on felt. 37″ × 50″ painting of Maasai tribes-people. Sculpture. Rec'd—7/1/2013. Est. Value—$4,000.00. Disposition—National Archives and Records Administration | His Excellency Jakaya Kikwete, President of the United Republic of Tanzania | Non-acceptance would cause embarrassment to donor and U.S. Government.
The Honorable Barack Obama, President of the United States | 23″ × 19″ scale carved from cedar. Copy of original letter sent by Ho Chi Minh to President Harry Truman in 1946. Rec'd—7/24/2013. Est. Value—$780.00. Disposition—National Archives and Records Administration | His Excellency Truong Tan Sang, President of the Socialist Republic of Vietnam | Non-acceptance would cause embarrassment to donor and U.S. Government.
The Honorable Barack Obama, President of the United States | Gift basket of Godiva chocolates. Rec'd—8/4/2013. Est. Value—$2,484.00. Disposition—Perishable items handled pursuant to United States Secret Service policy | His Majesty Mohammed VI, King of Morocco | Non-acceptance would cause embarrassment to donor and U.S. Government.
The Honorable Barack Obama, President of the United States | 8″ silver-covered cast resin relief plaque depicting Pericles' Funeral Oration including Greek quote from the oration. Rec'd—8/8/2013. Est. Value—$430.00. Disposition—National Archives and Records Administration | His Excellency Antonis Samaras, Prime Minister of the Hellenic Republic | Non-acceptance would cause embarrassment to donor and U.S. Government.
The Honorable Barack Obama, President of the United States | 22″ × 27″ framed amber painting of hut and larger structure in background. Paperback book, title: “Testimonios de La Asuncion: Crecimiento y desarrollo en sus 450 anos 1537-1987”. Rec'd—8/15/2013. Est. Value—$505.00. Disposition—National Archives and Records Administration | His Excellency Horacio Cartes, President of the Republic of Paraguay | Non-acceptance would cause embarrassment to donor and U.S. Government.
The Honorable Barack Obama, President of the United States | 35″ × 23.5″ and 27″ × 19″ framed photo collages of President Obama and the First Lady with the President and First Lady of South Africa from their visit to South Africa. Rec'd—8/26/2013. Est. Value—$580.00. Disposition—National Archives and Records Adminsitration | His Excellency Jacob Zuma, President of the Republic of South Africa | Non-acceptance would cause embarrassment to donor and U.S. Government.
The Honorable Barack Obama, President of the United States | 3″ × 1″ polished amber mounted on wooden base. DVD, title: “The Other Dream Team.” Personalized basketball jersey in green and yellow with flags of Lithuania and the United States on the front. Rec'd—9/3/2013. Est. Value—$439.98. Disposition—National Archives and Records Administration | Her Excellency Dalia Grybauskaitė, President of the Republic of Lithuania | Non-acceptance would cause embarrassment to donor and U.S. Government.
The Honorable Barack Obama, President of the United States | 34″ × 13″ print of boats coming to port in a busy harbor by Louis Jean Deprez, depicting Swedish battle fleet. Rec'd—9/4/2013. Est. Value—$480.00. Disposition—National Archives and Records Administration | His Majesty King Carl XVI Gustaf of Sweden | Non-acceptance would cause embarrassment to donor and U.S. Government.
The Honorable Barack Obama, President of the United States | 20″ × 19″ tall porcelain rose plum shape vase with lotus flower design. Rec'd—9/6/2013. Est. Value—$3,200.00. Disposition—National Archives and Records Administration | His Excellency Xi Jinping, President of the People's Republic of China | Non-acceptance would cause embarrassment to donor and U.S. Government.
The Honorable Barack Obama, President of the United States | 30″ × 30″ print of Turkish calligraphy in a circular design with interweaving lines and square shapes colored in navy, orange, and teal, title: “Fahrettin 2007”. Rec'd—9/22/2013. Est. Value—$690.00. Disposition—National Archives and Records Administration | His Excellency Abdullah Gül, President of the Republic of Turkey | Non-acceptance would cause embarrassment to donor and U.S. Government.
The Honorable Barack Obama, President of the United States | 24″ × 32″ framed painting of a beach scene in Mauritius, title: “Sous un Mangier” by Vaco. 21″ × 17″ framed painting of Le Morne Brabant mountain by Ragusa. Rec'd—10/1/2013. Est. Value—$835.00. Disposition—National Archives and Records Administration | His Excellency Navinchandra Ramgoolam, Prime Minister of Mauritius | Non-acceptance would cause embarrassment to donor and U.S. Government.
The Honorable Barack Obama, President of the United States | Olive green leather briefcase with maroon pattern at top, floral design, and three outside zippers. iPad mini in blue presentation box. International power cord for iPad mini. Black and silver pen with gold symbol on top. Rec'd—10/12/2013. Est. Value—$2,088.99. Disposition—National Archives and Records Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable Barack Obama, President of the United States | Three Aurora fountain pens in black case, one green, one red, and one white, each with 18K gold nib with plaque of flags of Italy and the European Union. Book, title: “Bibenda.” Case of wine with corkscrew. Rec'd—10/15/2013. Est. Value—$1,273.84. Disposition—National Archives and Records Administration. Perishable items and corkscrew handled pursuant to United States Secret Service policy | His Excellency Enrico Letta, President of the Council of Ministers of the Italian Republic | Non-acceptance would cause embarrassment to donor and U.S. Government.
The Honorable Barack Obama, President of the United States | 72″ × 48″ traditional Pakistani carpet with cream and white floral design. Rec'd—10/31/2013. Est. Value—$600.00. Disposition—National Archives and Records Administration | His Excellency Nawaz Sharif, Prime Minister of the Islamic Republic of Pakistan | Non-acceptance would cause embarrassment to donor and U.S. Government.
The Honorable Barack Obama, President of the United States | 15″ tall granite Hammurabi Obelisk on wooden stand with inlayed mother of pearl. Rec'd—10/31/2013. Est. Value—$900.00. Disposition—National Archives and Records Administration | His Excellency Nouri Al-Maliki, Prime Minister of the Republic of Iraq | Non-acceptance would cause embarrassment to donor and U.S. Government.
The Honorable Barack Obama, President of the United States | 57.5″ × 61″ framed acrylic painting of President Obama and the First Lady. Rec'd—11/20/2013. Est. Value—$3,100.00. Disposition—National Archives and Records Administration | Her Excellency Liu Yandong, Vice Premier of the People's Republic of China | Non-acceptance would cause embarrassment to donor and U.S. Government.
The Honorable Barack Obama, President of the United States | Poniard knife and gold sheath covered in green and red jewels. Visconti fountain pen with Declaration of Independence design, magnifying glass, and mini scroll in brown presentation box. Rec'd—11/20/2013. Est. Value—$3,750.00. Disposition—National Archives and Records Administration | His Majesty Mohammed VI, King of Morocco | Non-acceptance would cause embarrassment to donor and U.S. Government.
The Honorable Barack Obama, President of the United States | Large cream color storage trunk with wooden ribs, leather handles, and removable feet containing various items including a 6.5″ diameter polished sterling silver bowl, 8″ × 10″ silver picture frame, and three hardcover books, title: “Audubon's Birds of America,” “Botanica Magnifica,” and “San Francisco Then”. Rec'd—11/20/2013. Est. Value—$2,262.00. Disposition—National Archives and Records Administration | His Majesty Sultan Haji Hassanal Bolkiah Mu'izzaddin Waddaulah ibni Al-Marhum Sultan Haji Omar `Ali Saifuddien Sa'adul Khairi Waddien, Sultan of Yang Di-Pertuan of Brunei Darussalam | Non-acceptance would cause embarrassment to donor and U.S. Government.
The Honorable Barack Obama, President of the United States | Walking stick with metal bird topper made from Colombian wood by Adriana Henricio. Rec'd—12/3/2013. Est. Value—$524.00. Disposition—National Archives and Records Administration | His Excellency Juan Manuel Santos Calderón, President of the Republic of Colombia | Non-acceptance would cause embarrassment to donor and U.S. Government.
The Honorable Barack Obama, President of the United States | Cufflinks with etched menorah tablet. Rec'd—12/3/2013. Est. Value—$485.00. Disposition—National Archives and Records Administration | His Excellency Ron Dermer, Ambassador of the State of Israel to the United States | Non-acceptance would cause embarrassment to donor and U.S. Government.
The Honorable Barack Obama, President of the United States | Large Azerbaijani rug with geometric designs of red, blue, and white in leather carrying bag. Rec'd—12/5/2013. Est. Value—$6,560.00. Disposition—National Archives and Records Administration | His Excellency Elin Suleymanov, Ambassador of the Republic of Azerbaijan to the United States | Non-acceptance would cause embarrassment to donor and U.S. Government.
The Honorable Barack Obama, President of the United States | 17″ circular quilted table mat in yellow and white with three circular floor sitting mats of the same material and design. Rec'd—12/31/2013. Est. Value—$1,800.00. Disposition—National Archives and Records Administration | His Excellency Goodluck Jonathan, President of the Federal Republic of Nigeria | Non-acceptance would cause embarrassment to donor and U.S. Government.
The Honorable Barack Obama, President of the United States | 26″ tall glass, amber-colored sculpture depicting a falcon perched on a branch looking over its shoulder. Rec'd—12/31/2013. Est. Value—$10,408.00. Disposition—National Archives and Records Administration | His Excellency Mohamed Bin Abdulla Al Rumaihi, Ambassador of the State of Qatar to the United States | Non-acceptance would cause embarrassment to donor and U.S. Government.
The Honorable Barack Obama, President of the United States, and Mrs. Michelle Obama | Two traditional male and female Malian garments including a white tunic and pants. Dark wood figurine of woman's silhouette carrying container overhead. Rec'd—4/22/2013. Est. Value—$520.00. Disposition—National Archives and Records Administration | Mrs. Mintou Doucoure Traore, First Lady of the Republic of Mali | Non-acceptance would cause embarrassment to donor and U.S. Government.
The Honorable Barack Obama, President of the United States, and Mrs. Michelle Obama | Double-rolled scroll, title: “Freedom of the City of Cape Town” signed by President Obama and the First Lady, hand-inked on paper mounted on hand carved protea wood batons. Rec'd—6/30/2013. Est. Value—$2,055.00. Disposition—National Archives and Records Administration | The City of Cape Town of the Republic of South Africa | Non-acceptance would cause embarrassment to donor and U.S. Government.
The Honorable Barack Obama, President of the United States, and Mrs. Michelle Obama | Three 9.5″ porcelain plates with Russian city scenes, one with Peterhof Palace, one with an equestrian statue, and one with the Monument of the Emperor Peter I and the Konstantin Palace. White porcelain tea set with two half-circle cups and one tea pot with blue, red, black, orange, and green stripes. White porcelain tea set with two tea cups, two large coasters and a tea pot. DVD, title: “Jewels” from the Mariinsky Theatre Ballet. Rec'd—9/6/2013. Est. Value—$1,084.00. Disposition—National Archives and Records Administration | His Excellency Vladimir Putin, President of the Russian Federation | Non-acceptance would cause embarrassment to donor and U.S. Government.
The Honorable Barack Obama, President of the United States, and Mrs. Michelle Obama | Black leather box displaying the Kuwaiti emblem containing black and gold Kuwaiti clothing. Set of historical Kuwaiti coins from 1780 to present with display stand and case. Leather card with inscription. Rec'd—9/12/2013. Est. Value—$1,230.00. Disposition—National Archives and Records Administration | His Highness Sheikh Sabah Al-Ahmad Al-Jaber Al-Sabah, Amir of the State of Kuwait | Non-acceptance would cause embarrassment to donor and U.S. Government.
Mrs. Michelle Obama, First Lady of the United States | Leila collection by Mouawad 18K white gold flower shaped jewelry set with yellow sapphires and diamonds, including a pair of earrings, a ring, a necklace with 18-inch chain, and a magnifying glass. Gold-plated rose in red presentation box. Rec'd—3/12/2013. Est. Value—$71,468.00. Disposition—National Archives and Records Administration | Her Majesty Queen Pengiran Anak Saleha of Brunei Darussalam | Non-acceptance would cause embarrassment to donor and U.S. Government.
Mrs. Michelle Obama, First Lady of the United States | Silver Seder plate with Hebrew inscriptions. Rec'd—3/20/2013. Est. Value—$445.00. Disposition—National Archives and Records Administration | His Excellency Benjamin Netanyahu, Prime Minister of the State of Israel, and Mrs. Sara Netanyahu | Non-acceptance would cause embarrassment to donor and U.S. Government.
Mrs. Michelle Obama, First Lady of the United States | Set of 12 silver spoons, bearing “lion passant” and leopard head markings with flowers in polished wood presentation box. Rec'd—4/23/2013. Est. Value—$600.00. Disposition—National Archives and Records Administration | His Highness Sheikh Hamad Bin Khalifa Al Thani, Amir of the State of Qatar | Non-acceptance would cause embarrassment to donor and U.S. Government.
Mrs. Michelle Obama, First Lady of the United States | Porcelain tableware set including bowls, dishes, plates, chopsticks, napkins, and spoons. Book, title: “The Very Best of Korean Cooking”. Rec'd—5/7/2013. Est. Value—$375.00. Disposition—National Archives and Records Administration | Her Excellency Park Geun-hye, President of the Republic of Korea | Non-acceptance would cause embarrassment to donor and U.S. Government.
Mrs. Michelle Obama, First Lady of the United States | 31″ × 39″ framed lithograph depicting two figures draped in the American flag and the Union Jack flag by artist Dean Baer. Signed photo of His Royal Highness in a leather frame. Rec'd—5/9/2013. Est. Value—$1,330.00. Disposition—National Archives and Records Administration | His Royal Highness Prince Henry Charles Albert David of Wales | Non-acceptance would cause embarrassment to donor and U.S. Government.
Mrs. Michelle Obama, First Lady of the United States | Gold, flower-shaped brooch with pearl flower bud. Rec'd—5/20/2013. Est. Value—$1,400.00. Disposition—National Archives and Records Administration | His Excellency U Thein Sein, President of Burma | Non-acceptance would cause embarrassment to donor and U.S. Government.
Mrs. Michelle Obama, First Lady of the United States | 24″ × 17″ framed print of the Brandenburg Gate by Joseph Robers. Rec'd—6/18/2013. Est. Value—$460.00. Disposition—National Archives and Records Administration | Her Excellency Dr. Angela Merkel, Chancellor of the Federal Republic of Germany | Non-acceptance would cause embarrassment to donor and U.S. Government.
Mrs. Michelle Obama, First Lady of the United States | Porcelain, hand-painted tea set with two cups, two plates, one platter, two small plates, and one teapot. Multi-colored beaded chicken basket. Multi-colored necklace and earrings. Two ornamental eggs, one blotched, one striped. Two mugs commemorating the President and First Lady's trip to the Republic of South Africa. Rec'd—7/28/2013. Est. Value—$1,010.00. Disposition—National Archives and Records Administration | Mrs. Tobeka Zuma, First Lady of the Republic of South Africa | Non-acceptance would cause embarrassment to donor and U.S. Government.
Mrs. Michelle Obama, First Lady of the United States | Two 3″ diameter gold-plated candy dishes in a black box. 4″ diameter candy dish by Orrefors Crystal with Swedish Royal insignia. Rec'd—9/4/2013. Est. Value—$610.00. Disposition—National Archives and Records Administration | Her Majesty Queen Silvia Renate of Sweden | Non-acceptance would cause embarrassment to donor and U.S. Government.
Mrs. Michelle Obama, First Lady of the United States | Embroidered handbag with multi-colored aviary motif. Rec'd—9/12/2013. Est. Value—$580.00. Disposition—National Archives and Records Administration | His Excellency Julio Ligorría, Ambassador of the Republic of Guatemala to the United States | Non-acceptance would cause embarrassment to donor and U.S. Government.
Mrs. Michelle Obama, First Lady of the United States | Matching necklace and earring set made of blue topaz and pearls. Rec'd—9/24/2013. Est. Value—$940.00. Disposition—National Archives and Records Administration | Mrs. Shiranthi Rajapaksa, First Lady of the Democratic Socialist Republic of Sri Lanka | Non-acceptance would cause embarrassment to donor and U.S. Government.
Mrs. Michelle Obama, First Lady of the United States | Drop earrings of silver and blue crystal by Baccarat. Hardcover book, title: “Nature—Simple, Healthy and Good”. Rec'd—9/24/2013. Est. Value—$435.00. Disposition—National Archives and Records Administration | Ms. Valérie Trierweiler, First Lady of the French Republic | Non-acceptance would cause embarrassment to donor and U.S. Government.
Mrs. Michelle Obama, First Lady of the United States | 6″ × 4″ clutch purse with gold outline and blue emerald cut jewels by Elie Saab. Rec'd—9/24/2013. Est. Value—$1,164.00. Disposition—National Archives and Records Administration | Mrs. Wafaa Suleiman, First Lady of the Lebanese Republic | Non-acceptance would cause embarrassment to donor and U.S. Government.
Mrs. Michelle Obama, First Lady of the United States | Traditional Azerbaijani red head scarf. Rec'd—12/5/2013. Est. Value—$435.00. Disposition—National Archives and Records Administration | His Excellency Elin Suleymanov, Ambassador of the Republic of Azerbaijan to the United States | Non-acceptance would cause embarrassment to donor and U.S. Government.
First Family | Four soccer jerseys of the Mexican national team signed by the team members and personalized for the First Family. Silver beaded bracelet and ring in bow design. Silver necklace and earrings with heart design. Rec'd—5/9/2013. Est. Value—$1,020.00. Disposition—National Archives and Records Administration | His Excellency Enrique Peña Nieto and Mrs. Angélica Rivera de Peña, President and First Lady of the United Mexican States | Non-acceptance would cause embarrassment to donor and U.S. Government.
First Family | Book, title: “Dreams from My Father” translated into Hebrew and bound in leather with inscription. Black leather necklace with pendant featuring a bird and rabbit by Ilana Goor. Black bracelet with silver bird charm and clasp by Ilana Goor. Pink bracelet with silver clasp by Ilana Goor. Gold lapel pin in a small black leather box. Hardcover book, title: “Ilana Goor: Hybrids” inscribed by the artist. Paperback book, title: “Ilana Goor.” Paperback book, title: “Ilana Goor Collection 2011”. Rec'd—3/22/2013. Est. Value—$1,045.00. Disposition—National Archives and Records Administration | His Excellency Shimon Peres, President of the State of Israel | Non-acceptance would cause embarrassment to donor and U.S. Government.
First Family | Four scarves in a box set by Kuna, separately made of 100% Vicuna, Royal Alpaca, Guanaco, and Royal Llama yarn. Rec'd—6/10/2013. Est. Value—$1,650.00. Disposition—National Archives and Records Administration | His Excellency Ollanta Moises Humala Tasso, President of the Republic of Peru | Non-acceptance would cause embarrassment to donor and U.S. Government.
First Family | Two traditional Senegalese outfits for each member of the First Family. Two traditional handmade beaded necklaces, one of beads only and the other featuring medallions of silver, gold, and copper. 18″ ebony wooden statue of woman wearing a wrap. 9″ ebony wooden abstract statue of two people embracing. Assimil French language workbook and audio exercises contained in blue box. Black and white painting of the First Family on canvas. Rec'd—6/27/2013. Est. Value—$2,598.90. Disposition—National Archives and Records Administration | His Excellency Macky Sall, President of the Republic of Senegal | Non-acceptance would cause embarrassment to donor and U.S. Government.
First Family | Hand-crafted drum bordered by colors of Senegalese flag, tied with black thread on a wooden base. Rec'd—6/27/2013. Est. Value—$400.00. Disposition—National Archives and Records Administration | His Excellency Youssou N'Dour, Minister-Counselor to the President of the Republic of Senegal | Non-acceptance would cause embarrassment to donor and U.S. Government.
First Family | Two necklaces in 18K white gold with diamond pendants in the shape of Africa containing a tanzanite stone in the middle. Two sets of earrings with matching necklace in 18K white gold tear drop shape containing diamonds and tanzanite. Cuff links of 18K gold with tanzanite. 39″ × 52″ painting of the First Family with Mount Kilimanjaro in the background. Rec'd—7/1/2013. Est. Value—$6,340.00. Disposition—National Archives and Records Administration | His Excellency Jakaya Kikwete, President of the United Republic of Tanzania | Non-acceptance would cause embarrassment to donor and U.S. Government.
First Family | Chess board made of silver tiles on a piece of glass with silver and bronze pieces in a beige suede case. Rec'd—9/24/2013. Est. Value—$430.00. Disposition—National Archives and Records Administration | His Excellency Michel Suleiman, President of Lebanese Republic | Non-acceptance would cause embarrassment to donor and U.S. Government.
First Family | 22″ × 17″ × 9″ large wood box with intricate exterior carvings containing two pairs of traditional jeweled Moroccan shoes. Two pendant necklaces with Hand of Fatima design of gold and diamonds. Three Kaftan dresses, one blue with gold thread detail, one purple with gold thread detail, and one pink with silver thread detail each in a green leather case. Rec'd—11/20/2013. Est. Value—$14,785.00. Disposition—National Archives and Records Administration | His Majesty Mohammed VI, King of Morocco | Non-acceptance would cause embarrassment to donor and U.S. Government.
First Family Children | Two beige shawls with pearl and lace detail. Two Anatoli hand mirrors with silverplate frame. Rec'd—5/16/2013. Est. Value—$880.00. Disposition—National Archives and Records Administration | Mrs. Emine Erdoğan, First Lady of the Republic of Turkey | Non-acceptance would cause embarrassment to donor and U.S. Government.
White House Staff Member Tony Blinken | 8″ × 4″ × 2″ red leather William & Son clock in triangle shape with silver detailing. Hardcover book, title: “Between Two Seas: A Celebration of Modern Bahrain”. Rec'd—6/5/2013. Est. Value—$1,491.00. Disposition—Gift Office pending transfer to General Services Administration | His Royal Highness Salman Bin Hamad Al Khalifa, Crown Prince of the Kingdom of Bahrain, First Deputy Prime Minister, and Deputy Supreme Commander of the Bahrain Defense Force | Non-acceptance would cause embarrassment to donor and U.S. Government.
White House Staff Member Karen Donfried | Glass paperweight and silver pen, each etched with “The Parliament of Montenegro”. Rec'd—11/18/2013. Est. Value—$500.00. Disposition—Gift Office pending transfer to General Services Administration | His Excellency Ranko Krivokapic, Speaker of the Parliament of Montenegro | Non-acceptance would cause embarrassment to donor and U.S. Government.
White House Staff Member Thomas Donilon | 78″ × 45″ hand-woven Afghan rug in beige, red, and green with beige fringe. Rec'd—1/10/2013. Est. Value—$400.00. Disposition—Gift Office pending transfer to General Services Administration | His Excellency Hamid Karzai, President of the Islamic Republic of Afghanistan | Non-acceptance would cause embarrassment to donor and U.S. Government.
White House Staff Member Jeffry Eggers | 77″ × 49″ rug with floral pattern, maroon border, and shades of beige surrounding a maroon center. Rec'd—10/29/2013. Est. Value—$500.00. Disposition—Gift Office pending transfer to General Services Administration | His Excellency Nawaz Sharif, Prime Minister of the Islamic Republic of Pakistan | Non-acceptance would cause embarrassment to donor and U.S. Government.
White House Staff Member Ferial Govashiri | Gold and black pen with flags of the United States and Brunei on the clip. Rec'd—3/13/2013. Est. Value—$1,400.00. Disposition—Gift Office pending transfer to General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
White House Staff Member John Holdren | 16 GB Xiaomi 2 mobile phone. Rec'd—1/10/2013. Est. Value—$749.00. Disposition—Gift Office pending transfer to General Services Administration | His Excellency Wan Gang, Minister of Science and Technology of the People's Republic of China | Non-acceptance would cause embarrassment to donor and U.S. Government.
White House Staff Member Tracy Lawry | Gold and black pen with flags of the United States and Brunei on the clip. Rec'd—3/13/2013. Est. Value—$1,400.00. Disposition—Gift Office pending transfer to General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
White House Staff Member Denis McDonough | Framed oil painting, title: “Latifa's House” with presentation plaque. Rec'd—1/30/2013. Est. Value—$500.00. Disposition—Gift Office pending transfer to General Services Administration | His Excellency Shaikh Khalifa Bin Abdulla Al Khalifa, Secretary-General of the Supreme Defense Council of Bahrain and National Security Advisor to the King of Bahrain | Non-acceptance would cause embarrassment to donor and U.S. Government.
White House Staff Member Lisa Monaco | Silver plaque with the colors of Yemen's flag in a blue velvet box. Jewelry set made of silver and red agate with necklace, ring, bracelet and earrings contained in white presentation box. Rec'd—4/15/2013. Est. Value—$655.00. Disposition—Gift Office pending transfer to General Services Administration | Mr. Ali Hassan al-Ahmadi, Chairman of National Security Bureau of the Republic of Yemen | Non-acceptance would cause embarrassment to donor and U.S. Government.
White House Staff Member Lisa Monaco | Jewelry set made of silver and red agate with necklace, ring, bracelet and earrings contained in white presentation box. Decorative plaque with an image of a gun and sword crossing under an eagle's wings. Packages of coffee and honey. Rec'd—9/18/2013. Est. Value—$540.00. Disposition—Gift Office pending transfer to General Services Administration. Perishable items handled pursuant to United States Secret Service policy | His Excellency Mohammed Nasser Ahmed Ali, Defense Minister of the Republic of Yemen | Non-acceptance would cause embarrassment to donor and U.S. Government.
White House Staff Member Dr. Susan Rice | Jewelry set made of silver and red agate with necklace, ring, bracelet and earrings contained in white presentation box. Rec'd—8/2/2013. Est. Value—$450.00. Disposition—Gift Office pending transfer to General Services Administration | His Excellency Abd Rabbu Mansour Hadi, President of the Republic of Yemen | Non-acceptance would cause embarrassment to donor and U.S. Government.
White House Staff Member Dr. Susan Rice | 19″ porcelain vase in the shape of a flowering plant with light green coloring and two pink flower buds. Rec'd—8/19/2013. Est. Value—$950.00. Disposition—Gift Office pending transfer to General Services Administration | His Excellency Chang Wanquan, Minister of Defense and State Councilor of the People's Republic of China | Non-acceptance would cause embarrassment to donor and U.S. Government.
White House Staff Member. Dr. Susan Rice | Blue silk scarf in red presentation box. Hardcover book, title: “Treasures of Indian Wildlife.” 10″ × 7″ × 2 ″ wooden presentation box for both items with gold painted designs. Rec'd—8/20/2013. Est. Value—$495.00. Disposition—Gift Office pending transfer to General Services Administration | Mr. Shivshankar Menon, National Security Advisor of the Republic of India | Non-acceptance would cause embarrassment to donor and U.S. Government.
White House Staff Member Dr. Susan Rice | 3″ × 3″ round mosaic glass box in black and gold with pink and red flower detail. Rec'd—9/18/2013. Est. Value—$540.00. Disposition—Gift Office pending transfer to General Services Administration | Dr. Hakan Fidan, Undersecretary, Turkish National Intelligence Organization | Non-acceptance would cause embarrassment to donor and U.S. Government.
White House Staff Member Jacob Sullivan | Hand-made Haddad Cutlery silverware set of 12 forks and three large serving utensils with rooster handles. 8″ × 10″ silver tray with the Seal of Lebanese Republic and etched signature of Commander Kahwaji presented in brown leather box. Rec'd—8/5/2013. Est. Value—$890.00. Disposition—Gift Office pending transfer to General Services Administration | General Jean Kahwaji, Commander of the Lebanese Armed Forces | Non-acceptance would cause embarrassment to donor and U.S. Government.
White House Staff Member Celeste Wallander | Collection of coins from Uzbekistan. Scarf in red, white, and blue. Rec'd—11/22/2013. Est. Value—$575.00. Disposition—Gift Office pending transfer to General Services Administration | His Excellency Abdulaziz Kamilov, Minister of Foreign Affairs of the Republic of Uzbekistan | Non-acceptance would cause embarrassment to donor and U.S. Government.
White House Staff Member Colin Willet | Gold and black pen with flags of the United States and Brunei on the clip. Rec'd—3/13/2013. Est. Value—$1,400.00. Disposition—Gift Office pending transfer to General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.

AGENCY: The White House—Office of the Vice President
[Report of Tangible Gifts Furnished by the White House—Office of the Vice President]
Name and title of person accepting the gift on behalf of the U.S. Government | Gift, date of acceptance on behalf of the U.S. Government, estimated value, and current disposition or location | Identity of foreign donor and government | Circumstances justifying acceptance
The Honorable Joseph R. Biden, Jr., Vice President of the United States | Silver hanging clock with horse and seated rider. Rec'd—4/23/2013. Est. Value—$3,100.00. Disposition—National Archives and Records Administration | His Highness Sheikh Hamad bin Khalifa Al Thani, Amir of the State of Qatar | Non-acceptance would cause embarrassment to donor and U.S. Government.
The Honorable Joseph R. Biden, Jr., Vice President of the United States | Replica sterling silver, title: “Poporo Quimbaya.” Rec'd —5/27/2013. Est. Value—$480.00. Disposition—National Archives and Records Administration | His Excellency Juan Manuel Santos Calderón, President of the Republic of Colombia | Non-acceptance would cause embarrassment to donor and U.S. Government.
The Honorable Joseph R. Biden, Jr., Vice President of the United States | Steel kettle drum with beater, metal stand, and leather case. Rec'd —5/28/2013. Est. Value—$1,069.00. Disposition—National Archives and Records Administration | Her Excellency Kamla Persad-Bissessar, Prime Minister of the Republic of Trinidad and Tobago | Non-acceptance would cause embarrassment to donor and U.S. Government.
The Honorable Joseph R. Biden, Jr., Vice President of the United States | Framed photograph of the Palacio Itamaraty. Rec'd—5/31/2013. Est. Value—$450.00. Disposition—National Archives and Records Administration | His Excellency Michel Miguel Elias Temer Lulia, Vice President of the Federative Republic of Brazil | Non-acceptance would cause embarrassment to donor and U.S. Government.
The Honorable Joseph R. Biden, Jr., Vice President of the United States | Gilt-lacquer thread framed galloping horse sculpture. Rec'd—7/9/2013. Est. Value—$1,200.00. Disposition—National Archives and Records Administration | His Excellency Yang Jiechi, State Councilor of the People's Republic of China | Non-acceptance would cause embarrassment to donor and U.S. Government.
The Honorable Joseph R. Biden, Jr., Vice President of the United States | Wool rug with a beige and olive green floral and leaf design in royal purple holder. Rec'd—7/23/2013. Est. Value—$760.00. Disposition—National Archives and Records Administration | His Excellency Dr. Manmohan Singh, Prime Minister of the Republic of India, and Mrs. Gursharan Kaur | Non-acceptance would cause embarrassment to donor and U.S. Government.
The Honorable Joseph R. Biden, Jr., Vice President of the United States | Framed calligraphy, title: “Strength.” Rec'd—7/26/2013. Est. Value—$540.00. Disposition—National Archives and Records Administration | His Excellency Lee Hsien Loong, Prime Minister of the Republic of Singapore | Non-acceptance would cause embarrassment to donor and U.S. Government.
The Honorable Joseph R. Biden, Jr., Vice President of the United States | Official state decorative medals in presentation box. Rec'd—8/30/2013. Est. Value—$550.00. Disposition—National Archives and Records Administration | His Excellency Toomas Hendrik Ilves, President of the Republic of Estonia | Non-acceptance would cause embarrassment to donor and U.S. Government.
The Honorable Joseph R. Biden, Jr., Vice President of the United States | Baltic amber carved face mounted on a green marble base. Rec'd—8/30/2013. Est. Value—$450.00. Disposition—National Archives and Records Administration | Her Excellency Dalia Grybauskaitė, President of the Republic of Lithuania | Non-acceptance would cause embarrassment to donor and U.S. Government.
The Honorable Joseph R. Biden, Jr., Vice President of the United States | Metal Arfaj plant replica in wooden display case. Rec'd—9/13/2013. Est. Value—$490.00. Disposition—National Archives and Records Administration | His Highness Sheikh Sabah Al-Ahmad Al-Jaber Al-Sabah, Amir of the State of Kuwait | Non-acceptance would cause embarrassment to donor and U.S. Government.
The Honorable Joseph R. Biden, Jr., Vice President of the United States | Large engraved silver coin in walnut case. Rec'd—9/20/2013. Est. Value—$850.00. Disposition—National Archives and Records Administration | His Excellency Enrique Peña Nieto, President of the United Mexican States | Non-acceptance would cause embarrassment to donor and U.S. Government.
The Honorable Joseph R. Biden, Jr., Vice President of the United States | Silk rug in beige and salmon with centered rosette. Rec'd—10/23/2013. Est. Value—$2,800.00. Disposition—National Archives and Records Administration | His Excellency Nawaz Sharif, Prime Minister of the Islamic Republic of Pakistan | Non-acceptance would cause embarrassment to donor and U.S. Government.
The Honorable Joseph R. Biden, Jr., Vice President of the United States | Maroon glass pitcher with brass design on brass stand. Rec'd—11/22/2013. Est. Value—$480.00. Disposition—National Archives and Records Administration | His Excellency Bülent Arınç, Deputy Prime Minister of the Republic of Turkey | Non-acceptance would cause embarrassment to donor and U.S. Government.
The Honorable Joseph R. Biden, Jr., Vice President of the United States and Dr. Jill Biden, Second Lady of the United States | Sterling silver falcon statue with decorative jewels on marble pedestal. Rec'd—9/29/2011. Est. Value—$4,700.00. Disposition—National Archives and Records Administration | His Highness Sheikh Sabah Al-Ahmad Al-Jaber Al-Sabah, Amir of the State of Kuwait | Non-acceptance would cause embarrassment to donor and U.S. Government.
The Honorable Joseph R. Biden, Jr., Vice President of the United States and Dr. Jill Biden, Second Lady of the United States | Two traditional Kuwaiti garments with cloth satchel in leather folder. Rec'd—9/13/2013. Est. Value—$620.00. Disposition—National Archives and Records Administration | His Highness Sheikh Sabah Al-Ahmad Al-Jaber Al-Sabah, Amir of the State of Kuwait | Non-acceptance would cause embarrassment to donor and U.S. Government.
Dr. Jill Biden, Second Lady of the United States | Blue Joaquim shawl with rhinestone orchid. Rec'd—7/26/2013. Est. Value—$465.00. Disposition—National Archives and Records Administration | His Excellency Lee Hsien Loong, Prime Minister of the Republic of Singapore | Non-acceptance would cause embarrassment to donor and U.S. Government.
Mr. Carlos Elizondo, Residential Manager and Social Secretary of the Vice President | Silver Tissot men's wristwatch. Rec'd—5/10/2013. Est. Value—$925.00. Disposition—National Archives and Records Administration | His Majesty King Abdullah II ibn Al Hussein, King of the Hashemite Kingdom of Jordan | Non-acceptance would cause embarrassment to donor and U.S. Government.

AGENCY: Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Hillary Clinton, Secretary of State of the United States | Black two-strand cushion pearl necklace with gemstones on a copper clasp. Rec'd—10/2012. Est. Value—$970.00. Disposition—Purchased by recipient from General Services Administration | Daw Aung San Suu Kyi, Chair of the National League for Democracy and Member of Parliament from Kawhmu Constituency of Burma | Non-acceptance would cause embarrassment to donor and U.S. Government.
The Honorable Hillary Clinton, Secretary of State of the United States | Two-toned avalon blue Hermès blanket. Rec'd—1/4/2013. Est. Value—$1,300.00. Disposition—Pending transfer to General Services Administration | His Majesty King Abdullah II ibn Al Hussein and Her Majesty Queen Rania Al Abdullah, King and Queen of the Hashemite Kingdom of Jordan | Non-acceptance would cause embarrassment to donor and U.S. Government.
The Honorable Hillary Clinton, Secretary of State of the United States | 76″ x 62″ handwoven carpet. Rec'd—1/10/2013. Est. Value—$660.00. Disposition—Pending transfer to General Services Administration | His Excellency Hamid Karzai, President of the Islamic Republic of Afghanistan | Non-acceptance would cause embarrassment to donor and U.S. Government.
The Honorable Hillary Clinton, Secretary of State of the United States | Framed painting of Tanzanian birds on a black canvas. Black and yellow scarf with portrait of President Barack Obama between two African continents. Rec'd—1/18/2013. Est. Value—$595.00. Disposition—Pending transfer to General Services Administration | His Excellency Mwanaidi Sinare Maajar, Ambassador of the United Republic of Tanzania to the United States | Non-acceptance would cause embarrassment to donor and U.S. Government.
The Honorable John Kerry, Secretary of State of the United States | Small red and pearl lacquer shell clock by Mikimoto. Rec'd—2/22/2013. Est. Value—$485.00. Disposition—Pending transfer to General Services Administration | His Excellency Fumio Kishida, Minister of Foreign Affairs of Japan | Non-acceptance would cause embarrassment to donor and U.S. Government.
The Honorable John Kerry, Secretary of State of the United States | Wilkinson sword with gold and navy blue tassel, gold and black sheath with lion handle, and “ER” engraved on the hilt of the sword . Rec'd—2/25/2013. Est. Value—$469.00. Disposition—Retained for official use only | The Right Honorable William Hague, MP, Secretary of State of Foreign and Commonwealth Affairs of the United Kingdom of Great Britain and Northern Ireland | Non-acceptance would cause embarrassment to donor and U.S. Government.
The Honorable John Kerry, Secretary of State of the United States | Leather and wooden stationery set with three slots and Italian seal. Hardcover book, title: “Villa Nadzma—Raphael's Dream”. Rec'd—2/27/2013. Est. Value—$525.00. Disposition—Pending transfer to General Services Administration | His Excellency Giulio Terzi, Minister of Foreign Affairs of the Italian Republic | Non-acceptance would cause embarrassment to donor and U.S. Government.
The Honorable John Kerry, Secretary of State of the United States | Bronze dugong in a leather presentation box. Rec'd—3/4/2013. Est. Value—$1,100.00. Disposition—Pending transfer to General Services Administration | His Highness General Sheikh Mohammed bin Zayed Al Nahyan, Crown Prince of Abu Dhabi and Deputy Supreme Commander of the UAE Armed Forces | Non-acceptance would cause embarrassment to donor and U.S. Government.
The Honorable John Kerry, Secretary of State of the United States | Silver apple shaped candy dish with lid in yellow presentation box. Rec'd—3/11/2013. Est. Value—$385.00. Disposition—Pending transfer to General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable John Kerry, Secretary of State of the United States | 15.75″ diameter silver tone display plate with “Libyan Interim Government” inscription. 56″ × 110″ large woven rug. Rec'd—3/12/2013. Est. Value—$650.00. Disposition—Pending transfer to General Services Administration | His Excellency Ali Zeidan, Prime Minister of Libya | Non-acceptance would cause embarrassment to donor and U.S. Government.
The Honorable John Kerry, Secretary of State of the United States | 35″ × 55″ black, brown, and red rug. Lapis and brass five socket candelabrum in blue presentation box. Rec'd—3/25/2013. Est. Value—$560.00. Disposition—Pending transfer to General Services Administration | His Excellency Hamid Karzai, President of the Islamic Republic of Afghanistan | Non-acceptance would cause embarrassment to donor and U.S. Government.
The Honorable John Kerry, Secretary of State of the United States | Engraved Christotle “Malmaison” crystal carafe with silver plated stern. Rec'd—3/27/2013. Est. Value—$800.00. Disposition—Pending transfer to General Services Administration | His Excellency Laurent Fabius, Minister of Foreign Affairs of the French Republic | Non-acceptance would cause embarrassment to donor and U.S. Government.
The Honorable John Kerry, Secretary of State of the United States | Golf putter. Rec'd—4/14/2013. Est. Value—$445.00. Disposition—Pending transfer to General Services Administration | His Excellency Shinzo Abe, Prime Minister of Japan | Non-acceptance would cause embarrassment to donor and U.S. Government.
The Honorable John Kerry, Secretary of State of the United States | Eight panel miniature folding screen in traditional Korean lacquer. Rec'd—4/26/2013. Est. Value—$440.00. Disposition—Pending transfer to General Services Administration | His Excellency Yun Byung-se, Minister of Foreign Affairs of the Republic of Korea | Non-acceptance would cause embarrassment to donor and U.S. Government.
The Honorable John Kerry, Secretary of State of the United States | Six teacups and saucers in traditional Benjauang style. Assortment of DoiTung coffee and macadamia nut products. Rec'd—5/6/2013. Est. Value—$558.00. Disposition—Teacups pending transfer to General Services Administration Perishable items handled pursuant to the guidelines set forth by General Services Administration | His Excellency Dr. Surapong Tovichakchaikul, Deputy Prime Minister and Minister of Foreign Affairs of the Kingdom of Thailand | Non-acceptance would cause embarrassment to donor and U.S. Government.
The Honorable John Kerry, Secretary of State of the United States | Framed enamel scenes depicting a church, a bridge, and various buildings. 4″ × 5.75″ framed enamel picture of the Kremlin. Rec'd—5/7/2013. Est. Value—$430.00. Disposition—Pending transfer to General Services Administration | His Excellency Vladimir Putin, President of the Russian Federation | Non-acceptance would cause embarrassment to donor and U.S. Government.
The Honorable John Kerry, Secretary of State of the United States | Floral orthodox easter egg with Minister of Foreign Affairs inscription and matching stand. Rec'd—5/9/2013. Est. Value—$520.00. Disposition—Pending transfer to General Services Administration | His Excellency Leonid Kozhara, Minister of Foreign Affairs of Ukraine | Non-acceptance would cause embarrassment to donor and U.S. Government.
The Honorable John Kerry, Secretary of State of the United States | Delta fountain pen with inkwell. Rec'd—5/9/2013. Est. Value—$476.00. Disposition—Pending transfer to General Services Administration | His Excellency Enrico Letta, President of the Council of Ministers of the Italian Republic | Non-acceptance would cause embarrassment to donor and U.S. Government.
The Honorable John Kerry, Secretary of State of the United States | Framed silver dragon boat with a green and gold border. Five black wall hangings with brightly colored drawings. Rec'd—5/20/2013. Est. Value—$350.00. Disposition—Pending transfer to General Services Administration | His Excellency U Thein Sein, President of Burma | Non-acceptance would cause embarrassment to donor and U.S. Government.
The Honorable John Kerry, Secretary of State of the United States | St. Dupont leather bag. Two St. Dupont pens with 14k gold accents. Rec'd—5/26/2013. Est. Value—$1,675.00. Disposition—Pending transfer to General Services Administration | His Excellency Hailemariam Desalegn, Prime Minister of the Federal Democratic Republic of Ethiopia | Non-acceptance would cause embarrassment to donor and U.S. Government.
The Honorable John Kerry, Secretary of State of the United States | Silver desk clock by William and Son of London. Book, title: “Between Two Seas—A Celebration of Modern Bahrain,” by Andrew Weaver. Rec'd—6/5/2013. Est. Value—$825.00. Disposition—Pending transfer to General Services Administration | His Royal Highness Salman Bin Hamad Al Khalifa, Crown Prince of the Kingdom of Bahrain, First Deputy Prime Minister, and Deputy Supreme Commader of the Bahrain Defense Force | Non-acceptance would cause embarrassment to donor and U.S. Government.
The Honorable John Kerry, Secretary of State of the United States | Six model Kuwaiti ships in a maroon suitcase. Rec'd—6/26/2013. Est. Value—$420.00. Disposition—Pending transfer to General Services Administration | His Excellency Sheikh Sabah Al-Khaled Al-Hamad Al-Sabah, Deputy Prime Minister and Minister of Foreign Affairs of the State of Kuwait | Non-acceptance would cause embarrassment to donor and U.S. Government.
The Honorable John Kerry, Secretary of State of the United States | Aspinal of London leather briefcase. Mont Blanc Meistersuck carbon steel rollerball pen. Black leather notebook holder. Commemorative one ounce gold $100 coin. Three copies of book, title: “ASEAN 2013—Annual Security Outlook.” 14k gold men's wristwatch with ASEAN member flag motif. Rec'd—7/1/2013. Est. Value—$4,495.00. Disposition—Pending transfer to General Services Administration | The Government of Brunei Darussalam | Non-acceptance would cause embarrassment to donor and U.S. Government.
The Honorable John Kerry, Secretary of State of the United States | Dinnerware set for eight people with a yellow handpainted floral motif. Rec'd—8/12/2013. Est. Value—$580.00. Disposition—Pending transfer to General Services Administration | His Excellency Juan Manuel Santos Calderón, President of the Republic of Colombia | Non-acceptance would cause embarrassment to donor and U.S. Government.
The Honorable John Kerry, Secretary of State of the United States | Ruyi scepter with tassels depicting a dragon with a glass display base. Rec'd—9/19/2013. Est. Value—$490.00. Disposition—Pending transfer to General Services Administration | His Excellency Wang Yi, Minister of Foreign Affairs of the People's Republic of China | Non-acceptance would cause embarrassment to donor and U.S. Government.
The Honorable John Kerry, Secretary of State of the United States | Desk set with a Montblanc pen and stationery set. Framed photo of APEC leaders. Rec'd—10/7/2013. Est. Value—$540.00. Disposition—Pending transfer to General Services Administration | Asia-Pacific Economic Cooperation | Non-acceptance would cause embarrassment to donor and U.S. Government.
The Honorable John Kerry, Secretary of State of the United States | Printed vinyl briefcase with zippered pockets. Stamp book album. Rec'd—10/9/2013. Est. Value—$555.00. Disposition—Pending transfer to General Services Administration | His Majesty Sultan Haji Hassanal Bolkiah Mu'izzaddin Waddaulah ibni Al-Marh`um Sultan Haji Omar `Ali Saifuddien Sa'adul Khairi Waddien, Sultan and Yang Di-Pertuan of Brunei Darussalam | Non-acceptance would cause embarrassment to donor and U.S. Government.
The Honorable John Kerry, Secretary of State of the United States | 11.75″ diameter lapis lazuli bowl. Rec'd—10/12/2013. Est. Value—$490.00. Disposition—Pending transfer to General Services Administration | His Excellency Hamid Karzai, President of Islamic Republic of Afghanistan | Non-acceptance would cause embarrassment to donor and U.S. Government.
The Honorable John Kerry, Secretary of State of the United States | Book, title: “Najib—Beginning of a Legacy” with personalized inscription. Silver ornamental box and lid with silver foliate scroll design. Rec'd—10/17/2013. Est. Value—$510.00. Disposition—Pending transfer to General Services Administration | YAB Dato' Sri Mohd Najib bin Tun Abdul Razak, Prime Minister of Malaysia | Non-acceptance would cause embarrassment to donor and U.S. Government.
The Honorable John Kerry, Secretary of State of the United States | Gold-plated replica of the Abraj Al-Bait clock tower in Makkah with DVD. Rec'd—11/6/2013. Est. Value—$20,450.00. Disposition—Pending transfer to General Services Administration | Abdullah bin Abd al-Aziz Al Saud, Custodian of the Two Holy Mosques, King of the Kingdom of Saudi Arabia | Non-acceptance would cause embarrassment to donor and U.S. Government.
The Honorable John Kerry, Secretary of State of the United States | Visconti fountain pen from the Istos Arancis Collection. Rec'd—11/20/2013. Est. Value—$1,950.00. Disposition—Pending transfer to General Services Administration | His Majesty Mohammed VI, King of Morocco | Non-acceptance would cause embarrassment to donor and U.S. Government.
The Honorable John Kerry, Secretary of State of the United States | Various perishable products. Snowman ornament. Bottle of Château Hosanna wine. Lunt silver picture frame. Large Illuminaria candle. Reed and Barton glass vase. Book, title: “North America.” Book, title: “Fred Lyon—San Francisco Then.” Rustic American flag storage trunk. Rec'd—12/1/2013. Est. Value—$520.00. Disposition—Pending transfer to General Services Administration Perishable items handled pursuant to the guidelines set forth by General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable John Kerry, Secretary of State of the United States | 24.5″ × 39″ handwoven silk rug. Rec'd—12/4/2013. Est. Value—$760.00. Disposition—Pending transfer to General Services Administration | His Excellency Elin Suleymanov, Ambassador of the Republic of Azerbaijan to the United States | Non-acceptance would cause embarrassment to donor and U.S. Government.
The Honorable John Kerry, Secretary of State of the United States | Bottle of Dragos Voievod cognac. Rec'd—12/4/2013. Est. Value—$432.00. Disposition—Perishable items handled pursuant to the guidelines set forth by General Services Administration | Mr. Igor Corman, Speaker of Parliament of the Republic of Moldova | Non-acceptance would cause embarrassment to donor and U.S. Government.
The Honorable John Kerry, Secretary of State of the United States | Framed oil painting of an outdoor scene with a church in a village near a body of water. Rec'd—12/4/2013. Est. Value—$550.00. Disposition—Pending transfer to General Services Administration | His Excellency Iurie Leanca, Prime Minister of the Republic of Moldova | Non-acceptance would cause embarrassment to donor and U.S. Government.
The Honorable John Kerry, Secretary of State of the United States | Personalized honorary storage cubby at Cricova Winery containing 460 bottles of Moldovan wine. Rec'd—12/4/2013. Est. Value—$8,339.50. Disposition—Retained at Cricova Winery in the Republic of Moldova to be displayed. All wine remains in the storage cubby at the winery | Mr. Valentin Bodiul, Director of Cricova Winery of the Republic of Moldova | Non-acceptance would cause embarrassment to donor and U.S. Government.
The Honorable John Kerry, Secretary of State of the United States | 8″ bronze drum on wooden stand. Wooden carving of a goat. Rec'd—12/16/2013. Est. Value—$430.00. Disposition—Pending transfer to General Services Administration | His Excellency Pham Binh Ming, Deputy Prime Minister and Foreign Minister of the Socialist Republic of Vietnam | Non-acceptance would cause embarrassment to donor and U.S. Government.
The Honorable John Kerry, Secretary of State of the United States | Silver-clad cast resin horse with signature on flank on a faux malachite base. Rec'd—12/23/2013. Est. Value—$425.00. Disposition—Pending transfer to General Services Administration | His Excellency Adel bin Ahmed al-Jubeir, Ambassador of the Kingdom of Saudi Arabia to the United States | Non-acceptance would cause embarrassment to donor and U.S. Government.
The Honorable John Kerry, Secretary of State of the United States | Brown storage chest with assorted Bateel food products. Rec'd—12/27/2013. Est. Value—$400.00. Disposition—Chest pending transfer to General Services Administration Perishable items handled pursuant to the guidelines set forth by General Services Administration | His Excellency Abdelaziz Bouteflika, President of the People's Democratic Republic of Algeria | Non-acceptance would cause embarrassment to donor and U.S. Government.
Mrs. Teresa Heinz Kerry, Spouse of the Secretary of State of the United States | Silver and coral jewelry set containing a necklace, bracelet, ring, and earrings. Rec'd—7/29/2013. Est. Value—$425.00. Disposition—Purchased by recipient from General Services Administration | His Excellency Abd Rabbu Mansour Hadi, President of the Republic of Yemen | Non-acceptance would cause embarrassment to donor and U.S. Government.
Mrs. Teresa Heinz Kerry, Spouse of the Secretary of State of the United States | Large bright orange silk scarf with brilliant jewel design. Large white porcelain vase with personalized inscription in a presentation box. Rec'd—11/21/2013. Est. Value—$395.00. Disposition—Pending transfer to General Services Administration | Her Excellency Liu Yandong, Vice Premier of the People's Republic of China | Non-acceptance would cause embarrassment to donor and U.S. Government.
The Honorable James B. Steinberg, Deputy Secretary of State | 15″ square white and green porcelain vase with three landscape designs by Ciyitang Liling Hunan China. Rec'd—10/13/2009. Est. Value—$1,200.00. Disposition—Pending transfer to General Services Administration | Mr. Li Yuanchao, Member of the Politburo Party of the Communist Party of China | Non-acceptance would cause embarrassment to donor and U.S. Government.
The Honorable William J. Burns, Deputy Secretary of State | 22″ brass statue of an abstracted standing human figure on an oval wooden base. Rec'd—2/8/2013. Est. Value—$435.00. Disposition—Pending transfer to General Services Administration | His Excellency Augustin Matata Ponyo, Prime Minister of the Democratic Republic of the Congo | Non-acceptance would cause embarrassment to donor and U.S. Government.
The Honorable William J. Burns, Deputy Secretary of State | 57″ x 77″ rug. Rec'd—5/11/2013. Est. Value—$400.00. Disposition—Pending transfer to General Services Administration | His Excellency Hamid Karzai, President of the Islamic Republic of Afghanistan | Non-acceptance would cause embarrassment to donor and U.S. Government.
The Honorable William J. Burns, Deputy Secretary of State | William and Son of London red triangle clock with silver design. Rec'd—6/1/2013. Est. Value—$1,070.00. Disposition—Pending transfer to General Services Administration | His Royal Highness Salman Bin Hamad Al Khalifa, Crown Prince of the Kingdom of Bahrain, First Deputy Prime Minsiter, and Deputy Supreme Commander of the Bahrain Defense Force | Non-acceptance would cause embarrassment to donor and U.S. Government.
The Honorable William J. Burns, Deputy Secretary of State | Silver plate with engraving in a leatherette presentation box. Hand-made Haddad Cutlery serving set for nine. Rec'd—06/28/2013. Est. Value—$490.00. Disposition—Pending Transfer to General Services Administration | General Jean Kahwagi, Commander of the Lebanese Armed Forces | Non-acceptance would cause embarrassment to donor and U.S. Government.
The Honorable William J. Burns, Deputy Secretary of State | 35.5″ × 15″ ornamental wooden hanging shelf with mother of pearl and abalone shell marquetry. Rec'd—7/3/2013. Est. Value—$1,450.00. Disposition—Pending transfer to General Services Administration | Foreign Government Official | Non-acceptance would cause embarrassment to donor and U.S. Government.
The Honorable William J. Burns, Deputy Secretary of State | Pearl tie tack. Rec'd—9/11/2013. Est. Value—$2,040.00. Disposition—Pending transfer to General Services Administration | Mr. Natsuo Yamaguchi, Chief Representative of Japan's New Komeito Party | Non-acceptance would cause embarrassment to donor and U.S. Government.
The Honorable Peter Coneway, Ambassador to Swiss Confederation | 2,700 Swiss Francs. Rec'd—11/2008. Est. Value—$2,464.34. Disposition—Deposited into the Emergencies in the Diplomatic and Consular Services account within the Department of State | His Excellency Francesco Canalini, Apostolic Nuncio to the Swiss Confederation | Non-acceptance would cause embarrassment to donor and U.S. Government.
Mr. Kieran McGee, RSO | Tissot PRS Zoo watch. Rec'd—2/24/2009. Est. Value—$470.00. Disposition—Pending transfer to General Services Administration | Foreign Government Official | Non-acceptance would cause embarrassment to donor and U.S. Government.
The Honorable Gary Grappo, Ambassador to the Sultanate of Oman | Set of six red lacquerware placemats and napkin rings inlaid with mother of pearl in traditional Omani coffee pot designs in a wooden lacquerware box with mother of pearl inlaid lid. Rec'd—5/26/2009. Est. Value—$540.00. Disposition—Pending transfer to General Services Administration | His Excellency Yahya al Sulaimi, Minister of Education of the Sultanate of Oman | Non-acceptance would cause embarrassment to donor and U.S. Government.
The Honorable Gary Grappo, Ambassador to the Sultanate of Oman | Silver traditional Omani coffee pot. Rec'd—5/26/2009. Est. Value—$1,500.00. Disposition—Pending transfer to General Services Administration | His Highness Sayyid Fahd Al Said, Deputy Prime Minister of the Council of Ministers of the Sultanate of Oman | Non-acceptance would cause embarrassment to donor and U.S. Government.
The Honorable Gary Grappo, Ambassador to the Sultanate of Oman | Small silver traditional Omani coffee pot and three small hollow silver cups in red velvet lined box. Rec'd—5/26/2009. Est. Value—$1,623.00. Disposition—Pending transfer to General Services Administration | His Excellency General Ali Majid al Ma'amri, Minister of the Royal Office of the Sultanate of Oman | Non-acceptance would cause embarrassment to donor and U.S. Government.
The Honorable Gary Grappo, Ambassador to the Sultanate of Oman | Silver traditional Omani khanjar knife and belt in a velvet lined box. Rec'd—5/26/2009. Est. Value—$950.00. Disposition—Pending transfer to General Services Administration | His Excellency Mohamed al Ma'amri, Minister of State and the Governor of Dhofar of the Sultanate of Oman | Non-acceptance would cause embarrassment to donor and U.S. Government.
The Honorable Gary Grappo, Ambassador to the Sultanate of Oman | Dhow box made of sterling silver and silver gilt. Miniature 18k yellow gold astrolabe necklace. Rec'd—5/26/2009. Est. Value—$7,000.00. Disposition—Pending transfer to General Services Administration | His Majesty Sultan Qaboos al Said, Sultan of Oman | Non-acceptance would cause embarrassment to donor and U.S. Government.
The Honorable Gary Grappo, Ambassador to the Sultanate of Oman | Silver traditional Omani khanjar knife with elephant ivory handle in a velvet lined box with Royal Office insignia stamped in gold on lid. Rec'd—5/26/2009. Est. Value—$400.00. Disposition—Transferred to the Department of the Interior, Fish and Wildlife Services to be properly handled | Lieutenant General Mundhir Majid Al Said, Head of Liaison of the Royal Office of the Sultanate of Oman | Non-acceptance would cause embarrassment to donor and U.S. Government.
The Honorable John Huntsman, Ambassador to the People's Republic of China | Off-round pearl neckalce with silvertone clasp. Rec'd—12/2/2009. Est. Value—$500.00. Disposition—Pending transfer to General Services Administration | Foreign Government Official | Non-acceptance would cause embarrassment to donor and U.S. Government.
Mr. Fletcher M. Burton, Team Leader of the Kirkuk Provinical Reconstruction Team | Watch. Rec'd—5/2010. Est. Value—$1,100.00. Disposition—Pending transfer to General Services Administration | His Excellency Hajredin Kuci, Deputy Prime Minister of the Republic of Kosovo | Non-acceptance would cause embarrassment to donor and U.S. Government.
Mr. Vladimir Medoev, Economic Specialist | Tissot watch model T018.617.16.051.00. Rec'd—6/29/2010. Est. Value—$409.00. Disposition—Pending transfer to General Services Administration | The Federal Antimonopoly Service of the Russian Federation | Non-acceptance would cause embarrassment to donor and U.S. Government.
Mr. Fletcher M. Burton, Team Leader of the Kirkuk Provinical Reconstruction Team | 39″ × 57″ silk qum carpet. Rec'd—8/2010. Est. Value—$1,200.00. Disposition—Pending transfer to General Services Administration | Dr. Kamal Kirkuki, Speaker of Parliament of the Kurdistan Regional Government | Non-acceptance would cause embarrassment to donor and U.S. Government.
Ms. Tara Foley, Political Officer | Four bottle perfume set from Hermes. Swarovski necklace. Swarovski earrings. Rec'd—11/2010. Est. Value—$370.00. Disposition—Pending transfer to General Services Administration | Permanent Mission of the State of Qatar to the United Nations | Non-acceptance would cause embarrassment to donor and U.S. Government.
Ms. Bonnie S. Gutman, Public Affairs Counselor | Versace watch. Rec'd—12/5/2010. Est. Value—$900.00. Disposition—Pending transfer to General Services Administration | Dr. Majed al-Harbi, Director for the King Abdullah Scholarship Programs of the Ministry of Higher Education of the Kingdom of Saudi Arabia | Non-acceptance would cause embarrassment to donor and U.S. Government.
Ms. Asel Roberts, Protocol Officer | Silver Tissot Swiss watch. Rec'd—12/24/2010. Est. Value—$ 450.00. Disposition—Pending transfer to General Services Administration | His Excellency Ali bin Fahad Faleh Al-Hajri, Ambassador of the State of Qatar to the United States | Non-acceptance would cause embarrassment to donor and U.S. Government.
The Honorable Susan Rice, Ambassador of the United States to the United Nations | Four walking sticks made of ebony wood with mother of pearl inlay. Framed beaded United States flag. Beaded headband and necklace set. Sheet with floral embroidery. Calabash bowl painted with floral design with beaded handles attached to the tops and sides. Rec'd—7/9/2011. Est. Value—$860.00. Disposition—Pending transfer to General Services Administration | Government of the Republic of South Sudan | Non-acceptance would cause embarrassment to donor and U.S. Government.
Mr. Tim Forte, Special Agent | Concord watch with silver band and diamond face. Rec'd—10/24/2011. Est. Value—$2,690.00. Disposition—Pending transfer to General Services Administration | The Government of the Kingdom of Saudi Arabia | Non-acceptance would cause embarrassment to donor and U.S. Government.
Mr. Michael McGee, Special Agent | Georg Jensen watch with white face and three bands. Rec'd—10/24/2011. Est. Value—$1,775.00. Disposition—Pending transfer to General Services Administration | The Government of the Kingdom of Saudi Arabia | Non-acceptance would cause embarrassment to donor and U.S. Government.
Mr. Rylan Husssey, Special Agent | Cerruti watch with black band and black face. Rec'd—10/24/2011. Est. Value—$780.00. Disposition—Pending transfer to General Services Administration | The Government of the Kingdom of Saudi Arabia | Non-acceptance would cause embarrassment to donor and U.S. Government.
Mr. Derek Hirons, Special Agent | Cerruti watch with black band and black face. Rec'd—10/24/2011. Est. Value—$780.00. Disposition—Pending transfer to General Services Administration | The Government of the Kingdom of Saudi Arabia | Non-acceptance would cause embarrassment to donor and U.S. Government.
Mr. Charles Shannon, Special Agent | Hermès watch with silver band and blue face, model number 1298624. Rec'd—10/24/2011. Est. Value—$3,125.00. Disposition—Pending transfer to General Services Administration | The Government of the Kingdom of Saudi Arabia | Non-acceptance would cause embarrassment to donor and U.S. Government.
Ms. Karen Brown, Special Agent | Etema watch with silver band, model number 3206.41. Rec'd—10/24/2011. Est. Value—$740.00. Disposition—Purchased by recipient from General Services Administration | The Government of the Kingdom of Saudi Arabia | Non-acceptance would cause embarrassment to donor and U.S. Government.
Mr. Jason Lew, Special Agent | Robergé watch with green wristband. Rec'd—10/24/2011. Est. Value—$1,600.00. Disposition—Pending transfer to General Services Administration | The Government of the Kingdom of Saudi Arabia | Non-acceptance would cause embarrassment to donor and U.S. Government.
Mr. Mark Earl, Special Agent | Concord watch with silver band and diamond face. Rec'd—10/24/2011. Est. Value—$2,690.00. Disposition—Pending transfer to General Services Administration | The Government of the Kingdom of Saudi Arabia | Non-acceptance would cause embarrassment to donor and U.S. Government.
Mr. Jason Gutzler, Special Agent | Cerruti watch with black band. Rec'd—10/24/2011. Est. Value—$385.00. Disposition—Pending transfer to General Services Administration | The Government of the Kingdom of Saudi Arabia | Non-acceptance would cause embarrassment to donor and U.S. Government.
Mr. Chris Ray, Special Agent | Cerruti watch with brown leather band. Rec'd—10/24/2011. Est. Value—$400.00. Disposition—Pending transfer to General Services Administration | The Government of the Kingdom of Saudi Arabia | Non-acceptance would cause embarrassment to donor and U.S. Government.
Ms. Kelly Willman, Special Agent | Technomarine watch with black leather band and silver face. Rec'd—10/24/2011. Est. Value—$3,250.00. Disposition—Pending transfer to General Services Administration | The Government of the Kingdom of Saudi Arabia | Non-acceptance would cause embarrassment to donor and U.S. Government.
Mr. Komaal Collie, Special Agent | Cerruti watch with black leather band. Rec'd—10/24/2011. Est. Value—$385.00. Disposition—Pending transfer to General Services Administration | The Government of the Kingdom of Saudi Arabia | Non-acceptance would cause embarrassment to donor and U.S. Government.
Mr. Eddie Alava, Special Agent | Etema watch with silver band and black face. Rec'd—10/24/2011. Est. Value—$925.00. Disposition—Pending transfer to General Services Administration | The Government of the Kingdom of Saudi Arabia | Non-acceptance would cause embarrassment to donor and U.S. Government.
The Honorable Marc Grossman, Special Representative for Afghanistan and Pakistan | 51″ × 77″ Iranian Qom yellow and brown silk carpet with a medallion pattern. Rec'd—11/3/2011. Est. Value—$6,380.00. Disposition—Pending transfer to General Services Administration | Dr. Ali Bin Fetais Al Marri, Attorney General of the State of Qatar | Non-acceptance would cause embarrassment to donor and U.S. Government.
The Honorable Marc Grossman, Special Representative for Afghanistan and Pakistan | Mont Blanc 2010 Mark Twain Writer's Edition pen set including pen, ballpoint pen, and pencil. Rec'd—11/3/2011. Est. Value—$430.00. Disposition—Pending Transfer to General Services Administration | His Highness Sheikh Hamad Bin Khalifa Al-Thani, Amir of the State of Qatar | Non-acceptance would cause embarrassment to donor and U.S. Government.
Ms. Catherine Jones, Spouse of the Ambassador to Malaysia | Louis Vuitton purse. Rec'd—11/17/2011. Est. Value—$1,700.00. Disposition—Pending transfer to General Services Administration | Her Royal Highness Sultanah Pahang Hajjah Kalsom of Malaysia | Non-acceptance would cause embarrassment to donor and U.S. Government.
Ms. Kerry Walsh Stockwe | Cover ladies' watch with black rubber wristband. Rec'd—1/20/2012. Est. Value—$390.00. Disposition—Pending transfer to General Services Administration | His Majesty King Abdullah II ibn Al Hussein, King of the Hashemite Kingdom of Jordan | Non-acceptance would cause embarrassment to donor and U.S. Government.
Ms. Khristen Schwenn | Cover ladies' watch with black rubber wristband. Rec'd—1/20/2012. Est. Value—$390.00. Disposition—Pending transfer to General Services Administration | His Majesty King Abdullah II ibn Al Hussein, King of the Hashemite Kingdom of Jordan | Non-acceptance would cause embarrassment to donor and U.S. Government.
The Honorable Kerri-Ann Jones, Assistant Secretary of State for Oceans and International Environmental and Scientific Affairs | 46.5″ metal giraffe. Rec'd—4/10/2012. Est. Value—$380.00. Disposition—Pending purchase by recipient from General Services Administration | The Government of the United Republic of Tanzania | Non-acceptance would cause embarrassment to donor and U.S. Government.
The Honorable Capricia Penavic Marshall, Chief of Protocol | Six bottles of Vérité La Muse red wine. Six bottles of Château Lafite Rothschild Paullac wine. Rec'd—2/21/2013. Est. Value—$6,000.00. Disposition—Perishable items handled pursuant to the guidelines set forth by General Services Administration | His Excellency Yousef Al Otaiba, Ambassador of the United Arab Emirates to the United States | Non-acceptance would cause embarrassment to donor and U.S. Government.
The Honorable Richard G. Olson, Ambassador to the Islamic Republic of Pakistan | Bottle of Château Margaux 1986 Premier Grand Cru Classé. Rec'd—2/25/2013. Est. Value—$682.00. Disposition—Perishable items handled pursuant to the guidelines set forth by General Services Administration | His Excellency Asif Ali Zardari, President of the Islamic Republic of Pakistan | Non-acceptance would cause embarrassment to donor and U.S. Government.
Ms. Bridget Brink, Deputy Chief of Mission to Georgia | Chinese enamel plate. Rec'd—4/23/2013. Est. Value—$505.00. Disposition—Retained for official use only | Mr. Hao Deng, Deputy Chief of Mission of the People's Republic of China to Georgia | Non-acceptance would cause embarrassment to donor and U.S. Government.
The Honorable Earl Anthony Wayne, Ambassador to Mexico | White decorative plate with steriling silver inlays crafted and signed by Emilia. Rec'd—4/23/2013. Est. Value—$425.00. Disposition—Retained for official use only | The Honorable Ángel Aguirre Rivero, Governor of the State of Guerrero | Non-acceptance would cause embarrassment to donor and U.S. Government.
Ms. Barbara Leaf, Deputy Assistant Secretary of the Near Middle East Bureau | Emilio Pucci blue, lime, and black wool scarf. Rec'd—4/2013. Est. Value—$390.00. Disposition—Pending transfer to General Services Administration | His Excellency Jabir Habeb Jabir Hemaidawi, Ambassador of the Republic of Iraq to the United States | Non-acceptance would cause embarrassment to donor and U.S. Government.
Mr. James Infanzon, Protocol Officer | Silver Victorinox Swiss Army men's watch (Ref. 241300) . Rec'd—5/10/2013. Est. Value—$495.00. Disposition—Pending transfer to General Services Administration | His Majesty King Abdullah II ibn Al Hussein, King of the Hashemite Kingdom of Jordan | Non-acceptance would cause embarrassment to donor and U.S. Government.
The Honorable Christopher McMullen, Ambassador to the Republic of Angola | Bronze statue. Rec'd—6/3/2013. Est. Value—$15,000.00. Disposition—Retained for official use only | His Excellency Manuel Vicente, Vice President of the Republic of Angola | Non-acceptance would cause embarrassment to donor and U.S. Government.
The Honorable Capricia Penavic Marshall, Chief of Protocol | Silver and lapis lazuli necklace. Mustard yellow blanket with tassels by Octavio Pizarro. Rec'd—6/3/2013. Est. Value—$470.00. Disposition—Necklace purchased by recipient from General Services Administration Blanket pending transfer to General Services Administration | His Excellency Sebastian Piñera, President of the Republic of Chile | Non-acceptance would cause embarrassment to donor and U.S. Government.
The Honorable David Pearce, Acting Special Representative for Afghanistan and Pakistan | Silver tone metal and plastic ship model in red presentation case. Rec'd—6/7/2013. Est. Value—$420.00. Disposition—Retained for official use only | Dr. Ali Bin Fetais Al Marri, Attorney General of the State of Qatar | Non-acceptance would cause embarrassment to donor and U.S. Government.
The Honorable Eleni Tsakopoulos Kounalakis, Ambassador to the Repulic Hungary | Plum Zsolnay vase with red and white flowers. Rec'd—6/7/2013. Est. Value—$1,450.00. Disposition—Purchased by recipient from General Services Administration | His Excellency Janos Martonyi, Minister of Foreign Affairs of the Republic of Hungary | Non-acceptance would cause embarrassment to donor and U.S. Government.
The Honorable Hugo Llorens, Assistant Chief of Mission to the Islamic Republic of Afghanistan | 7′ × 5′ red Andkhoee carpet. Rec'd—6/15/2013. Est. Value—$600.00. Disposition—Pending transfer to General Services Administration | His Excellency Farooq Wardak, Minister of Education of the Islamic Republic of Afghanistan | Non-acceptance would cause embarrassment to donor and U.S. Government.
The Honorable Kerri-Ann Jones, Assistant Secretary of State for Oceans and International Environmental and Scientific Affairs | Bronze desk ornament with two winged lions and an hourglass in the center of drawer. Rec'd—6/20/2013. Est. Value—$365.00. Disposition—Pending transfer to General Services Administration | Professor Murat Zhurinov, President of the National Academy of Sciences of the Republic of Kazakhstan | Non-acceptance would cause embarrassment to donor and U.S. Government.
The Honorable Christopher Murray, Ambassador to the Republic of Congo | 5′ × 4′ oil painting. Rec'd—6/24/2013. Est. Value—$1,500.00. Disposition—Retained for official use only | His Excellency Basile Ikouébé, Minister of Foreign Affairs of the Republic of Congo | Non-acceptance would cause embarrassment to donor and U.S. Government.
Mr. Thomas Smitham, Chargé d'Affaires to the Republic of Trinidad and Tobago | Handcrafted polished steel pan drum in Calypso and Trinidad traditions. Rec'd—6/27/2013. Est. Value—$940.00. Disposition—Retained for official use only | His Excellency Prakash Ramadhar, Minister of Legal Affairs of the Republic of Trinidad and Tobago | Non-acceptance would cause embarrassment to donor and U.S. Government.
The Honorable John A. Heffern, Ambassador to the Republic of Armenia | Landscape painting by Rafael Megall Melikyan. Rec'd—7/3/2013. Est. Value—$5,000.00. Disposition—Retained for official use only | Mr. Gurgen Arsenyan, Member of Parliament of the National Assembly of the Republic of Armenia | Non-acceptance would cause embarrassment to donor and U.S. Government.
The Honorable Paul Jones, Ambassador to Malaysia | 12″ gilt dagger with cover in presentation box. Rec'd—7/3/2013. Est. Value—$400.00. Disposition—Retained for official use only | His Royal Highness Haji Ahmad Shah Al-Mustain Billah, Sultan of Pahang State of Malaysia | Non-acceptance would cause embarrassment to donor and U.S. Government.
Ms. Catherine Jones, Spouse of the Ambassador to Malaysia | Pink vinyl Christian Dior handbag with a chrome chainlink strap. Rec'd—7/3/2013. Est. Value—$4,500.00. Disposition—Pending transfer to General Services Administration | His Royal Highness Haji Ahmad Shah Al-Mustain Billah, Sultan of Pahang State of Malaysia | Non-acceptance would cause embarrassment to donor and U.S. Government.
The Honorable John F. Tefft, Ambassador to Ukraine | 13.5″ bronze dancing Cossack sculpture by Kamil. Rec'd—7/4/2013. Est. Value—$2,450.00. Disposition—Retained for official use only | Mr. Serhiy Lovochkin, Chief of Staff of the President of Ukraine | Non-acceptance would cause embarrassment to donor and U.S. Government.
The Honorable Richard B. Norland, Ambassador to Georgia | Book, title: “Boubluoū Atrac Kazaxctaha”. Rec'd—8/7/2013. Est. Value—$700.00. Disposition—Retained for official use only | His Excellency Yermukhamed Yertysbayev, Ambassador of the Republic of Kazakhstan to Georgia | Non-acceptance would cause embarrassment to donor and U.S. Government.
Ms. Libby Heffern, Spouse of the Ambassador to the Republic of Armenia | Karen Terzyan candle holder. Rec'd—8/14/2013. Est. Value—$2,000.00. Disposition—Retained for official use only | Ms. Rita Sargsyan, First Lady of the Republic of Armenia | Non-acceptance would cause embarrassment to donor and U.S. Government.
The Honorable Maura Connelly, Ambassador to the Lebanese Republic | Cartier silver ladies' watch with a cream face. Rec'd—8/14/2013. Est. Value—$2,840.00. Disposition—Pending transfer to General Services Administration | Government of the Lebanese Republic | Non-acceptance would cause embarrassment to donor and U.S. Government.
The Honorable Maura Connelly, Ambassador to the Lebanese Republic | Oriental rug. Rec'd—8/19/2013. Est. Value—$3,800.00. Disposition—Retained for official use only | His Excellency Mohammad Safadi, Minister of Finance of the Lebanese Republic | Non-acceptance would cause embarrassment to donor and U.S. Government.
The Honorable Dan Mozena, Ambassador to the People's Republic of Bangladesh | Painting on canvas. Rec'd—8/2013. Est. Value—$650.00. Disposition—Retained for official use only | His Excellency Mahbubey Alam, Attorney General of the People's Republic of Bangladesh | Non-acceptance would cause embarrassment to donor and U.S. Government.
Mr. Sean Kirkpatrick, Special Agent | 500 United States dollars. Rec'd—9/19/2013. Est. Value—$500.00. Disposition—Delivered to the Department of State Cashier's Office to be deposited to the Department of the Treasury | His Royal Highness Prince Abd al-Illah bin Abd al-Aziz Al Saud, Prince Advisor to the King of the Kingdom of Saudi Arabia | Non-acceptance would cause embarrassment to donor and U.S. Government.
The Honorable Wendy Sherman, Under Secretary of State for Political Affairs | Limited-edition Tig Isi gondola glass bowl with 24k gold trim. Rec'd—9/25/2013. Est. Value—$870.00. Disposition—Pending transfer to General Services Administration | Dr. Hakan Fidan, Undersecretary of the Turkish National Intelligence Organization | Non-acceptance would cause embarrassment to donor and U.S. Government.
The Honorable Richard Morningstar, Ambassador to the Republic of Azerbaijan | 39.25″ × 47.25″ silk carpet. Rec'd—11/13/2013. Est. Value—$625.00. Disposition—Retained for official use only | Mr. Shamsaddin Hajiyev, Rector of the Economic University of the Republic of Azerbaijan | Non-acceptance would cause embarrassment to donor and U.S. Government.
The Honorable Wendy Sherman, Under Secretary of State for Political Affairs | Pearl jewelry set containing a necklace, bracelet, and earrings. Air tight canister filled with honey. Coffee. Rec'd—12/3/2013. Est. Value—$780.00. Disposition—Jewelry set pending transfer to General Services Administration Perishable items handled pursuant to the guidelines set forth by General Services Administration | His Excellency Mohammed Nasser Ahmed Ali, Minister of Defense of the Republic of Yemen | Non-acceptance would cause embarrassment to donor and U.S. Government.
Ms. Natalie Jones, Acting Chief of Protocol | 100″ × 159″ red handwoven area rug. Rec'd—12/17/2013. Est. Value—$2,950.00. Disposition—Pending transfer to General Services Administration | His Majesty Mohammed VI, King of Morocco | Non-acceptance would cause embarrassment to donor and U.S. Government.
Mr. Tony Franco, Protocol Officer | 80″ × 127″ red handwoven area rug. Rec'd—12/17/2013. Est. Value—$1,870.00. Disposition—Pending transfer to General Services Administration | His Majesty Mohammed VI, King of Morocco | Non-acceptance would cause embarrassment to donor and U.S. Government.
Ms. Sarah Henning, Protocol Officer | 80″ × 127″ red handwoven area rug. Rec'd—12/17/2013. Est. Value—$1,870.00. Disposition—Pending transfer to General Services Administration | His Majesty Mohammed VI, King of Morocco | Non-acceptance would cause embarrassment to donor and U.S. Government.
Ms. Leigh Garland, Senior Gifts Officer | 80″ × 127″ red handwoven area rug. Rec'd—12/17/2013. Est. Value—$1,870.00. Disposition—Pending transfer to General Services Administration | His Majesty Mohammed VI, King of Morocco | Non-acceptance would cause embarrassment to donor and U.S. Government.
Ms. Dean Lewis, Protocol Officer | 80″ × 127″ red handwoven area rug. Rec'd—12/17/2013. Est. Value—$1,870.00. Disposition—Pending transfer to General Services Administration | His Majesty Mohammed VI, King of Morocco | Non-acceptance would cause embarrassment to donor and U.S. Government.
Ms. Samantha Tubman, Assistant Chief of Protocol for Visits | 80″ × 127″ red handwoven area rug. Rec'd—12/17/2013. Est. Value—$1,870.00. Disposition—Pending transfer to General Services Administration | His Majesty Mohammed VI, King of Morocco | Non-acceptance would cause embarrassment to donor and U.S. Government.
Mr. James Infanzon, Protocol Officer | 80″ × 127″ red handwoven area rug. Rec'd—12/17/2013. Est. Value—$1,870.00. Disposition—Pending transfer to General Services Administration | His Majesty Mohammed VI, King of Morocco | Non-acceptance would cause embarrassment to donor and U.S. Government.
Mr. David Solomon, Protocol Officer | 80″ × 127″ orange handwoven area rug. Rec'd—12/17/2013. Est. Value—$1,870.00. Disposition—Pending transfer to General Services Administration | His Majesty Mohammed VI, King of Morocco | Non-acceptance would cause embarrassment to donor and U.S. Government.
Mr. Jason Rahlan, Public Affairs Officer | 80″ × 127″ red handwoven area rug. Rec'd—12/17/2013. Est. Value—$1,870.00. Disposition—Pending transfer to General Services Administration | His Majesty Mohammed VI, King of Morocco | Non-acceptance would cause embarrassment to donor and U.S. Government.
Ms. Penny Price, Senior Protocol Officer | 80″ × 127″ red handwoven area rug. Rec'd—12/17/2013. Est. Value—$1,870.00. Disposition—Pending transfer to General Services Administration | His Majesty Mohammed VI, King of Morocco | Non-acceptance would cause embarrassment to donor and U.S. Government.
Mr. Michael Van Buskirk, Special Agent in Charge | Brown leather Louis Vuitton wallet. Rec'd—12/23/2013. Est. Value—$680.00. Disposition—Pending transfer to General Services Administration | Colonel Mohamed Al Nassr, Security Attaché at the Embassy of the State of Qatar | Non-acceptance would cause embarrassment to donor and U.S. Government.
Ms. Barbara Leaf, Deputy Assistant Secretary for the Near East Affairs Bureau | William and Son red triangle clock with silver design at base . Rec'd—12/2013. Est. Value—$1,100.00. Disposition—Pending transfer to General Services Administration | Mr. Salman bin Khalifa, Director General of the Office of the First Deputy Prime Minister of the Kingdom of Bahrain | Non-acceptance would cause embarrassment to donor and U.S. Government.
Unknown | Longines watch. Rec'd—Unknown. Est. Value—$4,800.00. Disposition—Pending transfer to General Services Administration | Government of the Republic of Iraq | Non-acceptance would cause embarrassment to donor and U.S. Government.
Unknown | Rado watch. Rec'd—Unknown. Est. Value—$700.00. Disposition—Pending transfer to General Services Administration | Government of the Republic of Iraq | Non-acceptance would cause embarrassment to donor and U.S. Government.
Unknown | Rado watch. Rec'd—Unknown. Est. Value—$3,100.00. Disposition—Pending transfer to General Services Administration | Government of the Republic of Iraq | Non-acceptance would cause embarrassment to donor and U.S. Government.
Unknown | Delsey black suitcase. Burberry Summer perfume. Technoluxury watch. Montale Paris perfume. Lauder Pleasures cologne. Helveco black leather wallet. Black pinstripe fabric. Purple Guess wallet. Façonnable pink tie. Cerruti 1881 burgundy tie. Pink pearl necklace. Pierre Germani watch with black leather band and silver and diamond face. Germani silver and diamond watch. Rec'd—Unknown. Est. Value—$4,250.00. Disposition—Pending transfer to General Services Administration | Foreign Government Official | Non-acceptance would cause embarrassment to donor and U.S. Government.
Unknown | 22.5″ × 6.5″ sterling silver tray with eggshell inlay. Rec'd—Unknown. Est. Value—$390.00. Disposition—Pending transfer to General Services Administration | Foreign Government Official | Non-acceptance would cause embarrassment to donor and U.S. Government.
The Honorable Patrick F. Kennedy, Under Secretary of State for Management | Rug. Rec'd—Unknown. Est. Value—$1,545.00. Disposition—Pending transfer to General Services Administration | Embassy of the Islamic Republic of Afghanistan | Non-acceptance would cause embarrassment to donor and U.S. Government.

AGENCY: Administrative Office of the United States Courts
[Report of Travel Furnished by the Administrative Office of the United States Courts]
Name and title of person accepting the gift on behalf of the U.S. Government | Gift, date of acceptance on behalf of the U.S. Government, estimated value, and current disposition or location | Identity of foreign donor and government | Circumstances justifying acceptance
The Honorable John M. Rogers, Circuit Judge, United States Court of Appeals of the Sixth Circuit | Travel: Transportation from airport to hotel. Hotel accommodations for six nights. Several meals. Rec'd—11/3-9/2013. Est. Value—$1,140.00 | China Foreign Affairs University | Non-acceptance would cause embarrassment to donor and U.S. Government.

AGENCY: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable John O. Brennan, Director of the Central Intelligence Agency | 60″ × 108″ wool rug with a brown background. Rec'd—4/3/2013. Est. Value—$700.00. Disposition—On display in Director's office for official use only | 5USC 7342 (f)(4) | Non-acceptance would cause embarrassment to donor and U.S. Government.
The Honorable John O. Brennan, Director of the Central Intelligence Agency | 142″ × 106″ wool rug with a light ivory ground. Rec'd—5/15/2013. Est. Value—$3,000.00. Disposition—On display in Director's office for official use only | 5USC 7342 (f)(4) | Non-acceptance would cause embarrassment to donor and U.S. Government.
The Honorable John O. Brennan, Director of the Central Intelligence Agency | Brown leather cased filigree silver double-edged curved dagger. Rec'd—5/15/2013. Est. Value—$1,500.00. Disposition—On display in Director's office for official use only | 5USC 7342 (f)(4) | Non-acceptance would cause embarrassment to donor and U.S. Government.
The Honorable John O. Brennan, Director of the Central Intelligence Agency | Mosaic and gilt glass footed bowl. Rec'd—5/18/2013. Est. Value—$1,500.00. Disposition—On display in Director's office for official use only | 5USC 7342 (f)(4) | Non-acceptance would cause embarrassment to donor and U.S. Government.
The Honorable John O. Brennan, Director of the Central Intelligence Agency | Silk carpet with green background with a large medallion in the center. Rec'd—6/11/2013. Est. Value—$1,000.00. Disposition—On display in Director's office for official use only | 5USC 7342 (f)(4) | Non-acceptance would cause embarrassment to donor and U.S. Government.
The Honorable John O. Brennan, Director of the Central Intelligence Agency | 116″ × 49″ woven rug with red and green colors. Rec'd—6/18/2013. Est. Value—$1,200.00. Disposition—On display in Director's office for official use only | 5USC 7342 (f)(4) | Non-acceptance would cause embarrassment to donor and U.S. Government.
The Honorable John O. Brennan, Director of the Central Intelligence Agency | Four small paintings depicting the winter, spring, summer, and fall. Rec'd—6/19/2013. Est. Value—$1,500.00. Disposition—On display in Director's office for official use only | 5USC 7342 (f)(4) | Non-acceptance would cause embarrassment to donor and U.S. Government.
The Honorable John O. Brennan, Director of the Central Intelligence Agency | Lalique frosted and clear glass falcon. Rec'd—7/24/2013. Est. Value—$2,500.00. Disposition—On display in Director's office for official use only | 5USC 7342 (f)(4) | Non-acceptance would cause embarrassment to donor and U.S. Government.
The Honorable John O. Brennan, Director of the Central Intelligence Agency | Turquoise studded and gilt amber glass covered bowl with a removable dome lid. Rec'd—9/18/2013. Est. Value—$1,500.00. Disposition—On display in Director's office for official use only | 5USC 7342 (f)(4) | Non-acceptance would cause embarrassment to donor and U.S. Government.
The Honorable John O. Brennan, Director of the Central Intelligence Agency | Gilt and silver metal model of a palm tree in a faux red reptile case. Rec'd—9/18/2013. Est. Value—$1,000.00. Disposition—On display in Director's office for official use only | 5USC 7342 (f)(4) | Non-acceptance would cause embarrassment to donor and U.S. Government.
The Honorable John O. Brennan, Director of the Central Intelligence Agency | Jewelry set in a gold plated box. Rec'd—11/5/2013. Est. Value—$700.00. Disposition—On display in Director's office for official use only | 5USC 7342 (f)(4) | Non-acceptance would cause embarrassment to donor and U.S. Government.
The Honorable John O. Brennan, Director of the Central Intelligence Agency | 38″ × 29″ pictorial rug with a green ground. Rec'd—12/20/2013. Est. Value—$750.00. Disposition—On display in Director's office for official use only | 5USC 7342 (f)(4) | Non-acceptance would cause embarrassment to donor and U.S. Government.
The Honorable John O. Brennan, Director of the Central Intelligence Agency | 48″ × 36″ silk meditation rug with a purple background. Rec'd—12/21/2013. Est. Value—$3,500.00. Disposition—On display in Director's office for official use only | 5USC 7342 (f)(4) | Non-acceptance would cause embarrassment to donor and U.S. Government.
Mr. Michael J. Morell, Acting Director of the Central Intelligence Agency | Teleti painting by Edmond Kalandadze. Rec'd—1/28/2013. Est. Value—$500.00. Disposition—Pending transfer to General Services Administration | 5USC 7342 (f)(4) | Non-acceptance would cause embarrassment to donor and U.S. Government.
Mr. Michael J. Morell, Acting Director of the Central Intelligence Agency | Two bottles of red wine. Rec'd—7/9/2013. Est. Value—$1,151.00. Disposition—Perishable items handled pursuant to the guidelines set forth by the General Services Administration | 5USC 7342 (f)(4) | Non-acceptance would cause embarrassment to donor and U.S. Government.
An Agency Employee | Omega Constellation men's watch. Rec'd—7/16/2003. Est. Value—$2,000.00. Disposition—Pending transfer to General Services Administration | 5USC 7342 (f)(4) | Non-acceptance would cause embarrassment to donor and U.S. Government.
An Agency Employee | Longine's Legend diver's watch. Rec'd—7/26/2012. Est. Value—$1,882.00. Disposition—Pending transfer to General Services Administration | 5USC 7342 (f)(4). | Non-acceptance would cause embarrassment to donor and U.S. Government.
An Agency Employee | 103″ × 66″ wool rug with a gold ground and red accents. Rec'd—11/8/2012. Est. Value—$1,000.00. Disposition—On display in Director's office for official use only | 5USC 7342 (f)(4) | Non-acceptance would cause embarrassment to donor and U.S. Government.
An Agency Employee | Chopard ballpoint pen. Rec'd—12/29/2012. Est. Value—$500.00. Disposition—Pending transfer to General Services Administration | 5USC 7342 (f)(4) | Non-acceptance would cause embarrassment to donor and U.S. Government.
An Agency Employee | 2008 Omega “Seamaster Professional” gentlemen's stainless steel water resistant self winding wristwatch. Rec'd—2/1/2013. Est. Value—$1,500.00. Disposition—Pending transfer to General Services Administration | 5USC 7342 (f)(4) | Non-acceptance would cause embarrassment to donor and U.S. Government.
An Agency Employee | Bottle of cognac in a crystal decanter. Rec'd—2/14/2013. Est. Value—$1,200.00. Disposition—Decanter on display for official use only. Perishable items handled pursuant to the guidelines set forth by General Services Administration | 5USC 7342 (f)(4) | Non-acceptance would cause embarrassment to donor and U.S. Government.
An Agency Employee | Bottle of cognac in a crystal decanter. Rec'd—2/15/2013. Est. Value—$1,385.00. Disposition—Decanter on display for official use only. Perishable items handled pursuant to the guidelines set forth by General Services Administration | 5USC 7342 (f)(4) | Non-acceptance would cause embarrassment to donor and U.S. Government.
An Agency Employee | Portable briefcase-style letter steamer and secret writing analyzer. Rec'd—2/25/2013. Est. Value—$400.00. Disposition—On display for official use only | 5USC 7342 (f)(4) | Non-acceptance would cause embarrassment to donor and U.S. Government.
An Agency Employee | 114″ × 77″ wool rug with a navy blue background. Rec'd—2/27/2013. Est. Value—$2,500.00. Disposition—Pending transfer to General Services Administration | 5USC 7342 (f)(4) | Non-acceptance would cause embarrassment to donor and U.S. Government.
An Agency Employee | Wool carpet. Rec'd—3/24/2013. Est. Value—$500.00. Disposition—On display for official use only | 5USC 7342 (f)(4) | Non-acceptance would cause embarrassment to donor and U.S. Government.
An Agency Employee | Wool carpet. Rec'd—3/24/2013. Est. Value—$500.00. Disposition—On display for official use only | 5USC 7342 (f)(4) | Non-acceptance would cause embarrassment to donor and U.S. Government.
An Agency Employee | 64GB Apple iPhone 5. Rec'd—4/1/2013. Est. Value—$850.00. Disposition—Pending transfer to General Services Administration | 5USC 7342 (f)(4) | Non-acceptance would cause embarrassment to donor and U.S. Government.
An Agency Employee | 57″ × 40″ wool rug with a blue background. Rec'd—4/3/2013. Est. Value—$700.00. Disposition—On display for official use only | 5USC 7342 (f)(4) | Non-acceptance would cause embarrassment to donor and U.S. Government.
An Agency Employee | 57″ × 40″ wool rug with a blue background. Rec'd—4/3/2013. Est. Value—$700.00. Disposition—On display for official use only | 5USC 7342 (f)(4) | Non-acceptance would cause embarrassment to donor and U.S. Government.
An Agency Employee | 60″ × 36″ wool rug with rust background. Rec'd—4/3/2013. Est. Value—$700.00. Disposition—On display for official use only | 5USC 7342 (f)(4) | Non-acceptance would cause embarrassment to donor and U.S. Government.
An Agency Employee | Framed silk carpet. Rec'd—4/13/2013. Est. Value—$2,250.00. Disposition—On display for official use only | 5USC 7342 (f)(4) | Non-acceptance would cause embarrassment to donor and U.S. Government.
An Agency Employee | Tissot PRC men's watch. Two Bashi design wool rugs. Rec'd—5/4/2013. Est. Value—$4,500.00. Disposition—Pending transfer to General Services Administration | 5USC 7342 (f)(4) | Non-acceptance would cause embarrassment to donor and U.S. Government.
An Agency Employee | Samsung Galaxy III cellphone. Rec'd—5/6/2013. Est. Value—$400.00. Disposition—Pending transfer to General Services Administration | 5USC 7342 (f)(4) | Non-acceptance would cause embarrassment to donor and U.S. Government.
An Agency Employee | Gentlemen's Aqua Timer stainless steel automatic winding water-resistant chronograph wristwatch. Rec'd—6/4/2013. Est. Value—$5,500.00. Disposition—Pending purchase from General Services Administration by recipient | 5USC 7342 (f)(4) | Non-acceptance would cause embarrassment to donor and U.S. Government.
An Agency Employee | Louis Vuitton grey leather handbag. Rec'd—6/6/2013. Est. Value—$2,500.00. Disposition—Pending transfer to General Services Administration | 5USC 7342 (f)(4) | Non-acceptance would cause embarrassment to donor and U.S. Government.
An Agency Employee | Men's titanium Tissot Touch wristwatch. Ladies' titanium Tissot Touch wristwatch. Rec'd—6/30/2013. Est. Value—$1,200.00. Disposition—Pending transfer to General Services Administration | 5USC 7342 (f)(4) | Non-acceptance would cause embarrassment to donor and U.S. Government.
An Agency Employee | Wall hanging of galloping horses. Rec'd—7/4/2013. Est. Value—$400.00. Disposition—On display for official use only | 5USC 7342 (f)(4) | Non-acceptance would cause embarrassment to donor and U.S. Government.
An Agency Employee | Rosewood box. Cerruti 1881 men's wristwatch. Cerruti 1881 wallet. Cerruti 1881 ball point pen. Rec'd—7/17/2013. Est. Value—$515.00. Disposition—Pending transfer to General Services Administration | 5USC 7342 (f)(4) | Non-acceptance would cause embarrassment to donor and U.S. Government.
An Agency Employee | Three iPads. Versace watch. Glamora watch. Cerruti wallet and pen set. Pallas wallet and pen set. Rec'd—7/17/2013. Est. Value—$4,300.00. Disposition—Pending transfer to General Services Administration | 5USC 7342 (f)(4) | Non-acceptance would cause embarrassment to donor and U.S. Government.
An Agency Employee | Wool carpet. Box of jewelry with matching necklace and earrings. Rec'd—7/20/2013. Est. Value—$430.00. Disposition—Pending transfer to General Services Administration | 5USC 7342 (f)(4) | Non-acceptance would cause embarrassment to donor and U.S. Government.
An Agency Employee | Wainer men's silver and brown wristwatch. Rec'd—7/27/2013. Est. Value—$500.00. Disposition—Pending transfer to General Services Administration | 5USC 7342 (f)(4) | Non-acceptance would cause embarrassment to donor and U.S. Government.
An Agency Employee | Wainer men's silver and brown wristwatch. Rec'd—7/27/2013. Est. Value—$500.00. Disposition—Pending transfer to General Services Administration | 5USC 7342 (f)(4) | Non-acceptance would cause embarrassment to donor and U.S. Government.
An Agency Employee | Citizen ladies' silver and gold wristwatch with diamonds around the dial. Rec'd—7/27/2013. Est. Value—$500.00. Disposition—Pending transfer to General Services Administration | 5USC 7342 (f)(4) | Non-acceptance would cause embarrassment to donor and U.S. Government.
An Agency Employee | Two Breitling watches. Rec'd—8/18/2013. Est. Value—$1,100.00. Disposition—Pending transfer to General Services Administration | 5USC 7342 (f)(4) | Non-acceptance would cause embarrassment to donor and U.S. Government.
An Agency Employee | Citizen Tachymeter silver men's wristwatch. Rec'd—8/21/2013. Est. Value—$550.00. Disposition—Pending transfer to General Services Administration | 5USC 7342 (f)(4) | Non-acceptance would cause embarrassment to donor and U.S. Government.
An Agency Employee | Citizen Tachymeter silver men's wristwatch. Rec'd—8/21/2013. Est. Value—$550.00. Disposition—Pending transfer to General Services Administration | 5USC 7342 (f)(4) | Non-acceptance would cause embarrassment to donor and U.S. Government.
An Agency Employee | Citizen Tachymeter silver men's wristwatch. Rec'd—8/21/2013. Est. Value—$550.00. Disposition—Pending transfer to General Services Administration. | 5USC 7342 (f)(4) | Non-acceptance would cause embarrassment to donor and U.S. Government.

AGENCY: Defense Intelligence Agency
[Report of Tangible Gifts Furnished by the Defense Intelligence Agency]
Name and title of person accepting the gift on behalf of the U.S. Government | Gift, date of acceptance on behalf of the U.S. Government, estimated value, and current disposition or location | Identity of foreign donor and government | Circumstances justifying acceptance
Rear Admiral Paul Becker, Director for Intelligence, US Pacific Command | Royal Selangor pewter tea set. Rec'd—7/2/2013. Est. Value—$1,259.00. Disposition—Retained in the Office of the Director for Intelligence for official use only | Lieutenant General Abdul Hadi Bin Hj Hussin, Director of the General Defense Intelligence of the Malaysian Armed Forces | Non-acceptance would cause embarrassment to donor and U.S. Government.

AGENCY: Defense Logistics Agency
[Report of Travel Furnished by the Defense Logistics Agency]
Name and title of person accepting the gift on behalf of the U.S. Government | Gift, date of acceptance on behalf of the U.S. Government, estimated value, and current disposition or location | Identity of foreign donor and government | Circumstances justifying acceptance
Colonel Emily Buckman, Chief, TRANSCOM Support Division | Travel: Air travel upgrade to business class while traveling on an official travel ticket previously purchased by the United States government for travel outside of the United States (from Baku to Paris). Rec'd—8/23/2013. Est. Value—$454.00 | Representative of the Government of the Republic of Azerbaijan | Non-acceptance would cause embarrassment to donor and U.S. Government.
Dr. Judith Baroody, Foreign Policy Advisor | Travel: Air travel upgrade to business class while traveling on an official travel ticket previously purchased by the United States government for travel outside of the United States (from Baku to Paris). Rec'd—8/23/2013. Est. Value—$454.00. | Representative of the Government of the Republic of Azerbaijan | Non-acceptance would cause embarrassment to donor and U.S. Government.
Lieutenant Colonel Adam Silverman, TRANSCOM Support Division | Travel: Air travel upgrade to business class while traveling on an official travel ticket previously purchased by the United States government for travel outside of the United States (from Baku to Paris). Rec'd—8/23/2013. Est. Value—$454.00 | Representative of the Government of the Republic of Azerbaijan | Non-acceptance would cause embarrassment to donor and U.S. Government.

AGENCY: Department of Commerce
[Report of Tangible Gifts Furnished by the Department of Commerce]
Name and title of person accepting the gift on behalf of the U.S. Government | Gift, date of acceptance on behalf of the U.S. Government, estimated value, and current disposition or location | Identity of foreign donor and government | Circumstances justifying acceptance
The Honorable Rebecca Blank, Acting Secretary of Commerce of the United States | Small wooden sculpture depicting the State of Rio de Janiero. Rec'd—3/20/2013. Est. Value—$498.00. Disposition—Pending transfer to General Services Administration | The Honorable Sergio de Oliveira Cabral Santos Filno, Governor of the State of Rio de Janeiro of the Federative Republic of Brazil | Non-acceptance would cause embarrassment to donor and U.S. Government.

AGENCY: Department of Defense
[Report of Tangible Gifts Furnished by the Department of Defense]
Name and title of person accepting the gift on behalf of the U.S. Government | Gift, date of acceptance on behalf of the U.S. Government, estimated value, and current disposition or location | Identity of foreign donor and government | Circumstances justifying acceptance.
The Honorable Leon E. Panetta, Secretary of Defense | Basel wristwatch. Rec'd—10/8/2012. Est. Value—$1,172.00. Disposition—Pending Transfer to General Services Administration | His Excellency General Guillermo Galvan, Secretary of National Defense of Mexico | Non-acceptance would cause embarrassment to donor and U.S. Government.
The Honorable Chuck Hagel, Secretary of Defense | Rug. Rec'd—3/10/2013. Est. Value—$650.00. Disposition—Pending Transfer to General Services Administration | His Excellency Hamid Karzai, President of the Islamic Republic of Afghanistan | Non-acceptance would cause embarrassment to donor and U.S. Government.
The Honorable Chuck Hagel, Secretary of Defense | Silver clock. Rec'd—6/7/2013. Est. Value—$1,456.00. Disposition—Pending Transfer to General Services Administration | His Royal Highness Salman Bin Hamad Al Khalifa, Crown Prince of the Kingdom of Bahrain, First Deputy Prime Minister, Deputy Supreme Commander of the Bahrain Defense Forces | Non-acceptance would cause embarrassment to donor and U.S. Government.
The Honorable Chuck Hagel, Secretary of Defense | Painting. Rec'd—6/11/2013. Est. Value—$650.00. Disposition—Pending Transfer to General Services Administration | His Excellency Pedro Cateriano Bellido, Minister of Defense of the Republic of Peru | Non-acceptance would cause embarrassment to donor and U.S. Government.
The Honorable Chuck Hagel, Secretary of Defense | Figurine. Rec'd—6/11/2013. Est. Value—$465.00. Disposition—Pending Transfer to General Services Administration | His Excellency Ollanta Moises Humala Tasso, President of the Republic of Peru | Non-acceptance would cause embarrassment to donor and U.S. Government.
The Honorable Chuck Hagel, Secretary of Defense | Silver dagger. Jewelry set. Rec'd—7/30/2013. Est. Value—$1,240.00. Disposition—Pending Transfer to General Services Administration | His Excellency Abd Rabbu Mansour Hadi, President of the Republic of Yemen, Yemen | Non-acceptance would cause embarrassment to donor and U.S. Government.
The Honorable Chuck Hagel, Secretary of Defense | Statue, title: “Vision of the Bear”. Rec'd—3/27/2012. Est. Value—$500.00. Disposition—Pending Transfer to General Services Administration | The Honorable Peter G. MacKay, P.C., Q.C., M.P., Minister of National Defense of Canada | Non-acceptance would cause embarrassment to donor and U.S. Government.
The Honorable Chuck Hagel, Secretary of Defense | Wine serving set. Rec'd—8/5/2013. Est. Value—$600.00. Disposition—Pending Transfer to General Services Administration | His Excellency Safar Abiyev, Minister of Defense of the Republic of Azerbaijan | Non-acceptance would cause embarrassment to donor and U.S. Government.
The Honorable Chuck Hagel, Secretary of Defense | Silver container. Rec'd—8/29/2013. Est. Value—$445.00. Disposition—Pending Transfer to General Services Administration | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable Chuck Hagel, Secretary of Defense | Portrait of Secretary Hagel. Rec'd—8/30/2013. Est. Value—$400.00. Disposition—Pending Transfer to General Services Administration | His Excellency Voltaire T. Gazmin, Secretary of National Defense of the Republic of the Philippines | Non-acceptance would cause embarrassment to donor and U.S. Government.
The Honorable Chuck Hagel, Secretary of Defense | Figurines of six Kazakh warriors. Rec'd—11/13/2013. Est. Value—$650.00. Disposition—Pending Transfer to General Services Administration | His Excellency Adilbek Dzhaksybekov, Minister of Defense of the Republic of Kazakhstan | Non-acceptance would cause embarrassment to donor and U.S. Government.
The Honorable Chuck Hagel, Secretary of Defense | Visconti Skelton Aluten fountain pen. Rec'd—11/25/2013. Est. Value—$1,695.00. Disposition—Pending Transfer to General Services Administration | His Majesty Mohamed VI, King of Morocco | Non-acceptance would cause embarrassment to donor and U.S. Government.
The Honorable Chuck Hagel, Secretary of Defense | Silver pen set. Rec'd—12/10/2013. Est. Value—$1,400.00. Disposition—Pending Transfer to General Services Administration | His Majesty Salman Bin Hamad Al Khalifa, Crown Prince of the Kingdom of Bahrain, First Deputy Prime Minister, and Deputy Supreme Commander of the Bahrain Defense Force | Non-acceptance would cause embarrassment to donor and U.S. Government.
The Honorable Chuck Hagel, Secretary of Defense | Rug. Rec'd—12/11/2013. Est. Value—$600.00. Disposition—Pending Transfer to General Services Administration | His Excellency Nawaz Sharif, Prime Minister of the Islamic Republic of Pakistan | Non-acceptance would cause embarrassment to donor and U.S. Government.
Mrs. Lilibet Hagel, Spouse of the Secretary of Defense | Hand-painted lamp bases. Rec'd—8/19/2013. Est. Value—$775.00. Disposition—Pending Transfer to General Services Administration | General Chang Wanquan, State Councilor and Minister of Defense of the People's Republic of China | Non-acceptance would cause embarrassment to donor and U.S. Government.
General Martin E. Dempsey, Chairman of the Joint Chiefs of Staff | Candlestick holders. Rec'd—2/25/2013. Est. Value—$640.00. Disposition—Pending Transfer to General Services Administration | Lieutenant General Hernán Mardones Ríos, Chief of the Joint Staff of the Republic of Chile | Non-acceptance would cause embarrassment to donor and U.S. Government.
General Martin E. Dempsey, Chairman of the Joint Chiefs of Staff | Rug. Rec'd—4/6/2013. Est. Value—$400.00. Disposition—Pending Transfer to General Services Administration | General Sher Mohammad Karimi, Chief of Army Staff of the Islamic Republic of Afghanistan | Non-acceptance would cause embarrassment to donor and U.S. Government.
General Martin E. Dempsey, Chairman of the Joint Chiefs of Staff | Globe. Soup bowl with chopsticks set. Rec'd—4/22/2013. Est. Value—$1,190.00. Disposition—Pending Transfer to General Services Administration | General Fang Fenghui, Chief of the General Staff of the People's Liberation Army | Non-acceptance would cause embarrassment to donor and U.S. Government.
General Martin E. Dempsey, Chairman of the Joint Chiefs of Staff | Model tank with stand. Rec'd—4/23/2013. Est. Value—$1,160.00. Disposition—Pending Transfer to General Services Administration | General Fang Fenghui, Chief of the General Staff of the People's Liberation Army | Non-acceptance would cause embarrassment to donor and U.S. Government.
General Martin E. Dempsey, Chairman of the Joint Chiefs of Staff | Statue. Rec'd—4/24/2013. Est. Value—$445.00. Disposition—Pending Transfer to General Services Administration | General Liu Yazhou, Political Commissiar of the People's Liberation Army's National Defense University | Non-acceptance would cause embarrassment to donor and U.S. Government.
General Martin E. Dempsey, Chairman of the Joint Chiefs of Staff | Silver plate. Rec'd—6/11/2013. Est. Value—$900.00. Disposition—Pending Transfer to General Services Administration | His Royal Highness Salman Bin Hamad Al Khalifa, Crown Prince of the Kingdom of Bahrain, First Deputy Prime Minister, and Deputy Supreme Commander of the Bahrain Defense Force | Non-acceptance would cause embarrassment to donor and U.S. Government.
General Martin E. Dempsey, Chairman of the Joint Chiefs of Staff | Clock. Picture frame. Rec'd—6/26/2013. Est. Value—$490.00. Disposition—Pending Transfer to General Services Administration | General Thanasak Patimaprakorn, Chief of Defense Forces of the Kingdom of Thailand | Non-acceptance would cause embarrassment to donor and U.S. Government.
General Martin E. Dempsey, Chairman of the Joint Chiefs of Staff | Cadet saber model. Rec'd—7/15/2013. Est. Value—$430.00. Disposition—Pending Transfer to General Services Administration | Admiral Francisco Soberon Sanz, Secretary of the Mexican Navy | Non-acceptance would cause embarrassment to donor and U.S. Government.
General Martin E. Dempsey, Chairman of the Joint Chiefs of Staff | Lapis lazuli bowl. Rec'd—7/22/2013. Est. Value—$485.00. Disposition—Pending Transfer to General Services Administration | His Excellency Hamid Karzai, President of the Islamic Republic of Afghanistan | Non-acceptance would cause embarrassment to donor and U.S. Government.
General Martin E. Dempsey, Chairman of the Joint Chiefs of Staff | Rug. Rec'd—7/22/2013. Est. Value—$380.00. Disposition—Pending Transfer to General Services Administration | His Excellency Bismillah Khan Mohammadi, Minister of Defense of the Islamic Republic of Afghanistan | Non-acceptance would cause embarrassment to donor and U.S. Government.
General Martin E. Dempsey, Chairman of the Joint Chiefs of Staff | Dagger. Holy water. Rec'd—8/14/2013. Est. Value—$450.00. Disposition—Pending Transfer to General Services Administration | Lieutenant General Marshal Al-Zaben, Chairman of the Joint Chiefs of Staff of the Hashemite Kingdom of Jordan | Non-acceptance would cause embarrassment to donor and U.S. Government.
General Martin E. Dempsey, Chairman of the Joint Chiefs of Staff | Decorative knife. Rec'd—8/14/2013. Est. Value—$7,960.00. Disposition—Pending Transfer to General Services Administration | His Excellency King Abdullah II ibn Al Hussein, King of the Hashemite Kingdom of Jordan | Non-acceptance would cause embarrassment to donor and U.S. Government.
General Martin E. Dempsey, Chairman of the Joint Chiefs of Staff | Suitcase. Two pens. Two watches. Cufflink set. Five bottles of perfume. Two bottles of cologne. Rec'd—8/26/2013. Est. Value—$2,691.00. Disposition—Pending Transfer to General Services Administration | Lieutenant General Marshal Al-Zaben, Chairman of the Joint Chiefs of Staff of the Hashemite Kingdom of Jordan | Non-acceptance would cause embarrassment to donor and U.S. Government.
Mrs. Deanie Dempsey, Spouse of the Chairman of the Joint Chiefs of Staff | Necklace. Rec'd—8/13/2013. Est. Value—$980.00. Disposition—Pending Transfer to General Services Administration | Mrs. Revital Gantz, Spouse of the Chief of Defense of the State of Israel | Non-acceptance would cause embarrassment to donor and U.S. Government.
General John Allen, United States Marine Corps, Retired, Senior Advisor to the Secretary of Defense | Rug. Rec'd—6/1/2012. Est. Value—$850.00. Disposition—Pending Transfer to General Services Administration | The Government of the Islamic Republic of Afghanistan | Non-acceptance would cause embarrassment to donor and U.S. Government.
The Honorable Kathleen H. Hicks, Principal Director, Under Secretary of Defense, OSD Policy | Wristwatch. Rec'd—9/14/2012. Est. Value—$365.00. Disposition—Pending Transfer to General Services Administration | His Excellency Dimitri Shashkin, Minister of Defense of Georgia | Non-acceptance would cause embarrassment to donor and U.S. Government.
The Honorable Ashton B. Carter, Deputy Secretary of Defense | Lapis lazuli box. Rec'd—1/10/2013. Est. Value—$420.00. Disposition—Pending Transfer to General Services Administration | His Excellency Hamid Karzai, President of the Islamic Republic of Afghanistan | Non-acceptance would cause embarrassment to donor and U.S. Government.
Colonel Scott Dullea, Georgia Desk Officer, OSD Policy | Wristwatch. Rec'd—1/12/2013. Est. Value—$365.00. Disposition—Pending Transfer to General Services Administration | Lieutenant Colonel Temur Eubidze, Defense Attaché of Georgia | Non-acceptance would cause embarrassment to donor and U.S. Government.
The Honorable Vikram Singh, Deputy Assistant Secretary of Defense, South & Southeast Asia, OSD Policy | Thirteen piece bone china. Rec'd—1/28/2013. Est. Value—$410.00. Disposition—Pending Transfer to General Services Administration | His Excellency Gotobaya Rajapaksa, Secretary of Defense of the Ministry of Defense and Urban Development of the Democratic Socialist Republic of Sri Lanka | Non-acceptance would cause embarrassment to donor and U.S. Government.
The Honorable Michael Vickers, Under Secretary of Defense for Intelligence (USD)(I) | Plaque with twenty-one sterling silver symbols. Rec'd—3/19/2013. Est. Value—$465.00. Disposition—Pending Transfer to General Services Administration | Brigadier General Lawel Chekou Kore, Director General of the General Directorate for Documentation and External Security of the Republic of Niger | Non-acceptance would cause embarrassment to donor and U.S. Government.
The Honorable James Miller, Under Secretary of Defense, OSD Policy | Trophy. Robe. Rec'd—3/30/2013. Est. Value—$430.00. Disposition—Pending Transfer to General Services Administration | Major General Hamad Al-Attiyah, Chief of Staff of Qatar Armed Forces | Non-acceptance would cause embarrassment to donor and U.S. Government.
The Honorable Joaquin Malavet, Deputy Assistant Secretary of Defense, South & Southeast Asia, OSD Policy | Credit card holder. Document holder. Two jewelry sets containing a necklace and a pair of earrings. Rec'd—4/10/2013. Est. Value—$775.00. Disposition—Pending Transfer to General Services Administration | His Excellency Muhammed Moeen, Defense Attaché of the People's Republic of Bangladesh | Non-acceptance would cause embarrassment to donor and U.S. Government.
The Honorable James Miller, Under Secretary of Defense, OSD Policy | Two wristwatches. Fabric. Necktie. Seven bottles of perfume. Suitcase. Rec'd—5/4/2013. Est. Value—$8,438.00. Disposition—Pending Transfer to General Services Administration | His Highness Sheikh Tamim bin Hamad Al-Thani, Heir Apparent of the State of Qatar | Non-acceptance would cause embarrassment to donor and U.S. Government.
The Honorable William F. Wechsler, Deputy Assistant Secretary of Defense, Special Operations & CT, OSD Policy | Sword in glass case. Rec'd—5/6/2013. Est. Value—$440.00. Disposition—Pending Transfer to General Services Administration | Mr. Roukoz Chemel, Commander of Ranger Regiment of the State of Israel | Non-acceptance would cause embarrassment to donor and U.S. Government.
The Honorable David Sedney, Deputy Assistant Secretary of Defense, Afghanistan, Pakistan & Central Asia, OSD Policy | Handmade plate. Rec'd—5/8/2013. Est. Value—$715.00. Disposition—Pending Transfer to General Services Administration | His Excellency Ilhom Nematov, Ambassador of the Republic of Uzbekistan to the United States | Non-acceptance would cause embarrassment to donor and U.S. Government.
The Honorable David Sedney, Deputy Assistant Secretary of Defense, Afghanistan, Pakistan & Central Asia, OSD Policy | Lapis bowl. Rec'd—5/11/2013. Est. Value—$385.00. Disposition—Pending Transfer to General Services Administration | His Excellency Hamid Karzai, President of the Islamic Republic of Afghanistan | Non-acceptance would cause embarrassment to donor and U.S. Government.
The Honorable David Sedney, Deputy Assistant Secretary of Defense, Afghanistan, Pakistan & Central Asia, OSD Policy | Rug. Rec'd—5/13/2013. Est. Value—$380.00. Disposition—Pending Transfer to General Services Administration | His Excellency Bismillah Khan Mohammadi, Minister of Defense of the Islamic Republic of Afghanistan | Non-acceptance would cause embarrassment to donor and U.S. Government.
The Honorable Edward Minahan, Principal Director, Deputy Assistant Secretary of Defense, Middle East, OSD Policy | Silver figurine. Rec'd—5/13/2013. Est. Value—$370.00. Disposition—Pending Transfer to General Services Administration | The Government of the State of Israel | Non-acceptance would cause embarrassment to donor and U.S. Government.
The Honorable Peter Lavoy, A/ASD Asian & Pacific Security Affairs, OSD Policy | Cufflinks. Rec'd—5/17/2013. Est. Value—$450.00. Disposition—Pending Transfer to General Services Administration | Her Excellency Sherry Rehman, Ambassador of the Islamic Republic of Pakistan to the United States | Non-acceptance would cause embarrassment to donor and U.S. Government.
The Honorable Ashton B. Carter, Deputy Secretary of Defense | Lapis lazuli bowl. Rec'd—6/13/2013. Est. Value—$640.00. Disposition—Pending Transfer to General Services Administration | His Excellency Hamid Karzai, President of the Islamic Republic of Afghanistan, Afghanistan | Non-acceptance would cause embarrassment to donor and U.S. Government.
The Honorable David Helvey, Deputy Assistant Secretary of Defense, East Asia, OSD Policy | Jewelry box. Rec'd—6/17/2013. Est. Value—$455.00. Disposition—Pending Transfer to General Services Administration | Major General Lee Seo-young, Defense Attaché of the Republic of Korea | Non-acceptance would cause embarrassment to donor and U.S. Government.
Admiral James A. Winnefeld, Jr., Vice Chairman of the Joint Chiefs of Staff | Book. Alcohol. Scarf. Rec'd—7/16/2013. Est. Value—$375.00. Disposition—Pending Transfer to General Services Administration. Perishable items handled pursuant to the guidelines set forth by General Services Administration | His Excellence Admiral Francisco Soberon Sanz, Secretary of the Mexican Navy | Non-acceptance would cause embarrassment to donor and U.S. Government.
The Honorable Michael Vickers, Under Secretary of Defense for Intelligence (USD)(I) | Tea set. Rec'd—7/17/2013. Est. Value—$1,260.00. Disposition—Pending Transfer to General Services Administration | Lieutenant General Abdul Hadi Bin Hj Hussin, Director of the General Defense Intelligence of the Malaysian Armed Forces | Non-acceptance would cause embarrassment to donor and U.S. Government.
Lieutenant General Curtis Scaparrotti, Director of the Joint Chiefs of Staff | Plaque. Two wristwatches. Rec'd—7/19/2013. Est. Value—$885.00. Disposition—Pending Transfer to General Services Administration | General Kwon Oh-sung, Deputy Commander of the ROK-US Combined Forces Command | Non-acceptance would cause embarrassment to donor and U.S. Government.
The Honorable Michael Dumont, Deputy Assistant Secretary of Defense for Afghanistan, Pakistan and Central Asia, OSD Policy | Leather briefcase. Rec'd—8/1/2013. Est. Value—$390.00. Disposition—Pending Transfer to General Services Administration | His Excellency Rashad Mahmood, Chairman of the Joint Chiefs of Staff Committee of the Islamic Republic of Pakistan | Non-acceptance would cause embarrassment to donor and U.S. Government.
The Honorable Mark W. Lippert, Special Assistant to the Secretary of Defense | Silver cufflink set with tie clasp. Rec'd—9/6/2013. Est. Value—$650.00. Disposition—Pending Transfer to General Services Administration | Mr. Natsuo Yamaguchi, Chief Representative of Japan's New Komeito Party | Non-acceptance would cause embarrassment to donor and U.S. Government.
The Honorable Ashton B. Carter, Deputy Secretary of Defense | Two bottles of wine. Rec'd—9/8/2013. Est. Value—$460.00. Disposition—Perishable items handled pursuant to the guidelines set forth by General Services Administration | Lieutenant General Wang Guanzhong, Deputy Chief of the General Staff of the People's Liberation Army | Non-acceptance would cause embarrassment to donor and U.S. Government.
The Honorable Michael Vickers, Under Secretary of Defense for Intelligence (USD)(I) | Rozet Kutu box. Rec'd—9/18/2013. Est. Value—$580.00. Disposition—Pending Transfer to General Services Administration | Dr. Hakan Fidan, Undersecretary, Turkish National Intelligence Organization | Non-acceptance would cause embarrassment to donor and U.S. Government.
The Honorable Michael Vickers, Under Secretary of Defense for Intelligence (USD)(I) | Cartier watch. Rec'd—10/2/2013. Est. Value—$8,545.00. Disposition—Pending Transfer to General Services Administration | The Government of the State of Qatar | Non-acceptance would cause embarrassment to donor and U.S. Government.
The Honorable Michael Vickers, Under Secretary of Defense for Intelligence (USD)(I) | Rolex watch. Rec'd—10/2/2013. Est. Value—$12,000.00. Disposition—Pending Transfer to General Services Administration | The Government of the State of Qatar | Non-acceptance would cause embarrassment to donor and U.S. Government.
The Honorable Drew Thompson, Director, China, Taiwan and Mongolia, OSD Policy | Framed calligraphy. Rec'd—10/16/2013. Est. Value—$390.00. Disposition—Pending Transfer to General Services Administration | Lieutenant General Mike Tien, Taipei Economic and Cultural Representative Office in the United States | Non-acceptance would cause embarrassment to donor and U.S. Government.
Major General Heidi Brown, Director of Test, Missile Defense Agency | Rochas Paris wristwatch. Rec'd—10/18/2013. Est. Value—$605.00. Disposition—Pending Transfer to General Services Administration | The Government of the State of Qatar | Non-acceptance would cause embarrassment to donor and U.S. Government.
The Honorable James Miller, Under Secretary of Defense, OSD Policy | Sword. Shovel. Medal. Certificate. Rec'd—10/28/2013. Est. Value—$825.00. Disposition—Pending Transfer to General Services Administration | His Excellency Mircea Duşa, Minister of Defense of Romania | Non-acceptance would cause embarrassment to donor and U.S. Government.
The Honorable Peter Lavoy, A/ASD Asian & Pacific Security Affairs, OSD Policy | Two bottles of wine. Rec'd—11/18/2013. Est. Value—$460.00. Disposition—Perishable items handled pursuant to the guidelines set forth by General Services Administration | Lieutenant General Zhang Shibo, Beijing Military Region Commander of the People's Liberation Army | Non-acceptance would cause embarrassment to donor and U.S. Government.
The Honorable Stephen W. Preston, General Counsel of the Department of Defense | Model ship. Rec'd—12/9/2013. Est. Value—$2,100.00. Disposition—Pending Transfer to General Services Administration | Dr. Ali Bin Fetais Al Marri, Attorney General of the State of Qatar | Non-acceptance would cause embarrassment to donor and U.S. Government.

AGENCY: Department of the Air Force
[Report of Tangible Gifts Furnished by the Department of the Air Force]
Name and title of person accepting the gift on behalf of the U.S. Government | Gift, date of acceptance on behalf of the U.S. Government, estimated value, and current disposition or location | Identity of foreign donor and government | Circumstances justifying acceptance
Lieutenant General David Goldfein, United Staff Air Force Commander, USAFCENT | Concord men's and ladies' watch set. Rec'd—6/19/2012. Est. Value—$775.00. Disposition—Transferred to General Services Administration | Major General Hamad Al-Attiyah, Chief of Staff of the Qatar Armed Forces | Non-acceptance would cause embarrassment to donor and U.S. Government.
Lieutenant General Frank Gorenc, United States Air Force Assistant Vice Chief of Staff | Falcon statue on stand. Rec'd—1/1/2013. Est. Value—$1,069. Disposition—Displayed in the Pentagon, room 4E944 | His Excellency Mohamed Bin Abdulla Al Rumaihi, Ambassador of the State of Qatar to the United States | Non-acceptance would cause embarrassment to donor and U.S. Government.
Mr. Ahmed Abouelea, Cultural Advisor, USAFCENT | Mont Blanc men's watch. Rec'd—1/10/2013. Est. Value—$1,000.00. Disposition—Transferred to General Services Administration | Brigadier General Abdullah Juma'an Al-Hamad, General Coordinator of the Qatar Armed Forces | Non-acceptance would cause embarrassment to donor and U.S. Government.
Lieutenant General David Goldfein, United States Air Force Commander, USAFCENT | Esprit men's watch. Kuwait shaped pendant. Rec'd—1/31/2013. Est. Value—$437.00. Disposition—Transferred to General Services Administration | Major General Khamis Sultan Al Farhan, Commander of the Kuwait Air Force | Non-acceptance would cause embarrassment to donor and U.S. Government.
Colonel James Brandenburg, 738 AEAG Commander | Macbook Air. 16GB iPhone 4s. Rec'd—2/1/2013. Est. Value—$1,650.00. Disposition—Pending transfer to General Services Administration | Major General Abdul Raziq Sherzai, Commander of the Kandahar Air Wing of the Islamic Republic of Afghanistan | Non-acceptance would cause embarrassment to donor and U.S. Government.
Captain Petrina Hanson, United States Air Force Staff | Escade jewelry set. Guerlain perfume. Alexandre perfume. Guerlain parfumeur. Rec'd—2/4/2013. Est. Value—$425.00. Disposition—Transferred to General Services Adminitration | Sheikha Hissa bint Mohamed Al-Attiyah of the State of Qatar | Non-acceptance would cause embarrassment to donor and U.S. Government.
Lieutenant General David Goldfein, United States Air Force Commander, USAFCENT | Aigner necklace. Aigner bracelet. Dar Al Oud perfume. Oscent parfum. Silver Five and Seven parfum. Rec'd—2/4/2013. Est. Value—$500.00. Disposition—Transferred to General Services Administration | Major General Hamad Al-Attiyah, Chief of Staff of the Qatar Armed Forces | Non-acceptance would cause embarrassment to donor and U.S. Government.
Mr. Timothy Bennet, Chief, Civil and Foreign Government Access | Grovana men's watch. Rec'd—4/10/2013. Est. Value—$700.00. Disposition—Transferred to General Services Administration | Staff Brigadier Abdelraham Ibrahim Al Mazmi, Air Attaché of the United Arab Emirates | Non-acceptance would cause embarrassment to donor and U.S. Government.
Lieutenant Elizabeth Jackson, Protocol, Joint Base Andrews | Cover ladies' watch. Rec'd—5/1/2013. Est. Value—$400.00. Disposition—Pending transfer to General Services Administration | His Majesty King Abdullah II ibn Al Hussein, King of the Hashemite Kingdom of Jordan | Non-acceptance would cause embarrassment to donor and U.S. Government.
Mr. John Polhemus, Flight Line Protocol, Joint Base Andrews | Yard-O-Led Edwardian pen. Rec'd—5/6/2013. Est. Value—$495.00. Disposition—Transferred to General Services Administration | His Majesty King Abdullah II ibn Al Hussein, King of the Hashemite Kingdom of Jordan | Non-acceptance would cause embarrassment to donor and U.S. Government.
Lieutenant General David Goldfein, United States Air Force Commander, USAFCENT | Mont Blanc wallet, pen, cufflink set. Rec'd—6/8/2013. Est. Value—$460.00. Disposition—Transferred to General Services Administration | Major General Mohammed Al-Khayarin, Commander Qatari Emiri Air Force | Non-acceptance would cause embarrassment to donor and U.S. Government.
Brigadier General Paul McGillicuddy, 380 AEW Commander | 16GB iPhone 5. Rec'd—6/13/2013. Est. Value—$649.00. Disposition—Transferred to General Services Administration | Staff Brigadier Essam Abdullah Al-Shamri, Commander of the Al Dhafre Air Base of the United Arab Emirates | Non-acceptance would cause embarrassment to donor and U.S. Government.
Lieutenant General Ralph Jodice II, United States Air Force Commander, NATO | Glass 7 metal trophy. Delse suitcase. Concord men's and ladies' watch set. Two bolts of fabric. Al Jazeera men's and ladies' perfume set. Charriol Royal Leather men's perfume. Versace Diamond perfume. Two men's neck ties. Rec'd—6/13/2013. Est. Value—$4,300.00. Disposition—Transferred to General Services Administration | Major General Hamad Al-Attiyah, Chief of Staff of the Qatar Armed Forces | Non-acceptance would cause embarrassment to donor and U.S. Government.
Brigadier General Kevin Schneider | iPhone 5, 16GB. Rec'd—7/1/2013. Est. Value—$400.00. Disposition—Transferred to General Services Administration | Staff Brigadier Essam Abdullah Al-Shamri, Commander of the Al Dhafre Air Base of the United Arab Emirates | Non-acceptance would cause embarrassment to donor and U.S. Government.
Lieutenant General John Hesterman, United States Air Force Commander, USAFCENT | Silver letter opener. Blue tie. Cufflinks. Silver business card holder. Rec'd—9/9/2013. Est. Value—$757.00. Disposition—Pending transfer to General Services Administration | Air Vice Marshal Matar Al-Obaidani, Commander of the Omani Air Force | Non-acceptance would cause embarrassment to donor and U.S. Government.
Ms. Heidi Grant, Deputy Under Secretary of the Air Force for International Affairs | Moltan glass falcon statue. Rec'd—9/9/2013. Est. Value—$1,444.00. Disposition—Displayed in Pentagon, SAF/IA office for official use only | Lieutenant General Fayyadh al-Ruwaili, Commander of the Royal Saudi Air Force | Non-acceptance would cause embarrassment to donor and U.S. Government.
Lieutenant General John Hesterman, United States Air Force Commander, USAFCENT | Chopard silver pen. Al Jazeera Classic parfum, Al Jazeera AA parfum. Rec'd—9/10/2013. Est. Value—$360.00. Disposition—Pending transfer to General Services Administration | Major General Hamad Al-Attiyah, Minister of State for Defense Affairs of the State of Qatar | Non-acceptance would cause embarrassment to donor and U.S. Government.
Major Rebecca Tubman, AFCENT AWC | Burberry ladies' watch. Rec'd—9/11/2013. Est. Value—$595.00. Disposition—Pending transfer to General Service Administration | Staff Brigadier Tareq Mohammed Al Bannai, UAE Military Attaché in Canberra | Non-acceptance would cause embarrassment to donor and U.S. Government.
Lieutenant Elizabeth Jackson, Protocol, Joint Base Andrews | Longines Dolce ladies' watch. Rec'd—10/1/2013. Est. Value—$1,200.00. Disposition—Pending transfer to General Service Administration | His Majesty King Abdullah II ibn Al Hussein, King of the Hashemite Kingdom of Jordan | Non-acceptance would cause embarrassment to donor and U.S. Government.
Mr. John Polhemus, Flight Line Protocol, Joint Base Andrews | Three Afghan style rugs. Rec'd—11/27/2013. Est. Value—$3,000.00. Disposition—Pending transfer to General Service Administration | Captain Mohammed Anesrif, Embassy of the Kingdom of Morocco | Non-acceptance would cause embarrassment to donor and U.S. Government.
Mr. John Polhemus, Flight Line Protocol, Joint Base Andrews | Yard-O-Led Edwardian pen. Rec'd—5/6/2013. Est. Value—$495.00. Disposition—Transferred to General Services Administration | His Majesty King Abdullah II ibn Al Hussein, King of the Hashemite Kingdom of Jordan | Non-acceptance would cause embarrassment to donor and U.S. Government.
Unknown United States Air Force Member | Concord Mariner watch. Al Jaber watch, wallet, cufflinks, and pen set. Rec'd—Unknown. Est. Value—$1,305.00. Disposition—Transferred to General Services Administration | Foreign Government Official | Non-acceptance would cause embarrassment to donor and U.S. Government.

AGENCY: Department of the Army
[Report of Tangible Gifts Furnished by the Department of the Army]
Name and title of person accepting the gift on behalf of the U.S. Government | Gift, date of acceptance on behalf of the U.S. Government, estimated value, and current disposition or location | Identity of foreign donor and government | Circumstances justifying acceptance
Brigadier General Thomas Vandal, DGC-S, 3rd Infantry Division, U.S. Army | Men's Longines Hydro Conquest sport watch. Rec'd—11/4/2010. Est. Value—$2,400.00. Disposition—In custody of Army Gift Program pending transfer to General Services Administration | Major General Jamal, Deputy Minister of Peshmerga of the Republic of Iraq | Non-acceptance would cause embarrassment to donor and U.S. Government.
Staff Sergeant Julie B. Korb, Protocol Driver, U.S. Army Africa (USARAF) | 500 euros. Rec'd—5/8/2012. Est. Value—$672.00. Disposition—In custody of Army Gift Program pending transfer to Defense Finance and Accounting Services | Lieutenant General Onyeabo Ihejirika, Chief of Army Staff of the Federal Republic of Nigeria | Non-acceptance would cause embarrassment to donor and U.S. Government.
Ms. Charlotte Hogan, GS-15, Business Transformation Division Chief, U.S. Army IMCOM | Gold necklace, bracelet, earrings, and ring set. Rec'd—12/18/2012. Est. Value—$1,500.00. Disposition—In custody of Army Gift Program pending transfer to General Services Administration | Command Sergeant Major Emad, Besmaya Training Center of the Iraqi Army | Non-acceptance would cause embarrassment to donor and U.S. Government.
Lieutenant General Vincent K. Brooks, Commanding General 3rd Army, U.S. Army Central | iPad mini. Carrying case. Rec'd—2/19/2013. Est. Value—$699.00. Disposition—iPad Mini in custody of Army Gift Program. Waiting recipient's delivery of carrying case. Both items pending transfer to General Services Administration | Staff Major General Mohammed Ali Abdulla Al Issa, Director of Moral Guidance, Ministry of Defense of the United Arab Emirates | Non-acceptance would cause embarrassment to donor and U.S. Government.
Lieutenant General Francis J. Wiercinski, Commander, US Army Pacific | Model railroad scene with train engine. Rec'd—2/21/2013. Est. Value—$1,102.90. Disposition—On display for official use only at the Headquarters, US Army Pacific, Building T100, Fort Shafter, Hawaii 96858 | General Prayut Chan-o-cha, Commander in Chief of the Royal Thai Army | Non-acceptance would cause embarrassment to donor and U.S. Government.
Ms. Charlotte Hogan, GS-15, Business Transformation Division Chief, U.S. Army IMCOM | iPad. Case. Rec'd—4/9/2013. Est. Value—$620.00. Disposition—In custody of Army Gift Program pending transfer to General Services Administration | Command Sergeant Major Emad, Besmaya Training Center of the Iraqi Army | Non-acceptance would cause embarrassment to donor and U.S. Government.
Major General Michael S. Repass, Commander, Special Operations Command Europe (SOCEUR) | Framed print of a decorative map of Estonia and Latvia. Rec'd—5/24/2013. Est. Value—$400.00. Disposition—Pending purchase from General Services Administration by recipient. Currently located in SOCEUR HQ on Patch Barracks, USAG-Stuttgart, Germany | His Excellency Urmas Reinsalu, Minister of Defense of the Republic of Estonia | Non-acceptance would cause embarrassment to donor and U.S. Government.
Lieutenant Colonel Ralph Arthur LounsbroughCommander 840th Transportation Battalion | Omega Seamaster watch. Rec'd—6/6/2013. Est. Value—$3,739.00. Disposition—In custody of Army Gift Program pending transfer to General Services Administration | Lieutenant General Sheikh Khaled Al-Jarrah, Chief of Staff of the Kuwait Armed Forces | Non-acceptance would cause embarrassment to donor and U.S. Government.
Major General Robert Abrams, Commanding General, 3rd Infantry Division, Fort Stewart, Georgia | 60″ × 84″ hand-stitched patterned orange colored rug. Rec'd—7/8/2013. Est. Value—$900.00. Disposition—Retained for display for official use only in the 3rd Infantry Division Headquarters Building, Fort Stewart, Georgia | Major General Abdul Raziq Sherzai, Commander of the Kandahar Air Wing Commander of the Islamic Republic of Afghanistan | Non-acceptance would cause embarrassment to donor and U.S. Government.
Brigadier General Christopher Hughes, Deputy Commanding General-Maneuver, Regional Command (South), Kandahar Airfield, Afghanistan | 60″ × 84″ hand-stitched patterened burgundy colored rug. Rec'd—7/12/2013. Est. Value—$700.00. Disposition—On display for official use only in the Regional Command (South), 4th Infantry Division Headquarters Building, Kandahar Airfield, Afghanistan | Major General Abdul Raziq Sherzai, Commander of the Kandahar Air Wing Commander of the Islamic Republic of Afghanistan | Non-acceptance would cause embarrassment to donor and U.S. Government.
Major General Vandal, Commander, 2d Infantry Division | Leather bound photo album, title: “Republic of Korea/United States Alliance 60th Celebration Photo Album”. Rec'd—7/15/2013. Est. Value—$770.00. Disposition—On display for official use only at the 2nd Infantry Division Museum, Camp Red Cloud, APO, AP 96258-5041 | Mr. Ahn Byung-young, Mayor of Uijeongbu City, Republic of Korea | Non-acceptance would cause embarrassment to donor and U.S. Government.
Colonel Christopher Eubank, Commander, Army Support Group-Kuwait, Camp Arifjan, Kuwait | Camera and pouch (to be used for claims processing, documenting damages to any ASG property for FLIPL investigations, other documentary investigative needs, and photos for official functions). One ounce fragrant woodchip potpourri. One ounce saffron potpourri. Rec'd—9/12/2013. Est. Value—$425.00. Disposition—Stored for official use only at Room 116, Building 216, Camp Arifjan, Kuwait, APO, AE 09366 | Major General Abdulhameed Al-Awadhi, Assistant Under Secretary for Criminal Security Affairs of the Ministry of the Interior of the State of Kuwait | Non-acceptance would cause embarrassment to donor and U.S. Government.
Lieutenant Colonel Dana J. Chase, Command Judge Advocate, Army Support Group-Kuwait, Camp Arifjan, Kuwait | Camera and pouch (to be used for claims processing, documenting damages to any ASG property for FLIPL investigations, other documentary investigative needs, and photos for official functions). One ounce fragrant woodchip potpourri. One ounce saffron potpourri. Rec'd—9/12/2013. Est. Value—$425.00. Disposition—Stored for official use only at Room 116, Building 216, Camp Arifjan, Kuwait, APO, AE 09366 | Major General Abdulhameed Al-Awadhi, Assistant Under Secretary for Criminal Security Affairs of the Ministry of the Interior of the State of Kuwait | Non-acceptance would cause embarrassment to donor and U.S. Government.
Major General Paul J. LaCamera, Commanding General, Regional Command (South), 4th Infantry Division, Kandahar Airfield, Afghanistan | 3′ × 5′ machine-made wool rug with silk accents. Rec'd—10/22/2013. Est. Value—$400.00. Disposition—Pending purchase from General Services Administration by recipient. Currently located at Regional Command (South), 4th Infantry Division Headquarters Building, Kandahar Airfield, Afghanistan | Major General Abdul Raziq Sherzai, Commander of the Kandahar Air Wing Commander of the Islamic Republic of Afghanistan | Non-acceptance would cause embarrassment to donor and U.S. Government.
Brigadier General James Rainey, Deputy Commanding General (Maneuver), Regional Command (South), 4th Infantry Division, Kandahar Airfield, Afghanistan | 3.5′ × 5.5′ handmade Belgian wool rug. Rec'd—10/22/2013. Est. Value—$500.00. Disposition—Pending purchase from General Services Administration by recipient. Currently located at Regional (South) 4th Infantry Division Headquarters Building, Kandahar Airfield, Afghanistan | Major General Abdul Raziq Sherzai, Commander of the Kandahar Air Wing Commander of the Islamic Republic of Afghanistan | Non-acceptance would cause embarrassment to donor and U.S. Government.
Lieutenant General Charles T. Cleveland, Commanding, USASOC | Pearl earrings and matching necklace. Marble decorative peacock plate. Embelished cashmere stole. Sterling silver medallion and marble holder. Indian Army presentation plaque. Rec'd—12/1/2013. Est. Value—$643.20. Disposition—On display for official use only at Headquarters, USASOC, 2929, Desert Storm Drive, Fort Bragg, NC, 28310 | Lieutenant General Bikram Singh, Chief of Army Staff of the Indian Army | Non-acceptance would cause embarrassment to donor and U.S. Government.

AGENCY: Department of the Navy
[Report of Tangible Gifts and Travel Furnished by the Department of the Navy]
Name and title of person accepting the gift on behalf of the U.S. Government | Gift, date of acceptance on behalf of the U.S. Government, estimated value, and current disposition or location | Identity of foreign donor and government | Circumstances justifying acceptance
The Honorable Ray Mabus, Secretary of the Navy | Replica of the gold raft of El Dorado “La Balsa Muisca”. Rec'd—1/11/2011. Est. Value—$625.00. Disposition—Retained by recipient for official use only | Admiral (r) Álvaro Echandía Durán, Director General of the National Directorate of Intelligence of the Republic of Colombia | Non-acceptance would cause embarrassment to donor and U.S. Government.
The Honorable Ray Mabus, Secretary of the Navy | American Tourister hardside suitcase. Five bottles of perfume. Two silk ties. Four yards of suit fabric. Longines ladies' watch. Longines men's watch. Leather box. Rec'd—11/20/2013. Est. Value—$7, 190.73. Disposition—Pending transfer to General Services Administration | Major General Hamad Al-Attiyah, Minister of State for Defense Affairs of the State of Qatar | Non-acceptance would cause embarrassment to donor and U.S. Government.
Admiral James Stavridis, U.S. Navy, Commander, U.S. Southern Command | Dominican-made Karabaly-Cristobal M2 7.62mm 1950 rifle. Rec'd—3/29/2007. Est. Value—$500.00. Disposition—In route to the Chief of Naval Operations Awards Branch | Major General Juan Campusano Lopez, Chief of Staff of the Dominican Republic Army | Non-acceptance would cause embarrassment to donor and U.S. Government.
Admiral Jonathan Greenert, U.S. Navy, Chief of Naval Operations | Rolens men's wristwatch. Rec'd—10/5/2011. Est. Value—$500.00. Disposition—Pending transfer to General Services Administration | Representative Kim Sung-Chan, Member of the Republic of Korea National Assembly | Non-acceptance would cause embarrassment to donor and U.S. Government.
Vice Admiral John Miller, U.S. Navy; Commander, U.S. Naval Forces Central Command/U.S. FIFTH Fleet/Combined Maritime Forces | Canvas painting, title: “The History of the Police Fort.” Rec'd—5/14/2012. Est. Value—$1,063.83. Disposition—Pending transfer to General Services Administration | Lieutenant General Shaikh Rashid bin Abdulla Al Khalifa, Minister of the Interior of the Kingdom of Bahrain | Non-acceptance would cause embarrassment to donor and U.S. Government.
Vice Admiral John Miller, U.S. Navy; Commander, U.S. Naval Forces Central Command/U.S. FIFTH Fleet/Combined Maritime Forces | Movado men's wristwatch. Ferrari men's wristwatch. Rec'd—6/26/2012. Est. Value—$1,124.99. Disposition—Pending transfer to General Services Administration | Staff Brigadier General Saeed Bin Hamdan Al-Nayhan, Deputy Commander of the United Arab Emirates Naval Force | Non-acceptance would cause embarrassment to donor and U.S. Government.
Vice Admiral John Miller, U.S. Navy; Commander, U.S. Naval Forces Central Command/U.S. FIFTH Fleet/Combined Maritime Forces | 14″ decorative crystal. Book, title “Oman Living Traditions”. Rec'd—12/4/2012. Est. Value—$886.00. Disposition—Retained by recipient for official use only | Lieutenant General Ahmed Al-Nabhani, Chief of the Sultan's Armed Forces of the Sultanate of Oman | Non-acceptance would cause embarrassment to donor and U.S. Government.
Vice Admiral John Miller, U.S. Navy; Commander, U.S. Naval Forces Central Command/U.S. FIFTH Fleet/Combined Maritime Forces | White iPad Mini. Two computer bags. Rec'd—2/20/2013. Est. Value—$690.00. Disposition—Retained by recipient for official use only | Staff Brigadier General Saeed Bin Hamdan Al-Nayhan, Deputy Commander of the United Arab Emirates Naval Force | Non-acceptance would cause embarrassment to donor and U.S. Government.
Vice Admiral Michael Miller, U.S. Navy; Superintendentof the U.S. Naval Academy | Omega De Ville men's wristwatch. Wooden ship. Replica of gold crown of Cheonmachong Tomb, Korean National Treasure No. 188. Rec'd—4/30/2013. Est. Value—$1,825.00. Disposition—Pending transfer to General Services Administration | Major General Khalid Mohammad Al Khonder, Commdant of Ali Al Sabah Military College of the State of Kuwait | Non-acceptance would cause embarrassment to donor and U.S. Government.
Vice Admiral John Miller, U.S. Navy; Commander, U.S. Naval Forces Central Command/U.S. FIFTH Fleet/Combined Maritime Forces | Large silver plate. Rec'd—5/14/2013. Est. Value—$365.00. Disposition—Retained by recipient for official use only | Rear Admiral Nizah Jbaily, Head of the Lebanese Navy | Non-acceptance would cause embarrassment to donor and U.S. Government.
Rear Admiral Katherine Gregory, U.S. Navy; Commanding Officer, Naval Facilities Engineering Command | Decorative glass floral sculpture. Rec'd—5/28/2013. Est. Value—$500.00. Disposition—Pending transfer to General Services Administration | Captain Park Jae-sig, Chief of Civil Engineers of the Republic of Korea Navy | Non-acceptance would cause embarrassment to donor and U.S. Government.
Vice Admiral John Miller, U.S. Navy; Commander, U.S. Naval Forces Central Command/U.S. FIFTH Fleet/Combined Maritime Forces | Jordanian dagger. Rec'd—6/11/2013. Est. Value—$530.00. Disposition—Retained by recipient for official use only | General Marshal Al-Zaben, Chairman of the Joint Chiefs of Staff of the Hashemite Kingdom of Jordan | Non-acceptance would cause embarrassment to donor and U.S. Government.
Rear Admiral James Foggo III, U.S. Navy; Assistant Deputy Chief of Naval Operations for Operations, Plans and Strategy | FIYTA wristwatch. Rec'd—9/13/2013. Est. Value—$400.00. Disposition—Pending purchase from General Services Administration by recipient | Admiral Wu Shengli, Commander of the People's Liberation Navy | Non-acceptance would cause embarrassment to donor and U.S. Government.
Vice Admiral Robert Thomas, U.S. Navy; Commander, U.S. SEVENTH Fleet | Framed calligraphy painting by Sisyu. Rec'd—11/14/2013. Est. Value—$3,400.00. Disposition—Retained by recipient for official use only | Vice Admikral Yasushi Matsushita, Commander in Chief, Japanese Maritime Self-Defense Force | Non-acceptance would cause embarrassment to donor and U.S. Government.
Captain John Bemonte, U.S. Navy; Director, Europe Command/Africa Command & North Atlantic Treaty Organization Division Security Cooperation Directorate, Navy International Programs Officer | Travel: 2013 Internal Defense Industry Fair. Rec'd—5/6-9/2013. Est. Value—$2,119.90 | Mr. Murad Bayar, Undersecretary for Defense Industries of the Ministry of National Defense of the Republic of Turkey | Non-acceptance would cause embarrassment to donor and U.S. Government.
Mr. Ross Sawtelle, Strategic Planner, Strategic Planning Directorate, Navy International Programs Office | Travel: 2013 Internal Defense Industry Fair. Rec'd—5/6-9/2013. Est. Value—$2,119.90 | Mr. Murad Bayar, Undersecretary for Defense Industries of the Ministry of National Defense of the Republic of Turkey | Non-acceptance would cause embarrassment to donor and U.S. Government.
Rear Admiral Joseph Rixey, U.S. Navy; Deputy Assistant Secretary of the Navy (International Programs)/Director, Navy International Programs Office | Travel: 2013 Paris Air Show. Rec'd—6/16-19/2013. Est. Value—$1,250.00 | His Excellency Jean-Yves Le Drian, Minister of Defense of the French Republic | Non-acceptance would cause embarrassment to donor and U.S. Government.
Lieutenant Brandr BeekmanEllner, U.S. Navy; Aide to Director, Navy International Programs | Travel: 2013 Paris Air Show. Rec'd—6/16-19/2013. Est. Value—$1,250.00 | His Excellency Jean-Yves Le Drian, Minister of Defense of the French Republic | Non-acceptance would cause embarrassment to donor and U.S. Government.
Admiral Bruce Clingan, U.S. Navy; Commander, U.S. Naval Forces Europe/U.S. Naval Forces Africa | Travel: Celebrating the 525th Anniversary of the Royal Navy. Rec'd—6/18-20/2013. Est. Value—$921.36 | Vice Admiral Borsboom, Royal Netherlands Navy | Non-acceptance would cause embarrassment to donor and U.S. Government.
Lieutenant Commander Glenn Todd, U.S. Navy; Aide de Camp to Commander, U.S. Naval Forces Europe/U.S. Naval Forces Africa | Travel: Celebrating the 525th Anniversary of the Royal Navy. Rec'd—6/18-20/2013. Est. Value—$921.36 | Vice Admiral Borsboom, Royal Netherlands Navy | Non-acceptance would cause embarrassment to donor and U.S. Government.
Mr. Jack Hurley, Personal Security Naval Criminal Investigative Agent | Travel: Celebrating the 525th Anniversary of the Royal Navy. Rec'd—6/18-20/2013. Est. Value—$921.36 | Vice Admiral Borsboom, Royal Netherlands Navy | Non-acceptance would cause embarrassment to donor and U.S. Government.

AGENCY: United States Marine Corps
[Report of Tangible Gift Furnished by the United States Marine Corps]
Name and title of person accepting the gift on behalf of the U.S. Government | Gift, date of acceptance on behalf of the U.S. Government, estimated value, and current disposition or location | Identity of foreign donor and government | Circumstances justifying acceptance
General John F. Kelly, U.S. Marine Corps, Commander, U.S. Southern Command | Cristobal M2 7.26 rifle, serial no. 37089, produced circa 1950 in the Dominican Republic and mounted in a display case. Rec'd—8/7/2013. Est. Value—$500.00. Disposition—Retained for official use only | Admiral Sigfrido Pared Perez, Minister of Defense of the Dominican Republic | Non-acceptance would cause embarrassment to donor and U.S. Government.

AGENCY: Department of Education.
[Report of Tangible Gifts and Travel Furnished by the Department of Education]
Name and title of person accepting the gift on behalf of the U.S. Government | Gift, date of acceptance on behalf of the U.S. Government, estimated value, and current disposition or location | Identity of foreign donor and government | Circumstances justifying acceptance
Ms. Carmel Martin | Travel: In kind travel to Zurich and Bern to participate in a study trip for the Swiss vocational and professional education training. Rec'd—3/16-22/2013. Est. Value—$2,570.00 | Swiss Dual System of Vocational and Professional Education | Non-acceptance would cause embarrassment to donor and U.S. Government.
Ms. Sharon Miller | Travel: In kind travel to Frankfort, Leipzig, and Berlin to participate in the German Embassy's skills initiative and study tour. Rec'd—6/29-7/6/2013. Est. Value—$4,626.20 | Organization for Economic Cooperation and Development and the Ministry of Education and Research of the Federal Republic of Germany | Non-acceptance would cause embarrassment to donor and U.S. Government.
Ms. Brenda Dann-Messier | Travel: In Kind travel to Leipzig, Germany to participate in seminar, title: “Vet and Workplace Learning for Economic Success”. Rec'd—7/2-6/2013. Est. Value—$4,353.10 | Organization for Economic Cooperation and Development | Non-acceptance would cause embarrassment to donor and U.S. Government.
Mr. Clay Pell | Travel: In kind travel to Singapore to represent the United States at the East Asia Summit Conference, title: “Bilingualism: Policy and Practice”. Rec'd—9/11-16/2013. Est. Value—$3,814.60 | Ministry of Education of the Republic of Singapore | Non-acceptance would cause embarrassment to donor and U.S. Government.
Ms. Brenda Dann-Messier | Travel: In kind travel to Istanbul, Turkey to attend informal meeting of Education Minister seminar, title: “Fostering Skills and Employability through Education”. Rec'd—9/27-10/5/2013. Est. Value—$995.00 | Organization for Economic Cooperation and Development and the Ministry of Education of the Republic of Turkey | Non-acceptance would cause embarrassment to donor and U.S. Government.
Mr. Rafael Nevarez | Travel: In kind travel to Valetta, Malta to participate in the ENIC-NARIC Conference. Rec'd—10/16-22/2013. Est. Value—$2,100.00 | The European Commission | Non-acceptance would cause embarrassment to donor and U.S. Government.

AGENCY: Department of Homeland Security
[Report of Tangible Gifts and Travel Furnished by the Department of Homeland Security]
Name and title of person accepting the gift on behalf of the U.S. Government | Gift, date of acceptance on behalf of the U.S. Government, estimated value, and current disposition or location | Identity of foreign donor and government | Circumstances justifying acceptance
The Honorable Janet Napolitano, Secretary of Homeland Security | Hardcover book, title: “Spirit of Borneo, martin and Osa Johnson's Journey 1920 & 1935, Hollywood's First Historic Glimpse,” by James Sarda and Danny Wong. Rec'd—2/21/2013. Est. Value—$350.00. Disposition—On display for official use only at 3801 Nebraska Ave. NW., Bldg 5, Room 5103, Washington, DC | The Honorable Tansri Abdul Gani Patail, Attorney General of Malaysia | Non-acceptance would cause embarrassment to donor and U.S. Government.
The Honorable Janet Napolitano, Secretary of Homeland Security | HNKA POCCNR (translation to English is NIKA) watch in white gold or sterling silver with a white band. Item number 01768694 Oct 117-3-002-95. Rec'd—5/23/2013. Est. Value—$2,976.00. Disposition—On display for official use only at 3801 Nebraska Ave. NW., Room 5103, Washington, DC | The Honorable Vladimir Kolokoltsev, Minister of Internal of the Russian Federation | Non-acceptance would cause embarrassment to donor and U.S. Government.
The Honorable Janet Napolitano, Secretary of Homeland Security | Sterling silver bell with engravings of flowers, leaves, and birds on an ornate handle. Bell has a presentation of Adam and Eve, leaves, and two doves. Hermes bright pink 100% silk scarf with designs of people, animals, trees, and flowers. Rec'd— 7/23/2013. Est. Value—$1,110.00. Disposition—On display for official use only at 3801 Nebraska Ave. NW., Room 5103, Washington, DC | His Excellency Miguel Angel Osorio Chong, Secretary of the Government of Mexico | Non-acceptance would cause embarrassment to donor and U.S. Government.
The Honorable Rand Beers, Acting Secretary of Homeland Security | Limited edition blue and white Delta brand quill pen made of resin turned by hand from solid bards with trimmings in metal alloys, polished, and platinum plated. Rec'd—12/3/2013. Est. Value—$360. Disposition—On display for official use only at 3801 Nebraska Ave. NW., Room 5103, Washington, DC | Mr. Alessandro Marangoni, Acting Deputy Chief of Police of the Italian Republic | Non-acceptance would cause embarrassment to donor and U.S. Government.
Ms. Sikina Hasham, Policy Analyst, Office of International Affairs, U.S. Department of Homeland Security | Travel: Participation in a Department of State education and cultural exchange program. Participants included interagency personnel and a Congressional delegation. Funds covered transportation and lodging costs. Rec'd—1/4/2013. Est. Value—$3,970.00 | Ministry of Foreign Affairs of the State of Qatar | Non-acceptance would cause embarrassment to donor and U.S. Government.
Mr. Kevin J. Laws, Program Manager, Cyber Crimes Center, Homeland Security Investigations | Travel: Department of Homeland Security representative at a training workshop for “Child Exploitation and Human Trafficking” Conference sponsored by ICMEC. Rec'd—1/13/2013. Est. Value—$2,794.70 | Mr. Guillermo Galarza, International Center for Missing and Exploited Children | Non-acceptance would cause embarrassment to donor and U.S. Government.
Mr. Peter Chiaro, Jr., DNDO Rad/Nuc Detection Standards Program Manager | Travel: Presented a lecture on radiation measurement-related standards at a meeting of the Japanese Standards Association. Rec'd—1/13/2013. Est. Value—$2,794.70 | Mr. Masami Tanaka, President of the Japanese Standards Association | Non-acceptance would cause embarrassment to donor and U.S. Government.
Mr. James Cole, Program Manager, Cyber Crimes Center, Homeland Security Investigations | Travel: Presented a child exploitation training to Brazilian Federal Police on behalf of INTERPOL. Rec'd—3/8/2013. Est. Value—$3,200.00 | Mr. Michael Moran, Assistant Director of the Human Trafficking and Child Exploitation Directorate of INTERPOL | Non-acceptance would cause embarrassment to donor and U.S. Government.
Mr. Alan D. Bersin, Assistant Secretary for International Affairs, U.S. Department of Homeland Security | Travel: Airfare, lodging, and meals for participation in the March 2013 meeting of the INTERPOL Executive Committee which Assistant Secretary Bersin attended in his capacity as the INTERPOL Vice President for the Americas. Rec'd—3/9-15/2013. Est. Value—$9,500.00 | INTERPOL | Non-acceptance would cause embarrassment to donor and U.S. Government.
Ms. Lori P. Miller, 3D/WARRP PM, Ag Defense Branch, Chem Bio Division, HSARPA, DHS S&T | Travel: Presenting data as subject matter expert at Republic of Korea Environmentally Friendly Animal Mortality Disposal Technology and Policy International Seminar. Rec'd— 4/24/2013. Est. Value—$3,282.00 | Ministry of Agriculture, Food, and Rural Affairs and the National Institute of Animal Science of the Republic of Korea | Non-acceptance would cause embarrassment to donor and U.S. Government.
Mr. Peter I. Buchan, Criminal Research Officer, Cyber Crimes Center, Homeland Security Investigations | Travel: Lodging, meals, travel, excess baggage fees, training materials, and incidental expenses for two weeks as ICE instructor for a training program for Abu Dhabi and Dubai police personnel sponsored by the Ministry of Interior of the United Arab Emirates. Rec'd—4/26/2013. Est. Value—$10,556.02 | General Directorate of Abu Dhabi Police of the United Arab Emirates | Non-acceptance would cause embarrassment to donor and U.S. Government.
Mr. David E. Collins, Criminal Research Officer, Cyber Crimes Center, Homeland Security Investigations | Travel: Lodging, meals, and incidental expenses for two weeks as ICE instructor for a training program for Abu Dhabi and Dubai police personnel sponsored by the Ministry of Interior of the United Arab Emirates. Rec'd—4/26/2013. Est. Value—$9,856.02 | General Directorate of Abu Dhabi Police of the United Arab Emirates | Non-acceptance would cause embarrassment to donor and U.S. Government.
Mr. Alan D. Bersin, Assistant Secretary for International Affairs, U.S. Department of Homeland Security | Travel: Airfare, lodging, and meals for participation in the June 2013 meeting of the INTERPOL Executive Committee which Assistant Secretary Bersin attended in his capacity as the INTERPOL Vice President for the Americas. Rec'd—6/15-22/2013. Est. Value—$9,500.00 | INTERPOL | Non-acceptance would cause embarrassment to donor and U.S. Government.
Mr. Mark Koumans, Principal Deputy Assistant Secretary for International Affairs, U.S. Department of Homeland Security | Travel: Airfare and lodging costs for travel to the Five Country Conference Deputy Heads of Delegation Meeting in London, UK. The purpose of the meeting was to identify gaps and overlaps in FCC security efforts and to ensure that current initiatives are advancing GCC goals related to security, service, and savings. Rec'd—6/17-20/2013. Est. Value—$4,000.00 | Immigration New Zealand | Non-acceptance would cause embarrassment to donor and U.S. Government.
Mr. Erik Barnett, Attaché to the EU, Homeland Security Investigations | Travel: HSI Representative to speak at seminar, title: “The Intellectual Property as a Strategic Driver for the Global Economy: A Multilateral Approach”. Rec'd—6/19/2013. Est. Value—$509.54 | Mr. José Manuel Gómez Bravo, Director of the International Observatory of Intellectual Property of Spain | Non-acceptance would cause embarrassment to donor and U.S. Government.
Mr. Edward Rhyne, Program Manager, Cyber Security Division, Homeland Security Advanced Research Projects Agency, Science and Technology Directorate, Department of Homeland Security | Travel: Requested by the donor to run a workshop at the 225th Annual Security in Government (SIG) Conference in Canberra, Australia. Rec'd—8/10/2013. Est. Value—$2,205.00 | Mr. Michael Jerks, Assistant Secretary of Critical Infrastructure and Protective Security Policy in the National Security Resilience Policy Division of the Attorney-General's Department of Australia | Non-acceptance would cause embarrassment to donor and U.S. Government.
Mr. Carl J. Milazzo, Deputy Assistant Director | Travel: Lodging, meals, and travel to Manly, Australia for faculty exchange. Reciprocal faculty exchange to serve as adjunct fellow for the purpose of observation and sharing of best practices in furtherance of the MOA between the Australian Institute for Police Management and the FLETC. Rec'd—8/31-9/14/2013. Est. Value—$4,802.00 | Australia's Institute of Police Management | Non-acceptance would cause embarrassment to donor and U.S. Government.
Ms. Teresa Lustig, TCA Branch Program Manager | Travel: Mission critical invitational travel. Invited speaker by Management Committee of Cost Action Es1009 at the 2nd Workshop on Local-Scale Airborne Hazards Modeling and Emergency Response. Dr. Lustig talked about her area of expertise from the viewpoint of stakeholders, emergency managers, and responders. Rec'd—9/1/2013. Est. Value—$3,024.58 | Professor Dr. Bernd Leil, Environmental Wind Tunnel Laboratory, Meteorological Institute of the University of Hamburg | Non-acceptance would cause embarrassment to donor and U.S. Government.
Ms. Lori P. Miller, 3D/WARRP PM, Ag Defense Branch, Chem Bio Division, HSARPA, DHS S&T | Travel: Department of Homeland Security representative at the European Union Anti-Bio Threat Project Briefing. Rec'd—9/9/2013. Est. Value—$2,200.00 | The Prevention of and Fight Against Crime Program of the European Commission | Non-acceptance would cause embarrassment to donor and U.S. Government.
Mr. Gerald Epstein, Deputy Assistant Secretary for Chemical, Biological, Radiological, and Nuclear Policy, PDEV | Travel: Department of Homeland Security representative at a conference on evidence based security concerns raised by dual-use biological research. Rec'd—9/15/2013. Est. Value—$1,869.00 | Dr. Mark Smith, Program Director of Wilton Park | Non-acceptance would cause embarrassment to donor and U.S. Government.
Mr. Jeffrey E. Ellis, National Program Manager, Homeland Security Investigations, Division 3/HSTU | Travel: Sole Department of Homeland Security representative at the European Union Police Service training exercise conducted in Nairobi, Kenya. Rec'd—9/15/2013. Est. Value—$1,884.00 | Ms. Andrea Torzani, Carabinieri of the Italian Republic | Non-acceptance would cause embarrassment to donor and U.S. Government.
Mr. William R. Absher | Travel: Lodging, meals, and travel to Frankfurt, Germany for faculty exchange. Reciprocal faculty exchange for the purpose of observation and sharing of best practices in furtherance of the MOA between the Ministry of the Interior for Sports and Infrastructure, Rheinland-Phalz, Germany and the FLETC. Rec'd—9/16-21/2013. Est. Value—$2,794.70 | Ministry of the Interior for Sports of the Federal Republic of Germany | Non-acceptance would cause embarrassment to donor and U.S. Government.
Mr. Michael D. Evans, Branch Chief | Travel: Lodging, meals, and travel to Frankfurt, Germany for faculty exchange. Reciprocal faculty exchange for the purpose of observation and sharing of best practices in furtherance of the MOA between the Ministry of the Interior for Sports and Infrastructure, Rheinland-Phalz, Germany and the FLETC. Rec'd—9/16-21/2013. Est. Value—$2,794.70 | Ministry of the Interior for Sports of the Federal Republic of Germany | Non-acceptance would cause embarrassment to donor and U.S. Government.
Mr. Brandon Wales, Director of the Homeland Infrastructure Threat and Risk Analysis Center | Travel: Delivered a keynote at the National Security Seminar 2013 and attended meetings with the Ministry of Home Affairs. Rec'd—9/19-27/2013. Est. Value—$2,471.11 | Mr. Kok Ping Soon, Senior Director of the National Security Coordination Center of the Republic of Singapore | Non-acceptance would cause embarrassment to donor and U.S. Government.
Mr. Majdi Y. Haddad, Investigator, HSI Attaché, Abu Dhabi | Travel: Escort delegation assesment team in furtherance of joint Abu Dhabi Police/HSI Attaché UC ops initiative. Rec'd—9/20/2013. Est. Value—$5,946.09 | Lieutenant Colonel Saleh Saeed Al Amoodi, Chief of the International Training Section, Training Department, General Directorate of Abu Dhabi Police | Non-acceptance would cause embarrassment to donor and U.S. Government.
Ms. Sikina Hasham, Policy Analyst, Office of International Affairs, U.S. Department of Homeland Security | Travel: Participation in Department of Homeland Security/Department of Justice meetings to discuss establishing a U.S.-Qatar law enforcement training academy. Funds covered transportation and lodging costs. Rec'd—9/23/2013. Est. Value—$4,900.00 | Ministry of Interior of the State of Qatar | Non-acceptance would cause embarrassment to donor and U.S. Government.
Mr. Paul DiPietra, (A) Director—Middle East, Office of International Affairs, U.S. Department of Homeland Security | Travel: Participation in Department of Homeland Security/Department of Justice meetings to discuss establishing a U.S.-Qatar law enforcement training academy. Funds covered transportation and lodging costs. Rec'd—9/23/2013. Est. Value—$4,900.00 | Ministry of Interior of the State of Qatar | Non-acceptance would cause embarrassment to donor and U.S. Government.
Mr. Daniel Ovadia, Program Specialist | Travel: Travel expenses to Doha, Qatar for training assessment. Meetings with Qatar Academy officials in connection with Department of Homeland Security/OIA proposal for FLETC, Department of Justice/ICITAP, and the Government of the State of Qatar to establish a police training and education academy in Doha, Qatar. Provide subject matter expertise in FLETC's potential role in the project. Rec'd—9/23-27/2013. Est. Value—$4,209.00 | Ministry of Interior of the State of Qatar | Non-acceptance would cause embarrassment to donor and U.S. Government.
Mr. Russel D. Polson, International Policy Advisor | Travel: Travel expenses to Doha, Qatar for training assessment. Meetings with Qatar Academy officials in connection with Department of Homeland Security/OIA proposal for FLETC, Department of Justice/ICITAP, and the Government of the State of Qatar to establish a police training and education academy in Doha, Qatar. Provide subject matter expertise in FLETC's potential role in the project. Rec'd—9/23-27/2013. Est. Value—$4,209.00 | Ministry of Interior of the State of Qatar | Non-acceptance would cause embarrassment to donor and U.S. Government.
Mr. Kendrick Yeung, Assistant Attaché | Travel: Guest speaker presenting on Child Sexual Exploitation Investigations. Rec'd—9/30/2013. Est. Value—$790.00 | Mr. Eric Huang, National Immigration Agency, Taiwan | Non-acceptance would cause embarrassment to donor and U.S. Government.

AGENCY: Department of Justice
[Report of Tangible Gifts and Travel Furnished by the Department of Justice]
Name and title of person accepting the gift on behalf of the U.S. Government | Gift, date of acceptance on behalf of the U.S. Government, estimated value, and current disposition or location | Identity of foreign donor and government | Circumstances justifying acceptance
The Honorable Eric Holder, Attorney General of the United States | Montblanc leather briefcase. Rec'd— 3/10/2013. Est. Value—$1,490.00. Disposition—Accepted on behalf of the Department of Justice and forwarded to JMD/Property | His Excellency Muhammad al Issa, Minister of Justice of the Kingdom of Saudi Arabia | Non-acceptance would cause embarrassment to donor and U.S. Government.
The Honorable Eric Holder, Attorney General of the United States | Nika men's watch. Rec'd—5/22/2013. Est. Value—$367.00. Disposition—Accepted on behalf of the Department of Justice and forwarded to JMD/Property | The Honorable Vladimir Kolokoltsev, Minister of Internal Affairs of the Russian Federation | Non-acceptance would cause embarrassment to donor and U.S. Government.
The Honorable Eric Holder, Attorney General of the United States | Silver dagger with case. Set of woman's jewelry. Rec'd—3/19/2013. Est. Value—$850.00. Disposition—Accepted on behalf of the Department of Justice and forwarded to JMD/Property | His Excellency Abd Rabbu Mansour Hadi, President of the Republic of Yemen | Non-acceptance would cause embarrassment to donor and U.S. Government.
The Honorable Eric Holder, Attorney General of the United States | Rug with case. Rec'd—10/21/2013. Est. Value—$420.00. Disposition—Accepted on behalf of the Department of Justice and forwarded to JMD/Property | Dr. Ali Bin Fatasis Al-Marri, Attorney General of the State of Qatar | Non-acceptance would cause embarrassment to donor and U.S. Government.
The Honorable Eric Holder, Attorney General of the United States | Burberry men's scarf. Rec'd—12/13/2013. Est. Value—$425.00. Disposition—Accepted on behalf of the Department of Justice and forwarded to JMD/Property | Colonel Mohamed Abdulaziz Al-Nassr, Security Attaché of the Embassy of the State of Qatar | Non-acceptance would cause embarrassment to donor and U.S. Government.
The Honorable Eric Holder, Attorney General of the United States | Travel: Hotel accommodations for the 2013 Quintet in New Zealand. Rec'd—5/6-8/2013. Est. Value—$550.00 | The Honorable Christopher Finlayson, Attorney General of New Zealand | Non-acceptance would cause embarrassment to donor and U.S. Government.

AGENCY: Department of Treasury
[Report of Tangible Gifts Furnished by the Department of Treasury]
Name and title of person accepting the gift on behalf of the U.S. Government | Gift, date of acceptance on behalf of the U.S. Government, estimated value, and current disposition or location | Identity of foreign donor and government | Circumstances justifying acceptance
The Honorable Jacob Lew, Secretary of the Treasury | 2013 Chinese Year of the Dragon silver coin set. Rec'd—3/19/2013. Est. Value—$399.00. Disposition—Pending transfer to General Services Administration | The Honorable Zhou Xiaochuan, Governor of the People's Bank of the People's Republic of China | Non-acceptance would cause embarrassment to donor and U.S. Government.
The Honorable Jacob Lew, Secretary of the Treasury | Burberry charcoal check cashmere scarf. Wedgewood figurine, title “Bank of England Gatekeeper.” Navy G7 umbrella. The Royal Mint Medallion coin. Rec'd—5/15/2013. Est. Value—$928.00. Disposition—Pending transfer to General Services Administration | The Right Honorable George Osborne, MP, Chancellor of the Exchequer of the United Kingdom of Great Britain and Northern Ireland | Non-acceptance would cause embarrassment to donor and U.S. Government.
Ms. Lael Brainard, Under Secretary for International Affairs | Commemorative coins from the National Bank of Ukraine. Rec'd—9/20/2012. Est. Value—$385.00. Disposition—Pending transfer to General Services Administration | His Excellency Yuriy Kolobov, Minister of Finance of Ukraine | Non-acceptance would cause embarrassment to donor and U.S. Government.
Mr. Neal Wolin, Deputy Secretary | Framed black and white painting. Rec'd—11/13/2012. Est. Value—$450.00. Disposition—Pending transfer to General Services Administration | His Excellency Augustin Matata Ponyo, Prime Minister of the Democratic Rep. of the Congo | Non-acceptance would cause embarrassment to donor and U.S. Government.
Ms. Jennifer Fowler, Deputy Assistant Secretary | Leather artwork in frame. Rec'd—9/6/2013. Est. Value—$450.00. Disposition—Pending transfer to General Services Administration | Ministry of the National Treasury of the Republic of Korea | Non-acceptance would cause embarrassment to donor and U.S. Government.

AGENCY: Department of Veterans' Affairs
[Report of Tangible Gifts Furnished by the Department of Veterans' Affairs]
Name and title of person accepting the gift on behalf of the U.S. Government | Gift, date of acceptance on behalf of the U.S. Government, estimated value, and current disposition or location | Identity of foreign donor and government | Circumstances justifying acceptance
Mr. Zachary Wilgrin, Dependent of Ms. Sharon Weiner, Attorney, Office of General Counsel, Department of Veterans' Affairs | Scholarship of $1,000 USD paid directly to Yeshiva University on behalf of Zachary Welgrin. Rec'd—8/2013. Est. Value—$1,000.00. Disposition—Paid directly to Yeshiva University in New York, New York | Masa Israel Journey | Non-acceptance would cause embarrassment to donor and U.S. Government.

AGENCY: Environmental Protection Agency
[Report of Travel Furnished by the Environmental Protection Agency]
Name and title of person accepting the gift on behalf of the U.S. Government | Gift, date of acceptance on behalf of the U.S. Government, estimated value, and current disposition or location | Identity of foreign donor and government | Circumstances justifying acceptance
Dr. Vincent James Cogliano, Acting Director of EPA's Integrated Risk Information System, Office of Research and Development | Travel: Travel expenses accepted included meals, transportation, incidental expenses and lodging while in Lyon, France. EPA authorized acceptance of the cash reimbursement pursuant to exception in the Foreign Gifts and Decorations Act at 5 U.S.C. § 7342(c)(1)(B)(ii). Rec'd—2/13/2013. Est. Value—$2,225.00 | International Agency for Research on Cancer of the World Health Organization | Non-acceptance would cause embarrassment to donor and U.S. Government.
Ms. Sasha Koo-Oshima, Senior International Water Policy Advisor, Office of Water | Travel: Travel expenses accepted included meals, transportation, incidental expenses while in The Hague, Netherlands. EPA authorized acceptance of the cash reimbursement pursuant to exception in the Foreign Gifts and Decorations Act at 5 U.S.C. § 7342(c)(1)(B)(ii). Rec'd—2/23-3/2/2013. Est. Value—$1,245.66 | Organization for Economic Cooperation and Development | Non-acceptance would cause embarrassment to donor and U.S. Government.
Ms. Lesley Vazquez-Coriano, Microbiologist, Office of Water, Office of Science and Technology | Travel: Travel expenses accepted included meals and incidental expenses (e.g., internet access) and lodging while in Zurich, Switzerland. EPA authorized acceptance of the cash reimbursement pursuant to exception in the Foreign Gifts and Decorations Act at 5 U.S.C. § 7342(c)(1)(B)(ii). Rec'd—3/14-23/2013. Est. Value—$2,228.00 | World Health Organization | Non-acceptance would cause embarrassment to donor and U.S. Government.
Mr. Timothy J. Wade, Chief, Epidemiology Branch, National Health and Environmental Effects Research Laboratory | Travel: Travel expenses accepted included meals, transportation, incidental expenses, and lodging while in Zurich, Switzerland. EPA authorized acceptance of the cash reimbursement pursuant to exception in the Foreign Gifts and Decorations Act at 5 U.S.C. § 7342(c)(1)(B)(ii). Rec'd—3/16-23/2013. Est. Value—$4,293.77 | World Health Organization | Non-acceptance would cause embarrassment to donor and U.S. Government.
Ms. Stephanie Adrian, International Environmental Affairs Specialist, Office of International and Tribal Affairs | Travel: Travel expenses accepted included meals for 5 days and lodging for 4 days while in Addis Ababa, Ethiopia. EPA authorized acceptance of the cash reimbursement pursuant to exception in the Foreign Gifts and Decorations Act at 5 U.S.C. § 7342(c)(1)(B)(ii). Rec'd—4/15-20/2013. Est. Value—$825.00 | United Nations Industrial Development Organization | Non-acceptance would cause embarrassment to donor and U.S. Government.
Mr. Peter Banwell, Environmential Protection Specialist, Office of Air and Radiation, Energy Star Program | Travel: Travel expenses accepted included meals, hotel, local transportation and incidental expenses while in San Salvadar, El Salvador. EPA authorized acceptance of the cash reimbursement pursuant to exception in the Foreign Gifts and Decorations Act at 5 U.S.C. § 7342(c)(1)(B)(ii). Rec'd—4/16/2013. Est. Value—$1,074.00 | United Nations Environment Program | Non-acceptance would cause embarrassment to donor and U.S. Government.
Mr. David Duster, Environmental Scientist, Office of Enforcement, Compliance and Environmental Justice | Travel: Travel expenses accepted included meals, transportation, and incidental expenses while traveling to Singapore. EPA authorized acceptance of the cash reimbursement pursuant to exception in the Foreign Gifts and Decorations Act at 5 U.S.C. § 7342(c)(1)(B)(ii). Rec'd—5/6/2013. Est. Value—$1,326.00 | Mr. Fong Peng Keong, Director of the Pollution Control Department of the National Environment Agency of the Republic of Singapore | Non-acceptance would cause embarrassment to donor and U.S. Government.
Mr. William Davis Jones, Associate Director, International Compliance Assurance Division, Office of Enforcement and Compliance Assurance | Travel: Travel expenses accepted included meals, transportation, and incidental expenses while traveling to Singapore. EPA authorized acceptance of the cash reimbursement pursuant to exception in the Foreign Gifts and Decorations Act at 5 U.S.C. § 7342(c)(1)(B)(ii). Rec'd—5/6/2013. Est. Value—$1,326.00 | Mr. Fong Peng Keong, Director of the Pollution Control Department of the National Environment Agency of the Republic of Singapore | Non-acceptance would cause embarrassment to donor and U.S. Government.
Ms. Amy C. Miller, Deputy Director, Enforcement Division, Region IX | Travel: Travel expenses accepted included meals, transportation, and incidental expenses while traveling to Singapore. EPA authorized acceptance of the cash reimbursement pursuant to exception in the Foreign Gifts and Decorations Act at 5 U.S.C. § 7342(c)(1)(B)(ii). Rec'd—5/6/2013. Est. Value—$1,326.00 | Mr. Fong Peng Keong, Director of the Pollution Control Department of the National Environment Agency of the Republic of Singapore | Non-acceptance would cause embarrassment to donor and U.S. Government.
Mr. William Sonntag Program Analyst United States Environmental Protection Agency, Office of International and Tribal Affairs Office of Global Affairs and Policy | Travel: Travel expenses accepted included meals, transportation, incidental expenses, and lodging during travel to Dublin Ireland. EPA authorized acceptance of the cash reimbursement pursuant to exception in the Foreign Gifts and Decorations Act at 5 U.S.C. § 7342(c)(1)(B)(ii). Rec'd—5/9/2013. Est. Value—$1,219.81 | The European Environment Agency | Non-acceptance would cause embarrassment to donor and U.S. Government.
Ms. Keith Sappington, Senior Science Advisor, Office of Pesticide Programs | Travel: Lodging, meals, ground transportation while in Ottawa, Canada. EPA authorized acceptance of the cash reimbursement pursuant to exception in the Foreign Gifts and Decorations Act at 5 U.S.C. § 7342(c)(1)(B)(ii). Rec'd—4/16-28/2012. Est. Value—$1,080.00 | Health Canada, Pest Management Regulatory Agency | Non-acceptance would cause embarrassment to donor and U.S. Government.
Mr. William Sonntag, Program Analyst, Office of International and Tribal Affairs | Travel: Lodging and per diem expenses while in Copenhagen, Denmark for five days. EPA authorized acceptance of the cash reimbursement pursuant to exception in the Foreign Gifts and Decorations Act at 5 U.S.C. § 7342(c)(1)(B)(ii). Rec'd—6/23-27/2013. Est. Value—$1,870.00 | United Nations Environment Program | Non-acceptance would cause embarrassment to donor and U.S. Government.
Mr. Neil Frank, Acting Group Leader, Air Quality Analysis Group, Office of Air and Radiation | Travel: Cash reimbursement to cover per diem and incidentals for 4 days while in Beijing, China. EPA authorized acceptance of the cash reimbursement pursuant to exception in the Foreign Gifts and Decorations Act at 5 U.S.C. § 7342(c)(1)(B)(ii). Rec'd—7/9/2013. Est. Value—$398.00 | Beijing Municipal Bureau of Environmental Protection | Non-acceptance would cause embarrassment to donor and U.S. Government.
Ms. Joann Rice, Physical Scientist, Office of Air and Radiation, Office of Air Quality Planning and Standards | Travel: Cash reimbursement to cover per diem and incidentals for 4 days while in Beijing, China. EPA authorized acceptance of the cash reimbursement pursuant to exception in the Foreign Gifts and Decorations Act at 5 U.S.C. § 7342(c)(1)(B)(ii). Rec'd—7/9/2013. Est. Value—$398.00 | Beijing Municipal Bureau of Environmental Protection | Non-acceptance would cause embarrassment to donor and U.S. Government.
Mr. Daniel E. Campbell, PhD. Systems Ecologist, Office of Research and Development, National Health and Environmental Effects Research Laboratory, Atlantic Ecology Division | Travel: Travel expenses accepted included meals, transportation, incidental expenses (e.g., internet access, laundry, taxi, etc.) and lodging while in Guangzhou, the People's Republic of China. EPA authorized acceptance of the cash reimbursement pursuant to exception in the Foreign Gifts and Decorations Act at 5 U.S.C. § 7342(c)(1)(B)(ii). Rec'd—8/19/2013. Est. Value—$774.00 | Professor Lu Hongfang of the South China Botanical Garden of the Chinese Academy of Sciences | Non-acceptance would cause embarrassment to donor and U.S. Government.
Mr. Eugene Jablonowski, Senior Health Physicist, Region 5 Superfund Emergency Response | Travel: Travel expenses accepted included meals, transportation, and incidental expenses, lodging, international phone charges and government purchase card international transaction fees while in Vienna, Austria. EPA authorized acceptance of the cash reimbursement pursuant to exception in the Foreign Gifts and Decorations Act at 5 U.S.C. § 7342(c)(1)(B)(ii). Rec'd—8/24-31/2013. Est. Value—$1,807.31 | Nuclear Spectrometry and Applications Laboratory of the Physics Section, Division of Physical and Chemical Sciences of the Department of Nuclear Sciences and Applications of the International Atomic Energy Agency | Non-acceptance would cause embarrassment to donor and U.S. Government.
Mr. Michael Doherty, Ph.D., Chemist, Office of Pesticide Programs, Health Effects Division | Travel: Per diem while in Geneva, Switzerland. EPA authorized acceptance of the cash reimbursement pursuant to exception in the Foreign Gifts and Decorations Act at 5 U.S.C. § 7342(c)(1)(B)(ii). Rec'd—8/30/2013. Est. Value—$2,635.20 | Food and Agriculture Organization of the United Nations | Non-acceptance would cause embarrassment to donor and U.S. Government.
Mr. P.V. Shah, Chief, Inert Ingredient Assessment Branch, Office of Pesticide Programs, Registration Division | Travel: Meals, local transportation, and misc expenses (14 days) and Hotel (12 nights) while in Geneva, Switzerland. EPA authorized acceptance of the cash reimbursement pursuant to exception in the Foreign Gifts and Decorations Act at 5 U.S.C. § 7342(c)(1)(B)(ii). Rec'd—9/15-27/2013. Est. Value—$5,020.00 | World Health Organization | Non-acceptance would cause embarrassment to donor and U.S. Government.
Ms. Sasha Koo-Oshima, Senior International Water Policy Advisor, Office of Water | Travel: Travel expenses accepted included meals, transportation, incidental expenses while in The Hague, Netherlands. EPA authorized acceptance of the cash reimbursement pursuant to exception in the Foreign Gifts and Decorations Act at 5 U.S.C. § 7342(c)(1)(B)(ii). Rec'd—9/23-27/2013. Est. Value—$1,455.85 | Organization for Economic Cooperation and Development | Non-acceptance would cause embarrassment to donor and U.S. Government.
Mr. James Jetter, Environmental Engineer, Office of Research and Development, National Risk Management Research Laboratory | Travel: Travel expenses accepted included lodging ($560.37) and meals/incidental expenses ($179.13) while in Tegucigalpa, Honduras from 10/28/2013 to 11/1/2013. EPA authorized acceptance of the cash reimbursement pursuant to exception in the Foreign Gifts and Decorations Act at 5 U.S.C. § 7342(c)(1)(B)(ii). Rec'd—11/4-16/2013. Est. Value—$1,380.00 | Ministry of Finance of the Republic of Honduras | Non-acceptance would cause embarrassment to donor and U.S. Government.
Ms. Diane Nacci, Research Biologist, Office of Research and Development | Travel: Cash reimbursement received for meals, lodging and transportation within France during travel. EPA authorized acceptance of the cash reimbursement pursuant to exception in the Foreign Gifts and Decorations Act at 5 U.S.C. § 7342(c)(1)(B)(ii). Rec'd—11/4/2013. Est. Value—$858.73 | The French National Research Agency | Non-acceptance would cause embarrassment to donor and U.S. Government.
Mr. Eugene Jablonowski, Senior Health Physicist, Region 5 Superfund Emergency Response | Travel: Travel expenses accepted included meals and incidental expenses, lodging, and transportation while in Vienna, Austria. EPA authorized acceptance of the cash reimbursement pursuant to exception in the Foreign Gifts and Decorations Act at 5 U.S.C. § 7342(c)(1)(B)(ii). Rec'd—11/4-16/2013. Est. Value—$1,380.00 | Department of Nuclear Energy, Division of Nuclear Fuel Cycle and Waste Technology of the International Atomic Energy Agency | Non-acceptance would cause embarrassment to donor and U.S. Government.
Ms. Lesley Vazquez D'Anglada, Microbiologist | Travel: Travel expenses accepted included meals and incidental expenses (e.g., internet access) and lodging while in New Delhi, India. EPA authorized acceptance of the cash reimbursement pursuant to exception in the Foreign Gifts and Decorations Act at 5 U.S.C. § 7342(c)(1)(B)(ii). Rec'd—11/8-14/2013. Est. Value—$888.00 | World Health Organization | Non-acceptance would cause embarrassment to donor and U.S. Government.
Mr. David Bussard, Director, National Center for Environmental Assessment-Washington Division | Travel: Travel expenses accepted included cash payment of to cover lodging, meals, local transportation and incidentals while in Utrecht, Netherlands. EPA authorized acceptance of the cash reimbursement pursuant to exception in the Foreign Gifts and Decorations Act at 5 U.S.C. § 7342(c)(1)(B)(ii). Rec'd—11/13/2013. Est. Value—$1,845.00 | International Program on Chemical Safety of the World Health Organization | Non-acceptance would cause embarrassment to donor and U.S. Government.
Mr. Vincent James Cogliano, Acting Director, Integrated Risk Information System, Office of Research on Development | Travel: Travel expenses accepted include 3 days per diem expenses, lodging, meals, incidental expenses, and local transportation while in Lyon, France. EPA authorized acceptance of the cash reimbursement pursuant to exception in the Foreign Gifts and Decorations Act at 5 U.S.C. § 7342(c)(1)(B)(ii). Rec'd—11/16-20/2013. Est. Value—$740.00 | International Agency for Research on Cancer of the World Health Organization | Non-acceptance would cause embarrassment to donor and U.S. Government.
Mr. Weihsueh A. Chiu, Supervisory Physical Scientist, Office of Research and Development | Travel: Travel expenses accepted included meals, transportation, incidental expenses and lodging while in Utrecht, Netherlands. EPA authorized acceptance of the cash reimbursement pursuant to exception in the Foreign Gifts and Decorations Act at 5 U.S.C. § 7342(c)(1)(B)(ii). Rec'd—11/17-23/2013. Est. Value—$1,800.00 | World Health Organization | Non-acceptance would cause embarrassment to donor and U.S. Government.
Ms. Santhini Ramasamy, Senior Toxicologist, Office of Water | Travel: Cash reimbursement for lodging, meals, and incidentals while in Geneva, Switzerland. EPA authorized acceptance of the cash reimbursement pursuant to exception in the Foreign Gifts and Decorations Act at 5 U.S.C. § 7342(c)(1)(B)(ii). Rec'd—12/13/2013. Est. Value—$2,272.00 | World Health Organization | Non-acceptance would cause embarrassment to donor and U.S. Government.

AGENCY: Federal Communications Commission
[Report of Travel Furnished by the Federal Communications Commission]
Name and title of person accepting the gift on behalf of the U.S. Government | Gift, date of acceptance on behalf of the U.S. Government, estimated value, and current disposition or location | Identity of foreign donor and government | Circumstances justifying acceptance
Mr. Troy Tanner, Deputy Chief, International Bureau | Travel: Travel expenses originating and terminating entirely outside of the U.S. for conference to address and participate in a three day workshop, title: “Telecommunicaitons for the Inclusive Development and Regional Integration for the Andean Contries”. Rec'd—5/20-23/2013. Est. Value—$522.00 | Ms. Veroncia Zavala, General Manager of the Office of Strategic Planning and Development, Inter-American Development Bank | Non-acceptance would cause embarrassment to donor and U.S. Government.
Ms. Mindel De La Torre, Bureau Chief, International Bureau | Travel: Travel expenses originating and terminating entirely outside of the U.S. for conference, title: “The Digital Agenda Challenge” to participate as a panelist. Rec'd—7/1/2013. Est. Value—$1,179.00 | Ms. Mafalda Resende, Conference Secretariat of ANACOM of the Portuguese Republic | Non-acceptance would cause embarrassment to donor and U.S. Government.
Ms. Jonathan Levy, Deputy Chief Economist, Office of Strategic Planning & Policy Analysis | Travel: Travel expenses orginating and terminating entirelly outside of the U.S. for conference to address and participate in a two-day seminar, title: “Broadcasting Regulation in the Era of Convergence: Communication Regulation and Consumer Protection”. Rec'd—8/27-9/1/2013. Est. Value—$12,133.00 | Mr. Takorn Tantasith, Secretary General of the National Broadcasting and Telecommunication Commission of the Kingdom of Thailand | Non-acceptance would cause embarrassment to donor and U.S. Government.
Mr. Steven Rosenberg, Chief Data Officer, Wireline Competition Bureau | Travel: Travel expenses originating and terminating entirely outside of the U.S. for conference to represented the FCC at the International Telecommunication Union (ITU) event (ITU Training on Broadband Policy) presenting material on how the U.S. has implemented its National Broadband Plan to an audience of international regulators and service providers. Rec'd—10/27-11/3/2013. Est. Value—$6,050.00 | Mr. Ashish Narayan, Program Coordinator of the International Telecommuncations Union of the Kingdom of Thailand | Non-acceptance would cause embarrassment to donor and U.S. Government.

AGENCY: National Archives and Records Administration
[Report of Tangible Gifts Furnished by National Archives and Records Administration]
Name and title of person accepting the gift on behalf of the U.S. Government | Gift, date of acceptance on behalf of the U.S. Government, estimated value, and current disposition or location | Identity of foreign donor and government | Circumstances justifying acceptance
Ms. Patrice Murray, Archives Specialist | Cartier pen. Rec'd—8/16/2013. Est. Value—$460. Disposition—Pending transfer to National Archives Trust Fund | His Excellency Majid Sultan Almehairi, Executive Director, National Center for Documentation, Ministry of Presidential Affairs of the United Arab Emirates | Non-acceptance would cause embarrassment to donor and U.S. Government.
Mr. Michael Carlson | Cartier pen. Rec'd—8/16/2013. Est. Value—$460. Disposition—Pending transfer to National Archives Trust Fund | His Excellency Majid Sultan Almehairi, Executive Director, National Center for Documentation, Ministry of Presidential Affairs of the United Arab Emirates | Non-acceptance would cause embarrassment to donor and U.S. Government.
Ms. Wilda Logan | Cartier pen. Rec'd—8/16/2013. Est. Value—$460. Disposition—Pending transfer to National Archives Trust Fund | His Excellency Majid Sultan Almehairi, Executive Director, National Center for Documentation, Ministry of Presidential Affairs of the United Arab Emirates | Non-acceptance would cause embarrassment to donor and U.S. Government.
Ms. Lisa Haralampus | Cartier pen. Rec'd—8/16/2013. Est. Value—$460. Disposition—Pending transfer to National Archives Trust Fund | His Excellency Majid Sultan Almehairi, Executive Director, National Center for Documentation, Ministry of Presidential Affairs of the United Arab Emirates | Non-acceptance would cause embarrassment to donor and U.S. Government.
Ms. Susan Page | Cartier pen. Rec'd—8/16/2013. Est. Value—$460. Disposition—Pending transfer to National Archives Trust Fund | His Excellency Majid Sultan Almehairi, Executive Director, National Center for Documentation, Ministry of Presidential Affairs of the United Arab Emirates | Non-acceptance would cause embarrassment to donor and U.S. Government.
Ms. Amy Lubick | Cartier pen. Rec'd—8/16/2013. Est. Value—$460. Disposition—Pending transfer to National Archives Trust Fund | His Excellency Majid Sultan Almehairi, Executive Director, National Center for Documentation, Ministry of Presidential Affairs of the United Arab Emirates | Non-acceptance would cause embarrassment to donor and U.S. Government.

AGENCY: Office of the Director of National Intelligence
[Report of Tangible Gifts Furnished by the Office of the Director of National Intelligence]
Name and title of person accepting the gift on behalf of the U.S. Government | Gift, date of acceptance on behalf of the U.S. Government, estimated value, and current disposition or location | Identity of foreign donor and government | Circumstances justifying acceptance
5 U.S.C. § 7342(f)(4), as amended | 6″ × 10.5″ enameled silver processional group of an elephant with elaborate howdah flanked by a mounted horse and a mounted camel with a seed pearl bridle on a floral enameled and silver chased bottom stand in a fitted red brocade silk case. Rec'd -5/20/2013. Est. Value—$500.00. Disposition—Retained for official use only | 5 U.S.C. § 7342(f)(4), as amended | Non-acceptance would cause embarrassment to donor and U.S. Government.

AGENCY: Office of National Drug Control Policy
[Report of Tangible Gifts Furnished by the Office of National Drug Control Policy]
Name and title of person accepting the gift on behalf of the U.S. Government | Gift, date of acceptance on behalf of the U.S. Government, estimated value, and current disposition or location | Identity of foreign donor and government | Circumstances justifying acceptance
The Honorable R. Gil Kerlikowske, Director of National Drug Control Policy | Glass enclosed framed shadow box containing Russian medals. Rec'd—11/13/2013. Est. Value—$500.00. Disposition—Retained for official use only in the Office of Supply Reduction | Mr. Viktor Ivanov, Director of Federal Drug Control Service of the Russian Federation and Chairman of State Anti-Drug Committee | Non-acceptance would cause embarrassment to donor and U.S. Government.

AGENCY: U.S. House of Representatives
[Report of Tangible Gifts and Travel Furnished by the U.S. House of Representatives]
Name and title of person accepting the gift on behalf of the U.S. Government | Gift, date of acceptance on behalf of the U.S. Government, estimated value, and current disposition or location | Identity of foreign donor and government | Circumstances justifying acceptance
The Honorable John Boehner, Speaker of the House | Mongolian horse head fiddle and case. Rec'd—4/2/2013. Est. Value—$850.00. Disposition—Office of the Clerk of the House of Representatives | His Excellency Zandaakhuu Enkhbold, Chairman of the State Great Hural of Mongolia | Non-acceptance would cause embarrassment to donor and U.S. Government.
The Honorable Dana Rohrabacher, Member of Congress | Bottle of Sarajishvili 20th century cognac. Rec'd—2/22/2013. Est. Value—$1,400.00. Disposition—Retained for official use only in 2300 Rayburn House Office Building | His Excellency Irakli Garibashvili, Minister of Internal Affairs of Georgia | Non-acceptance would cause embarrassment to donor and U.S. Government.
The Honorable Rob Bishop, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Jim Cooper, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Jim Costa, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Diana DeGette, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Charles W. Dent, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Gene Green, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Timothy F. Murphy, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable Tim Ryan, Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.
The Honorable F. James Sensenbrenner, Jr., Member of Congress | Travel: Ground transportation in Berlin and Munich, Germany. Rec'd—3/23-29/2013. Est. Value—Unknown | Ms. Renée Krebs, Office of the Parliamentary Friendship Groups of the Federal Republic of Germany | Non-acceptance would cause embarrassment to donor and U.S. Government.

AGENCY: United States Senate
[Report of Tangible Gifts and Travel Furnished by the United States Senate]
Name and title of person accepting the gift on behalf of the U.S. Government | Gift, date of acceptance on behalf of the U.S. Government, estimated value, and current disposition or location | Identity of foreign donor and government | Circumstances justifying acceptance
The Honorable Carl Levin, United States Senator | Large rug. Rec'd—4/30/2013. Est. Value—$500.00. Disposition-Deposited with the Secretary of the Senate | His Excellency Eklil Ahmad Hakimi, Ambassador of the Islamic Republic of Afghanistan to the United States | Non-acceptance would cause embarrassment to donor and U.S. Government.
Mr. James A. Wolfe, Director of Security, Select Committee on Intelligence, United States Senate | Victorinox Swiss Army Watch. Rec'd—5/2/2013. Est. Value—$599.00. Disposition-Deposited with the Secretary of the Senate | His Majesty King Abdullah II ibn Al Hussein, King of the Hashemite Kingdom of Jordan | Non-acceptance would cause embarrassment to donor and U.S. Government.
The Honorable James E. Risch, United States Senator | Silver jewel encrusted handcrafted elephant. Box of assorted Heladiv tea. Rec'd—5/15/2013. Est. Value—$400.00. Disposition-Deposited with the Secretary of the Senate | Mr. Ajith Nivard Cabraal, Governor of the Central Bank of the Democratic Socialist Republic of Sri Lanka | Non-acceptance would cause embarrassment to donor and U.S. Government.
The Honorable John Barrasso, United States Senator | Silver jewel encrusted handcrafted elephant. Box of assorted Heladiv tea. Rec'd—5/15/2013. Est. Value—$400.00. Disposition-Deposited with the Secretary of the Senate | Mr. Ajith Nivard Cabraal, Governor of the Central Bank of the Democratic Socialist Republic of Sri Lanka | Non-acceptance would cause embarrassment to donor and U.S. Government.
The Honorable Lamar Alexander, United States Senator | 6” red and gold vase. Rec'd—11/11/2013. Est. Value—$400.00. Disposition-Deposited with the Secretary of the Senate | King Pu-tsung, Representative of the Taipei Economic and Cultural Representative Office in the United States | Non-acceptance would cause embarrassment to donor and U.S. Government.
The Honorable Marco Rubio, United States Senator | Travel: Transportation expense. Rec'd—2/20/2013. Est. Value—Unknown | Government of the State of Israel | Non-acceptance would cause embarrassment to donor and U.S. Government.
Mr. Jamie Fly, Counselor for Foriegn and National Security Affairs, Office of United States Senator Marco Rubio, United States Senate | Travel: Transportation expense. Rec'd—2/20/2013. Est. Value—Unknown | Government of the State of Israel | Non-acceptance would cause embarrassment to donor and U.S. Government.
Mr. Brian Walsh, Professional Staff Member, Select Committee on Intelligence, United States Senate | Travel: Transportation expense. Rec'd—2/20/2013. Est. Value—Unknown | Government of the State of Israel | Non-acceptance would cause embarrassment to donor and U.S. Government.
The Honorable Robert Menendez, United States Senate | Travel: Transportation expense. Rec'd—5/28/2013. Est. Value—Unknown | Government of the State of Israel | Non-acceptance would cause embarrassment to donor and U.S. Government.
Mr. Daniel O'Brien, Chief of Staff, Senator Robert Menendez, United States Senate | Travel: Transportation expense. Rec'd—5/28/2013. Est. Value—Unknown | Government of the State of Israel | Non-acceptance would cause embarrassment to donor and U.S. Government.
Mr. Ilan Goldenberg, Professional Staff Member, Committee on Foreign Relations, United States Senate | Travel: Transportation expense. Rec'd—5/28/2013. Est. Value—Unknown | Government of the State of Israel | Non-acceptance would cause embarrassment to donor and U.S. Government.
Ms. Jodi Herman, Chief Counsel, Committee on Foreign Relations, United States Senate | Travel: Transportation expense. Rec'd—5/28/2013. Est. Value—Unknown | Government of the State of Israel | Non-acceptance would cause embarrassment to donor and U.S. Government.
The Honorable Bob Corker, United States Senator | Travel: Transportation expense. Rec'd—7/6/2013. Est. Value—Unknown | Government of the Islamic Republic of Pakistan | Non-acceptance would cause embarrassment to donor and U.S. Government.
Mr. Jamil Jaffer, Minority Chief Counsel, Committee on Foreign Relations, United States Senate | Travel: Transportation expense. Rec'd—7/6/2013. Est. Value—Unknown | Government of the Islamic Republic of Pakistan | Non-acceptance would cause embarrassment to donor and U.S. Government.
Mr. Michael Phelan, Minority Professional Staff Member, Committee on Foreign Relations, United States Senate | Travel: Transportation expense. Rec'd—7/6/2013. Est. Value—Unknown | Government of the Islamic Republic of Pakistan | Non-acceptance would cause embarrassment to donor and U.S. Government.
The Honorable Bill Nelson, United States Senator | Travel: Transportation expense. Rec'd—8/4-5/2013. Est. Value—Unknown | Government of the Republic of Haiti | Non-acceptance would cause embarrassment to donor and U.S. Government.
Mrs. Grace Nelson, Spouse, United States Senator Bill Nelson | Travel: Transportation expense. Rec'd—8/4-5/2013. Est. Value—Unknown | Government of the Republic of Haiti | Non-acceptance would cause embarrassment to donor and U.S. Government.
Mr. Marin Stein, Legislative Assistant, Office of Senator Bill Nelson, United States Senate | Travel: Transportation expense. Rec'd—8/4-5/2013. Est. Value—Unknown | Government of the Republic of Haiti | Non-acceptance would cause embarrassment to donor and U.S. Government.
The Honorable Bob Corker, United States Senator | Travel: Transportation expense. Rec'd—8/15/2013. Est. Value—Unknown | Government of the Hashemite Kingdom of Jordan | Non-acceptance would cause embarrassment to donor and U.S. Government.
Mr. Jamil Jaffer, Minority Chief Counsel, Committee on Foreign Relations, United States Senate | Travel: Transportation expense. Rec'd—8/15/2013. Est. Value—Unknown | Government of the Hashemite Kingdom of Jordan | Non-acceptance would cause embarrassment to donor and U.S. Government.
Ms. Stacie Oliver, Professional Staff Member, Committee on Foreign Relations, United States Senate | Travel: Transportation expense. Rec'd—8/15/2013. Est. Value—Unknown | Government of the Hashemite Kingdom of Jordan | Non-acceptance would cause embarrassment to donor and U.S. Government.
The Honorable John Thune, United States Senator | Travel: Transportation expense. Rec'd—8/24/2013. Est. Value—Unknown | Government of the Republic of Rwanda | Non-acceptance would cause embarrassment to donor and U.S. Government.
The Honorable Roy Blunt, United States Senator | Travel: Transportation expense. Rec'd—8/24/2013. Est. Value—Unknown | Government of the Republic of Rwanda | Non-acceptance would cause embarrassment to donor and U.S. Government.
The Honorable Mike Johanns, United States Senator | Travel: Transportation expense. Rec'd—8/24/2013. Est. Value—Unknown | Government of the Republic of Rwanda | Non-acceptance would cause embarrassment to donor and U.S. Government.
Mrs. Stephanie Johanns, Spouse, United States Senator Mike Johanns | Travel: Transportation expense. Rec'd—8/24/2013. Est. Value—Unknown | Government of the Republic of Rwanda | Non-acceptance would cause embarrassment to donor and U.S. Government.
The Honorable John Barrasso, United States Senator | Travel: Transportation expense. Rec'd—8/24/2013. Est. Value—Unknown | Government of the Republic of Rwanda | Non-acceptance would cause embarrassment to donor and U.S. Government.
Mrs. Bobette Barrasso, Spouse, United States Senator John Barrasso | Travel: Transportation expense. Rec'd—8/24/2013. Est. Value—Unknown | Government of the Republic of Rwanda | Non-acceptance would cause embarrassment to donor and U.S. Government.
The Honorable Saxby Chambliss, United States Senator | Travel: Transportation expense. Rec'd—8/24/2013. Est. Value—Unknown | Government of the Republic of Rwanda | Non-acceptance would cause embarrassment to donor and U.S. Government.
Mrs. Julianne Chambliss, Spouse, United States Senator Saxby Chambliss | Travel: Transportation expense. Rec'd—8/24/2013. Est. Value—Unknown | Government of the Republic of Rwanda | Non-acceptance would cause embarrassment to donor and U.S. Government.
The Honorable Lindsay Graham, United States Senator | Travel: Transportation expense. Rec'd—8/24/2013. Est. Value—Unknown | Government of the Republic of Rwanda | Non-acceptance would cause embarrassment to donor and U.S. Government.
Ms. Virginia McKay Boney, Deputy Appropriations Director, Senator Lindsay Graham | Travel: Transportation expense. Rec'd—8/24/2013. Est. Value—Unknown | Government of the Republic of Rwanda | Non-acceptance would cause embarrassment to donor and U.S. Government.
Mr. Andres King, Deputy Chief of Staff, Senator Lindsey Graham | Travel: Transportation expense. Rec'd—8/24/2013. Est. Value—Unknown | Government of the Republic of Rwanda | Non-acceptance would cause embarrassment to donor and U.S. Government.
Mr. Paul Grove, Minority Clerk, Committee on Appropriations, Subcommittee on State, Foreign Organizations, and Related Programs | Travel: Transportation expense. Rec'd—8/24/2013. Est. Value—Unknown | Government of the Republic of Rwanda | Non-acceptance would cause embarrassment to donor and U.S. Government

[FR Doc. 2014-26782 Filed 11-10-14; 8:45 am]

BILLING CODE 4710-20-P]